DEPARTMENT OF THE INTERIOR

Fish and Wildlife Service

50 CFR Parts 32, 36, and 71

[Docket No. FWS-HQ-NWRS-2020-0013; FXRS12610900000-201-FF09R20000]

RIN 1018-BE50

2020-2021 Station-Specific Hunting and Sport Fishing Regulations

AGENCY: Fish and Wildlife Service, Interior.

ACTION: Proposed rule.

SUMMARY: We, the U.S. Fish and Wildlife Service (Service), propose to open, for the first time, eight National Wildlife Refuges (NWRs) that are currently closed to hunting and sport fishing. In addition, we propose to open or expand hunting and sport fishing at 89 other NWRs, and add pertinent station-specific regulations for other NWRs that pertain to migratory game bird hunting, upland game hunting, big game hunting, and sport fishing for the 2020-2021 season. We also propose to open hunting or sport fishing on nine units of the National Fish Hatchery System (NFHs). We also propose to add pertinent station-specific regulations that pertain to migratory game bird hunting, upland game hunting, big game hunting, and sport fishing at these nine NFHs for the 2020-2021 season. Further, we propose to open 41 limited-interest easement NWRs in North Dakota for upland game and big game hunting, and sport fishing in accordance with State regulations. Access to these NWRs is controlled by the current landowners, and, therefore, they are not fully open to the public unless authorized by the landowner. We also propose to make regulatory changes to existing station-specific regulations in order to reduce the regulatory burden on the public, increase access for hunters and anglers on Service lands and waters, and comply with a Presidential mandate for plain language standards. Lastly, we propose to prohibit domestic sheep, goat, and camelid pack animals on the Arctic National Wildlife Refuge.

DATES:

Written comments: We will accept comments received or postmarked on or before June 8, 2020.

Information Collection Requirements: If you wish to comment on the information collection requirements in this proposed rule, please note that the Office of Management and Budget (OMB) is required to make a decision concerning the collection of information contained in this proposed rule between 30 and 60 days after publication of this proposed rule in the Federal Register. Therefore, comments should be submitted to OMB, with a copy provided to the U.S. Fish and Wildlife Service Information Collection Clearance Officer, by June 8, 2020.

ADDRESSES: Written comments: You may submit comments by one of the following methods:

• Electronically: Go to the Federal eRulemaking Portal: http://www.regulations.gov. In the Search box, type in FWS-HQ-NWRS-2020-0013, which is the docket number for this rulemaking. Then, click on the Search button. On the resulting screen, find the correct document and submit a comment by clicking on “Comment Now!”

• By hard copy: Submit by U.S. mail or hand delivery: Public Comments Processing, Attn: FWS-HQ-NWRS-2020-0013; U.S. Fish and Wildlife Service; 5275 Leesburg Pike, MS: PRB/PERMA (JAO); Falls Church, VA 22041-3803.

We will not accept email or faxes. We will post all comments on http://www.regulations.gov. This generally means that we will post any personal information you provide us (see Request for Comments, below, for more information). For information on specific refuges' or hatcheries' public use programs and the conditions that apply to them or for copies of compatibility determinations for any refuge(s), contact individual programs at the addresses/phone numbers given in Available Information for Specific Stations under SUPPLEMENTARY INFORMATION.

Information collection requirements: Send your comments on the requested revision of the information collection request (ICR) to the Desk Officer for the Department of the Interior at OMB-OIRA at 202-395-5806 (fax) or oira_submission@omb.eop.gov (email). Please provide a copy of your comments to the Service Information Collection Clearance Officer, U.S. Fish and Wildlife Service, 5275 Leesburg Pike, MS: PRB/PERMA (JAO), Falls Church, VA 22041-3803 (mail); or Info_Coll@fws.gov (email). Please reference OMB Control Number 1018-0140 in the subject line of your comments.

FOR FURTHER INFORMATION CONTACT: Katherine Harrigan, (703) 358-2440.

SUPPLEMENTARY INFORMATION:

Background

The National Wildlife Refuge System Administration Act of 1966 closes NWRs in all States except Alaska to all uses until opened. The Secretary of the Interior (Secretary) may open refuge areas to any use, including hunting and/or sport fishing, upon a determination that the use is compatible with the purposes of the refuge and National Wildlife Refuge System mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review hunting and sport fishing programs to determine whether to include additional stations or whether individual station regulations governing existing programs need modifications. Changing environmental conditions, State and Federal regulations, and other factors affecting fish and wildlife populations and habitat may warrant modifications to station-specific regulations to ensure the continued compatibility of hunting and sport fishing programs and to ensure that these programs will not materially interfere with or detract from the fulfillment of station purposes or the Service's mission.

Provisions governing hunting and sport fishing on refuges are in title 50 of the Code of Federal Regulations in part 32 (50 CFR part 32), and on hatcheries in part 71 (50 CFR part 71). We regulate hunting and sport fishing to:

• Ensure compatibility with refuge and hatchery purpose(s);

• Properly manage fish and wildlife resource(s);

• Protect other values;

• Ensure visitor safety; and

• Provide opportunities for fish- and wildlife-dependent recreation.

On many stations where we decide to allow hunting and sport fishing, our general policy of adopting regulations identical to State hunting and sport fishing regulations is adequate in meeting these objectives. On other stations, we must supplement State regulations with more-restrictive Federal regulations to ensure that we meet our management responsibilities, as outlined under Statutory Authority, below. We issue station-specific hunting and sport fishing regulations when we open wildlife refuges and fish hatcheries to migratory game bird hunting, upland game hunting, big game hunting, or sport fishing. These regulations may list the wildlife species that you may hunt or fish; seasons, bag or creel (container for carrying fish) limits; methods of hunting or sport fishing; descriptions of areas open to hunting or sport fishing; and other provisions as appropriate.

Statutory Authority

The National Wildlife Refuge System Administration Act of 1966 (Administration Act; 16 U.S.C. 668dd-668ee, as amended by the National Wildlife Refuge System Improvement Act of 1997 [Improvement Act]) governs the administration and public use of refuges, and the Refuge Recreation Act of 1962 (16 U.S.C. 460k-460k-4) (Recreation Act) governs the administration and public use of refuges and hatcheries.

Amendments enacted by the Improvement Act were built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are hunting, fishing, wildlife observation and photography, and environmental education and interpretation.

The Recreation Act authorizes the Secretary to administer areas within the Refuge System and Hatchery System for public recreation as an appropriate incidental or secondary use only to the extent that doing so is practicable and not inconsistent with the primary purpose(s) for which Congress and the Service established the areas. The Recreation Act requires that any recreational use of refuge or hatchery lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop station-specific regulations to ensure the compatibility of the programs with the purpose(s) for which we established the refuge or hatchery and the Refuge and Hatchery System mission. We ensure initial compliance with the Administration Act and the Recreation Act for hunting and sport fishing on newly acquired land through an interim determination of compatibility made at or near the time of acquisition. These regulations ensure that we make the determinations required by these acts prior to adding refuges to the lists of areas open to hunting and sport fishing in 50 CFR parts 32 and 71. We ensure continued compliance by the development of comprehensive conservation plans and step-down management plans, and by annual review of hunting and sport fishing programs and regulations.

Proposed Amendments to Existing Regulations

Updates to Hunting and Fishing Opportunities on NWRs and NFHs

This document proposes to codify in the Code of Federal Regulations all of the Service's hunting and/or sport fishing regulations that we would update since the last time we published a rule amending these regulations (84 FR 47640; September 10, 2019) and that are applicable at Refuge System and Hatchery System units previously opened to hunting and/or sport fishing. We propose this to better inform the general public of the regulations at each station, to increase understanding and compliance with these regulations, and to make enforcement of these regulations more efficient. In addition to now finding these regulations in 50 CFR parts 32 and 71, visitors to our refuges and hatcheries may find them reiterated in literature distributed by each station or posted on signs.

Table 1—Proposed Changes for 2020-2021 Hunting/Sport Fishing Season
Station | State | Migratory bird hunting | Upland game hunting | Big game hunting | Sport fishing
Abernathy Fish Technology Center | Washington | Closed | Closed | Closed | A.
Alamosa | Colorado | D | D | Already Open | B.
Arthur R. Marshall Loxahatchee | Florida | D | Closed | C | D.
Assabet River | Massachusetts | C | C | C/D | Already Open.
Balcones Canyonlands | Texas | Already Open | Already Open | D | Closed.
Bamforth | Wyoming | Closed | A | A | Closed.
Banks Lake | Georgia | Closed | Closed | B | Already Open.
Berkshire NFH | Massachusetts | Closed | Closed | Closed | A.
Big Branch Marsh | Louisiana | E | C/E | Already Open | Already Open.
Bitter Lake | New Mexico | E | Already Open | D | Closed.
Black Bayou Lake | Louisiana | Already Open | Already Open | E | Already Open.
Blackwater | Maryland | D | Closed | D | Already Open.
Block Island | Rhode Island | B | Closed | D | Already Open.
Bogue Chitto | Louisiana and Mississippi | E | E | E | Already Open.
Bombay Hook | Delaware | C/D | C/D | D | B.
Bosque del Apache | New Mexico | C/D | C/D | C/D/E | Already Open.
Browns Park | Colorado | Already Open | Already Open | C | Already Open.
Buenos Aires | Arizona | C | C | C | Closed.
Buffalo Lake | Texas | B | C/D | Already Open | Closed.
Cabeza Prieta | Arizona | B | B | C | Closed.
Canaan Valley | West Virginia | D | D | D | B.
Carolina Sandhills | South Carolina | Already Open | C | Already Open | Already Open.
Catahoula | Louisiana | C | Already Open | Already Open | Already Open.
Cedar Island | North Carolina | E | Closed | Closed | Closed.
Cibola | Arizona and California | E | C/D | D | Already Open.
Clarks River | Kentucky | Already Open | C | Already Open | Already Open.
Cokeville Meadows | Wyoming | C | Already Open | Already Open | B.
Coldwater River | Mississippi | C | C | Already Open | Already Open.
Crab Orchard | Illinois | D/E | Already Open | D/E | Already Open.
Crescent Lake | Nebraska | C/D | D | C | E.
Dahomey | Mississippi | C | C | E | Already Open.
Deer Flat | Idaho and Oregon | Already Open | Already Open | Already Open | D.
Dwight D. Eisenhower NFH | Vermont | Closed | Closed | Closed | A.
Edwin B. Forsythe | New Jersey | Already Open | Already Open | Already Open | D.
Eufaula | Georgia and Alabama | E | Already Open | Already Open | Already Open.
Everglades Headwaters | Florida | A | A | A | A.
Fallon | Nevada | A | A | A | Closed.
Fish Springs | Utah | C | B | B | Closed.
Flint Hills | Kansas | Already Open | C | E | Already Open.
Fort Niobrara | Nebraska | B | B | C/E | Already Open.
Great Meadows | Massachusetts | D | B | C/D | Already Open.
Great River | Illinois and Missouri | C | Already Open | E | Already Open.
Hart Mountain | Oregon | B | C/D | Already Open | Already Open.
Horicon | Wisconsin | C | C | C | Already Open.
Hutton Lake | Wyoming | Already Open | B | B | Closed.
Iroquois | New York | D/E | E | E | Already Open.
John W. and Louise Seier | Nebraska | A | A | A | Closed.
John H. Chafee | Rhode Island | A | A | A | A.
Jordan River NFH | Michigan | A | A | A | Closed.
Kirwin | Kansas | C | C/E | D | E.
Kootenai | Idaho | C | Already Open | Already Open | D.
Lacreek | South Dakota | D | C/D | C/D | Already Open.
Laguna Atascosa | Texas | Closed | Closed | C | Already Open.
Lamar NFH | Pennsylvania | Closed | Closed | Closed | A.
Leavenworth NFH | Washington | B | B | B | Already Open.
Lee Metcalf | Montana | Already Open | B | D | D.
Leslie Canyon | Arizona | A | A | A | Closed.
Little White Salmon NFH | Washington | B | B | B | Already Open.
Lower Rio Grande Valley | Texas | D/E | B | C/D/E | Closed.
Marais des Cygnes | Kansas | C/E | C/E | E | Already Open.
Mattamuskeet | North Carolina | E | Closed | Already Open | Already Open.
Merced | California | C | Closed | Closed | Closed.
Middle Mississippi River | Illinois and Missouri | C | C | Already Open | Already Open.
Minidoka | Idaho | C/D | C/D | C/D/E | Already Open.
Monte Vista | Colorado | D | D | Already Open | Closed.
Montezuma | New York | C | B | E | D.
Muscatatuck | Indiana | B | C | E | Already Open.
Nestucca Bay | Oregon | C | Closed | Closed | Already Open.
Ninigret | Rhode Island | Closed | B | C/E | Already Open.
Northern Tallgrass Prairie | Minnesota | D | D | D | D.
North Platte | Nebraska | Closed | C/E | D/E | Already Open.
Ottawa | Ohio | D | D | D | Already Open.
Overflow | Arkansas | C | Already Open | Already Open | Already Open.
Oxbow | Massachusetts | D | C/D/E | C/D/E | Already Open.
Pahranagat | Nevada | Already Open | D | Closed | Already Open.
Pathfinder | Wyoming | C | Already Open | Already Open | Closed.
Patoka River | Indiana | C/D | C/D | D | D.
Quivira | Kansas | C | C | B | Already Open.
Rachel Carson | Maine | Already Open | Already Open | Already Open | D.
Rydell | Minnesota | B | B | E | Already Open.
Sachuest Point | Rhode Island | Closed | B | B | Already Open.
San Diego Bay | California | Closed | Closed | Closed | A.
San Luis | California | Already Open | E | Closed | Already Open.
Savannah | South Carolina and Georgia | Already Open | C | C | Already Open.
Seatuck | New York | Closed | Closed | B | Already Open.
Spring Creek NFH | Washington | B | B | B | Already Open.
Stewart B. McKinney | Connecticut | D/E | Closed | B | Closed.
Stillwater | Nevada | Already Open | Already Open | C | Closed.
St. Marks | Florida | Already Open | D/E | D/E | Already Open.
St. Vincent | Florida | Closed | E | E | Already Open.
Swan River | Montana | Already Open | Closed | C | Already Open.
Swanquarter | North Carolina | E | Closed | Closed | Closed.
Tallahatchie | Mississippi | C | C | E | Already Open.
Tennessee | Tennessee | C/D | C/E | E | Already Open.
Tensas River | Louisiana | Already Open | C | Already Open | Already Open.
Tishomingo | Oklahoma | Already Open | Closed | Already Open | E.
Trustom Pond | Rhode Island | C | B | B | Already Open.
Turnbull | Washington | E | Closed | Already Open | Closed.
Two Rivers | Illinois and Missouri | D | D | D | Already Open.
Umbagog | New Hampshire and Maine | Already Open | Already Open | Already Open | B.
Union Slough | Iowa | C | C | Already Open | Already Open.
Valentine | Nebraska | C/D | C | C | Already Open.
Wapato Lake | Oregon | A | Closed | Closed | Closed.
Wertheim | New York | Closed | Closed | C/E | Already Open.
Willapa | Washington | Already Open | Already Open | D | Already Open.
Willard NFH | Washington | Closed | Closed | Closed | A.
Key: A = New station opened (Opening).
B = New activity on a station previously open to other activities (Opening).
C = Station already open to activity but added new species to hunt (Opening).
D = Station already open to activity, but added new lands/waters or modified areas open to hunting or fishing (Expansion).
E = Station already open to activity, but existing opportunity expanded through season dates, method of take, bag limits, quota permits, youth hunt, etc. (Expansion).

The changes for the 2020-2021 hunting/fishing season noted in the table above are each based on a complete administrative record which, among other detailed documentation, also includes a hunt plan, a compatibility determination (for refuges), and the appropriate National Environmental Policy Act (NEPA; 42 U.S.C. 4321 et seq.) analysis, all of which were the subject of a public review and comment process. These documents are available upon request.

Through these openings and expansions, we are proposing to open or expand hunting or sport fishing on 2,300,501 acres within the National Wildlife Refuge System and the National Fish Hatchery System.

Limited-Interest Openings in North Dakota

We are also proposing to open limited-interest NWRs (easement refuges) to hunting and fishing in accordance with State regulations and with access controlled by the current landowners. These easement refuges in North Dakota are a unique mix of government-owned and private property that were established during the 1930s in response to drought and economic depression in North Dakota. The Easement Refuge Program began in 1935 and executed agreements that granted the Federal Government migratory bird and flowage easements, many of them perpetual, for the purposes of water conservation, drought relief, and migratory bird and wildlife conservation. The overarching purpose of the program is management of migratory birds, with these easements serving as breeding grounds for many migratory waterfowl. The easements thus established were later formally designated NWRs and became the 41 easement refuges that the Service now administers (and which the Service retains the right to close to hunting/fishing, and later open, these easement refuges for wildlife, safety, or other reasons).

We propose to open all 41 of these easement refuges to upland game and big game hunting, with migratory bird hunting prohibited due to the migratory bird management purpose of these refuges. It would also open 38 of the easement refuges to sport fishing, as the remaining 3 are already open to sport fishing. This would open a total of 47,419 acres to hunting and fishing, subject to the permission of current landowners.

Other Updates to the Regulations for NWRs

We propose one change to 50 CFR part 36, the regulations concerning Alaska NWRs. Specifically, we propose to prohibit domestic sheep, goats, and camelids on the Arctic National Wildlife Refuge. The purpose of this prohibition is to prevent the spread of diseases and parasites to native wildlife populations, including mountain goats, musk oxen, and especially Dall's sheep. Dall's sheep in Alaska, including on the Arctic National Wildlife Refuge, are free of domestic livestock diseases and are believed to have very low immunity to many of these diseases. Domestic sheep, goats, and camelids (e.g., llamas and alpacas) are recognized as being at high risk for carrying disease organisms, often asymptomatically, that are highly contagious and cause severe illness or death in Dall's sheep.

Fish Advisory

For health reasons, anglers should review and follow State-issued consumption advisories before enjoying recreational sport fishing opportunities on Service-managed waters. You can find information about current fish-consumption advisories on the internet at: http://www.epa.gov/fish-tech.

Request for Comments

You may submit comments and materials on this proposed rule by any one of the methods listed in ADDRESSES. We will not accept comments sent by email or fax or to an address not listed in ADDRESSES. We will not consider hand-delivered comments that we do not receive, or mailed comments that are not postmarked, by the date specified in DATES.

We will post your entire comment on http://www.regulations.gov. Before including personal identifying information in your comment, you should be aware that we may make your entire comment—including your personal identifying information—publicly available at any time. While you can ask us in your comment to withhold your personal identifying information from public review, we cannot guarantee that we will be able to do so. We will post all hardcopy comments on http://www.regulations.gov.

Required Determinations

Clarity of This Proposed Rule

Executive Orders 12866 and 12988 and the Presidential Memorandum of June 1, 1998, require us to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

Regulatory Planning and Review (Executive Orders 12866 and 13563)

Executive Order 12866 provides that the Office of Information and Regulatory Affairs (OIRA) will review all significant rules. OIRA has determined that this rulemaking is not significant.

Executive Order (E.O.) 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Executive Order 13771—Reducing Regulation and Controlling Regulatory Costs

This proposed rule is not an Executive Order (E.O.) 13771 (82 FR 9339, February 3, 2017) regulatory action because this proposed rule is not significant under E.O. 12866.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule will not have a significant economic impact on a substantial number of small entities.

As a preface to this analysis, note that this proposed rule would open 41 easement refuges to hunting and/or sport fishing, but because these openings are subject to landowner permission, there is no direct economic impact of the regulatory action and the indirect effects are not reasonably foreseeable as they depend on the non-economic decisions of private individuals.

This proposed rule would open or expand hunting and sport fishing on 97 NWRs and 9 NFHs. As a result, visitor use for wildlife-dependent recreation on these stations will change. If the stations establishing new programs were a pure addition to the current supply of those activities, it would mean an estimated maximum increase of 24,763 user days (one person per day participating in a recreational opportunity; see Table 2). Because the participation trend is flat in these activities since 1991, this increase in supply will most likely be offset by other sites losing participants. Therefore, this is likely to be a substitute site for the activity and not necessarily an increase in participation rates for the activity.

Table 2—Estimated Maximum Change in Recreation Opportunities in 2020-2021
[Dollars in thousands]
Station | Additional hunting days | Additional fishing days | Additional expenditures
Abernathy Fish Technology Center (FTC) |  |  |
Alamosa | 75 | 200 | $9.4
Arthur R. Marshall (ARM) Loxahatchee | 57 | 242 | 10.3
Assabet River | 195 |  | 6.5
Balcones Canyonlands | 30 |  | 1.0
Bamforth | 25 |  | 0.8
Banks Lake | 6 |  | 0.2
Berkshire NFH |  | 365 | 12.6
Big Branch Marsh | 38 |  | 1.3
Bitter Lake | 16 |  | 0.5
Black Bayou Lake |  |  |
Blackwater |  |  |
Block Island | 67 |  | 2.2
Bogue Chitto | 75 |  | 2.5
Bombay Hook | 50 | 365 | 14.3
Bosque del Apache | 1,796 |  | 59.8
Browns Park | 40 |  | 1.3
Buenos Aires | 100 |  | 3.3
Buffalo Lake | 12 |  | 0.4
Cabeza Prieta | 1,525 |  | 50.7
Canaan Valley |  | 365 | 12.6
Carolina Sandhills |  |  |
Catahoula |  |  |
Cedar Island | 150 |  | 5.0
Cibola | 800 |  | 26.6
Clarks River | 760 |  | 25.3
Cokeville Meadows | 5 | 30 | 1.2
Coldwater River |  |  |
Crab Orchard | 21 |  | 0.7
Crescent Lake | 200 | 600 | 27.4
Dahomey | 15 |  | 0.5
Deer Flat |  | 120 | 4.2
Dwight D. Eisenhower NFH |  | 365 | 12.6
Edwin B. Forsythe |  |  |
Eufaula | 1 |  |
Everglades Headwater | 140 | 365 | 17.3
Fallon | 3,883 |  | 129.2
Fish Springs | 21 |  | 0.7
Flint Hills | 50 |  | 1.7
Fort Niobrara | 60 |  | 2.0
Great Meadows | 178 |  | 5.9
Great River | 55 |  | 1.8
Hart Mountain | 100 |  | 3.3
Horicon | 110 |  | 3.7
Hutton Lake | 100 |  | 3.3
Iroquois | 160 |  | 5.3
John W. and Louise Seier | 200 |  | 6.7
John H. Chafee | 178 | 365 | 18.6
Jordan NFH | 17 |  | 0.6
Kirwin | 245 |  | 8.2
Kootenai |  | 50 | 1.7
Lacreek | 275 |  | 9.1
Laguna Atascosa | 75 |  | 3.2
Lamar NFH |  | 365 | 12.6
Leavenworth NFH |  |  |
Lee Metcalf | 200 |  | 6.7
Leslie Canyon | 116 |  | 3.9
Little White Salmon NFH | 50 |  | 1.7
Lower Rio Grande Valley | 48 |  | 1.6
Marais des Cygnes | 25 |  | 0.8
Mattamuskeet | 64 |  | 2.1
Merced | 50 |  | 1.7
Middle Mississippi River | 35 |  | 1.2
Minidoka | 100 |  | 3.3
Monte Vista | 25 |  | 0.8
Montezuma | 211 |  | 7.0
Muscatatuck | 53 |  | 1.8
Nestucca Bay | 32 |  | 1.1
Ninigret | 46 |  | 1.5
North Platte | 27 |  | 0.9
Northern Tallgrass Prairie | 82 | 7 | 3.0
Ottawa | 20 |  | 0.7
Overflow |  |  |
Oxbow | 207 |  | 6.9
Pahranagat | 99 |  | 3.3
Pathfinder | 20 |  | 0.7
Patoka River | 89 | 15 | 3.5
Quivira | 425 |  | 14.1
Rachel Carson |  |  |
Rydell | 110 |  | 3.7
Sachuest Point | 30 |  | 1.0
San Diego Bay |  | 365 | 12.6
San Luis | 50 |  | 1.7
Savannah | 1,245 |  |
Seatuck | 90 |  | 3.0
Spring Creek NFH | 20 |  | 0.7
St. Marks | 520 |  | 17.3
St. Vincent | 300 |  | 10.0
Stewart B. McKinney | 262 |  | 8.7
Stillwater | 63 |  | 2.1
Swan River | 15 |  | 0.5
Swanquarter | 75 |  | 2.5
Tallahatchie | 15 |  | 0.5
Tennessee | 265 |  | 8.8
Tensas |  |  |
Tishomingo |  | 525 | 18.2
Trustom Pond |  |  |
Turnbull | 120 |  | 4.0
Two Rivers | 162 |  | 5.4
Umbagog |  | 365 | 12.6
Union Slough | 15 |  | 0.5
Valentine | 750 |  | 25.0
Wapato Lake | 2,304 |  | 76.7
Wertheim | 81 |  | 2.7
Willapa | 492 |  | 16.4
Willard NFH |  |  |
Total | 19,689 | 5,074 | 830.8

To the extent visitors spend time and money in the area of the station that they would not have spent there anyway, they contribute new income to the regional economy and benefit local businesses. Due to the unavailability of site-specific expenditure data, we use the national estimates from the 2016 National Survey of Fishing, Hunting, and Wildlife Associated Recreation to identify expenditures for food and lodging, transportation, and other incidental expenses. Using the average expenditures for these categories with the maximum expected additional participation of the Refuge System and the Hatchery System yields approximately $830,800 in recreation-related expenditures (see Table 2, above). By having ripple effects throughout the economy, these direct expenditures are only part of the economic impact of these recreational activities. Using a national impact multiplier for hunting activities (2.51) derived from the report “Hunting in America: An Economic Force for Conservation” and for fishing activities (2.51) derived from the report “Sportfishing in America” yields a total maximum economic impact of approximately $3.3 million (2019 dollars) (Southwick Associates, Inc., 2018). Using a local impact multiplier would yield more accurate and smaller results. However, we employed the national impact multiplier due to the difficulty in developing local multipliers for each specific region.

Since we know that most of the fishing and hunting occurs within 100 miles of a participant's residence, then it is unlikely that most of this spending will be “new” money coming into a local economy; therefore, this spending will be offset with a decrease in some other sector of the local economy. The net gain to the local economies will be no more than $3.3 million, and likely less. Since 80 percent of the participants travel less than 100 miles to engage in hunting and fishing activities, their spending patterns will not add new money into the local economy and, therefore, the real impact will be on the order of about $654,000 annually.

Small businesses within the retail trade industry (such as hotels, gas stations, taxidermy shops, bait-and-tackle shops, and similar businesses) may be affected by some increased or decreased station visitation. A large percentage of these retail trade establishments in the local communities around NWRs and NFHs qualify as small businesses (see Table 3, below). We expect that the incremental recreational changes will be scattered, and so we do not expect that the rule will have a significant economic effect on a substantial number of small entities in any region or nationally. As noted previously, we expect at most $830,800 to be spent in total in the refuges' local economies. The maximum increase will be less than two-tenths of 1 percent for local retail trade spending (see Table 3, below). Table 3 does not include entries for those NWRs and NFHs for which we project no changes in recreation opportunities in 2020-2021; see Table 2, above.

Table 3—Comparative Expenditures for Retail Trade Associated With Additional Station Visitation for 2020-2021
[Thousands, 2019 dollars]
Station/county(ies) | Retail trade in 2012 1 | Estimated maximum addition from new activities | Addition as % of total | Establishments in 2012 1 | Establishments with fewer than 10 employees in 2012 1
Alamosa:
Alamosa, CO | $312,549 | $4.7 | <0.01% | 85 | 62
Conejos, CO | 40,009 | 4.7 | 0.01 | 18 | 12
ARM Loxahatchee:
Palm Beach, FL | 21,936,473 | 10.3 | <0.01 | 5,236 | 3,925
Assabet River:
Middlesex, MA | 23,767,638 | 6.5 | <0.01 | 5,156 | 3,594
Balcones Canyonlands:
Travis, TX | 17,352,705 | 0.3 | <0.01 | 3,469 | 2,432
Burnet, TX | 687,767 | 0.3 | <0.01 | 182 | 148
Williamson, TX | 9,559,523 | 0.3 | <0.01 | 1,277 | 840
Bamforth:
Albany, WY | 533,993 | 0.8 | <0.01 | 141 | 103
Banks Lake:
Lanier, GA | D | 0.2 | D | 21 | 17
Berkshire NFH:
Berkshire, MA | 2,134,074 | 12.6 | <0.01 | 711 | 508
Big Branch Marsh:
St. Tammany, LA | 3,953,819 | 1.3 | <0.01 | 915 | 656
Bitter Lake:
Chaves, NM | 996,707 | 0.5 | <0.01 | 233 | 153
Block Island:
Washington, RI | 1,865,967 | 2.2 | <0.01 | 548 | 394
Bogue Chitto:
St. Tammany, LA | 3,953,819 | 0.8 | <0.01 | 915 | 656
Washington, LA | 330,750 | 0.8 | <0.01 | 138 | 104
Pearl River, MS | 531,519 | 0.8 | <0.01 | 172 | 128
Bombay Hook:
Kent, DE | 2,996,217 | 14.3 | <0.01 | 561 | 368
Bosque del Apache:
Socorro, NM | 133,401 | 59.8 | 0.04 | 39 | 31
Browns Park:
Moffat, CO | 224,866 | 1.3 | <0.01 | 72 | 58
Buenos Aires:
Pima, AZ | 12,668,688 | 3.3 | <0.01 | 2,770 | 1,857
Buffalo Lake:
Randall, TX | 2,009,993 | 0.4 | <0.01 | 352 | 247
Cabeza Prieta:
Yuma, AZ | 2,222,557 | 25.4 | <0.01 | 449 | 302
Pima, AZ | 12,668,688 | 25.4 | <0.01 | 2,770 | 1,857
Canaan Valley:
Tucker, WV | 55,811 | 12.6 | 0.02 | 28 | 18
Cedar Island:
Carteret, NC | 1,083,228 | 5.0 | <0.01 | 363 | 276
Cibola:
La Paz, AZ | 485,448 | 13.3 | <0.01 | 81 | 57
Imperial, CA | 1,867,209 | 13.3 | <0.01 | 446 | 297
Clarks River:
Marshall, KY | 436,873 | 8.4 | <0.01 | 103 | 54
Graves, KY | 449,527 | 8.4 | <0.01 | 123 | 90
McCracken, KY | 1,824,502 | 8.4 | <0.01 | 411 | 256
Cokeville Meadows:
Lincoln, WY | 201,089 | 1.2 | <0.01 | 79 | 54
Crab Orchard:
Williamson, IL | 1,243,002 | 0.2 | <0.01 | 271 | 185
Union, IL | 186,073 | 0.2 | <0.01 | 64 | 47
Jackson, IL | 1,122,791 | 0.2 | <0.01 | 225 | 143
Crescent Lake:
Garden, NE | 13,232 | 27.4 | 0.21 | 12 | 8
Dahomey:
Bolivar, MS | 413,290 | 0.5 | <0.01 | 161 | 120
Deer Flat:
Canyon, ID | 2,393,412 | 2.1 | <0.01 | 485 | 351
Malheur, OR | 595,184 | 2.1 | <0.01 | 120 | 78
Dwight D. Eisenhower NFH:
Rutland, VT | 1,205,694 | 12.6 | <0.01 | 411 | 303
Eufaula:
Quitman, GA | 13,494 | <0.1 | <0.01 | 10 | 10
Stewart, GA | 19,042 | <0.1 | <0.01 | 15 | 15
Barbour, AL | 229,916 | <0.1 | <0.01 | 94 | 77
Russell, AL | 556,440 | <0.1 | <0.01 | 155 | 120
Everglades Headwater:
Polk, FL | 7,232,622 | 8.7 | <0.01 | 1,756 | 1,317
Okeechobee, FL | 565,749 | 8.7 | <0.01 | 157 | 120
Fallon:
Churchill, NV | 261,819 | 129.2 | 0.05 | 69 | 50
Fish Springs:
Juab, UT | 127,530 | 0.7 | <0.01 | 33 | 23
Flint Hills:
Coffey, KS | 123,995 | 0.8 | <0.01 | 50 | 35
Lyon, KS | 549,988 | 0.8 | <0.01 | 162 | 121
Fort Niobrara:
Cherry, NE | 97,237 | 2.0 | <0.01 | 38 | 27
Great Meadows:
Middlesex, MA | 23,767,638 | 5.9 | <0.01 | 5,156 | 3,594
Great River:
Pike, IL | 194,031 | 0.6 | <0.01 | 53 | 36
Clark, MO | 130,470 | 0.6 | <0.01 | 36 | 28
Shelby, MO | 65,630 | 0.6 | <0.01 | 35 | 25
Hart Mountain:
Lake, OR | 83,366 | 3.3 | <0.01 | 30 | 22
Horicon:
Dodge, WI | 927,521 | 1.8 | <0.01 | 234 | 159
Fond du Lac, WI | 1,561,559 | 1.8 | <0.01 | 354 | 225
Hutton Lake:
Albany, WY | 533,993 | 3.3 | <0.01 | 141 | 103
Iroquois:
Genesee, NY | 874,965 | 2.7 | <0.01 | 219 | 163
Orleans, NY | 281,049 | 2.7 | <0.01 | 95 | 65
John W. and Louise Seier:
Rock, NE | 7,556 | 6.7 | 0.09 | 7 | 5
John H. Chafee:
Washington, RI | 1,865,967 | 18.6 | <0.01 | 548 | 394
Jordan River NFH:
Antrim, MI | 188,903 | 0.6 | <0.01 | 88 | 77
Kirwin:
Phillips, KS | 57,317 | 8.2 | 0.01 | 35 | 27
Kootenai:
Boundary, ID | 111,427 | 1.7 | <0.01 | 47 | 37
Lacreek:
Bennett, SD | 36,017 | 9.1 | 0.03 | 15 | 9
Laguna Atascosa:
Cameron, TX | 4,593,067 | 3.2 | <0.01 | 1,119 | 758
Lamar NFH:
Clinton, PA | 648,726 | 12.6 | <0.01 | 121 | 82
Lee Metcalf:
Ravalli, MT | 368,170 | 6.7 | <0.01 | 166 | 124
Leslie Canyon:
Cochise, AZ | 1,411,126 | 3.9 | <0.01 | 408 | 301
Little White Salmon NFH:
Skamania, WA | 28,090 | 1.7 | 0.01 | 21 | 18
Lower Rio Grande Valley:
Willacy, TX | 131,872 | 0.5 | <0.01 | 32 | 24
Hildalgo, TX | 175,611 | 0.5 | <0.01 | 26 | 20
Starr, TX | 484,809 | 0.5 | <0.01 | 135 | 98
Marais des Cygnes:
Linn, KS | 59,571 | 0.8 | <0.01 | 35 | 25
Mattamuskeet:
Hyde, NC | 33,868 | 2.1 | 0.01 | 36 | 35
Merced:
Merced, CA | 2,181,912 | 1.7 | <0.01 | 528 | 348
Middle Mississippi River:
Monroe, IL | 536,378 | 0.4 | <0.01 | 96 | 72
Randolph, IL | 415,738 | 0.4 | <0.01 | 100 | 62
Jefferson, MO | 435,265 | 0.4 | <0.01 | 128 | 92
Minidoka:
Power, ID | 32,991 | 0.8 | <0.01 | 16 | 13
Cassia, ID | 360,659 | 0.8 | <0.01 | 116 | 89
Blaine, ID | 332,491 | 0.8 | <0.01 | 183 | 153
Minidoka, ID | 175,875 | 0.8 | <0.01 | 62 | 47
Monte Vista:
Alamosa, CO | 312,549 | 0.4 | <0.01 | 85 | 64
Rio Grande, CO | 111,147 | 0.4 | <0.01 | 48 | 41
Montezuma:
Cayuga, NY | 973,987 | 2.3 | <0.01 | 260 | 195
Seneca, NY | 545,489 | 2.3 | <0.01 | 183 | 114
Wayne, NY | 915,984 | 2.3 | <0.01 | 267 | 181
Muscatatuck:
Jackson, IN | 660,019 | 0.9 | <0.01 | 183 | 140
Jennings, IN | 219,265 | 0.9 | <0.01 | 66 | 58
Nestucca Bay:
Lincoln, OR | 646,693 | 1.1 | <0.01 | 307 | 251
Ninigret:
Washington, RI | 1,865,967 | 1.5 | <0.01 | 548 | 394
North Platte:
Scotts Bluff, NE | D | 0.9 | D | 178 | 128
Northern Tallgrass Prairie:
Pipestone, MN | 150,875 | 1.0 | <0.01 | 52 | 40
Pope, MN | 154,224 | 1.0 | <0.01 | 41 | 32
Swift, MN | 104,292 | 1.0 | <0.01 | 45 | 32
Ottawa:
Ottawa, OH | 476,239 | 0.7 | <0.01 | 144 | 109
Oxbow:
Middlesex, MA | 23,767,638 | 3.4 | <0.01 | 5,156 | 3,594
Worcester, MA | 12,155,780 | 3.4 | <0.01 | 2,572 | 1,788
Pahranagat:
Lincoln, NV | D | 3.3 | D | 16 | 6
Pathfinder:
Natrona, WY | 1,656,388 | 0.3 | <0.01 | 363 | 262
Carbon, WY | 340,129 | 0.3 | <0.01 | 86 | 73
Patoka River:
Pike, IN | 80,767 | 1.7 | <0.01 | 31 | 23
Gibson, IN | 620,865 | 1.7 | <0.01 | 120 | 84
Quivira:
Stafford, KS | 38,722 | 4.7 | 0.01 | 17 | 13
Rice, KS | 55,698 | 4.7 | 0.01 | 39 | 31
Reno, KS | 911,013 | 4.7 | <0.01 | 265 | 194
Rydell:
Polk, MN | 369,241 | 3.7 | <0.01 | 109 | 74
Sachuest Point:
Newport, RI | 1,243,192 | 1.0 | <0.01 | 430 | 332
San Diego Bay:
San Diego, CA | 44,302,582 | 12.6 | <0.01 | 9,219 | 6,314
San Luis:
Merced, CA | 2,181,912 | 1.7 | <0.01 | 528 | 348
Seatuck:
Suffolk, NY | 26,383,026 | 3.0 | <0.01 | 6,524 | 3,904
Spring Creek NFH:
Skamania, WA | 28,090 | 0.3 | <0.01 | 21 | 18
Klickitat, WA | 71,785 | 0.3 | <0.01 | 47 | 36
St. Marks:
Wakulla, FL | 186,734 | 5.8 | <0.01 | 62 | 49
Jefferson, FL | 98,784 | 5.8 | 0.01 | 43 | 35
Taylor, FL | 230,580 | 5.8 | <0.01 | 86 | 67
St. Vincent:
Franklin, FL | 108,995 | 10.0 | 0.01 | 67 | 52
Stewart B. McKinney:
Fairfield, CT | 16,888,208 | 2.9 | <0.01 | 3,459 | 2,453
New Haven, CT | 12,880,670 | 2.9 | <0.01 | 2,901 | 2,015
Middlesex, CT | 2,452,586 | 2.9 | <0.01 | 659 | 455
Stillwater:
Churchill, NV | 261,819 | 2.1 | <0.01 | 69 | 50
Swan River:
Lake, MT | 66,984 | 0.5 | <0.01 | 30 | 23
Swanquarter:
Hyde, NC | 33,868 | 2.5 | 0.01 | 36 | 35
Tallahatchie:
Tallahatchie, MS | 60,260 | 0.2 | <0.01 | 40 | 36
Grenada, MS | 462,248 | 0.2 | <0.01 | 120 | 90
Tennessee:
Henry, TN | 545,041 | 2.2 | <0.01 | 139 | 98
Benton, TN | 167,976 | 2.2 | <0.01 | 59 | 47
Decator, TN | 85,132 | 2.2 | <0.01 | 45 | 35
Hunphreys, TN | 206,806 | 2.2 | <0.01 | 65 | 54
Tishomingo:
Johnston, OK | 68,010 | 9.1 | 0.01 | 35 | 31
Marshall, OK | 177,989 | 9.1 | 0.01 | 53 | 42
Turnbull:
Spokane, WA | 7,305,612 | 4.0 | <0.01 | 1,617 | 1,108
Two Rivers:
Jersey, IL | 256,816 | 1.3 | <0.01 | 69 | 49
Calhoun, IL | 30,438 | 1.3 | <0.01 | 15 | 9
Greene, IL | 139,806 | 1.3 | <0.01 | 49 | 32
St. Charlies, MO | 5,536,064 | 1.3 | <0.01 | 1,085 | 695
Umbagog:
Oxford, ME | 680,802 | 6.3 | <0.01 | 222 | 163
Coos, NH | 630,944 | 6.3 | <0.01 | 184 | 143
Union Slough:
Kossuth, IA | 274,837 | 0.5 | <0.01 | 93 | 69
Valentine:
Cherry, NE | 97,237 | 25.0 | 0.03 | 38 | 27
Wapato Lake:
Washington, OR | 9,342,147 | 38.3 | <0.01 | 1,573 | 1,002
Yamhill, OR | 987,290 | 38.3 | <0.01 | 283 | 201
Wertheim:
Suffolk, NY | 26,383,026 | 2.7 | <0.01 | 6,524 | 3,904
Willapa:
Pacific, WA | 120,098 | 16.4 | 0.01 | 89 | 68
1 U.S. Census Bureau. “D” denotes sample size too small to report data.

With the small change in overall spending anticipated from this proposed rule, it is unlikely that a substantial number of small entities will have more than a small impact from the spending change near the affected stations. Therefore, we certify that this rule, as proposed, will not have a significant economic effect on a substantial number of small entities as defined under the Regulatory Flexibility Act (5 U.S.C. 601 et seq.). A regulatory flexibility analysis is not required. Accordingly, a small entity compliance guide is not required.

Small Business Regulatory Enforcement Fairness Act

The proposed rule is not a major rule under 5 U.S.C. 804(2), the Small Business Regulatory Enforcement Fairness Act. We anticipate no significant employment or small business effects. This proposed rule:

a. Would not have an annual effect on the economy of $100 million or more. The minimal impact would be scattered across the country and would most likely not be significant in any local area.

b. Would not cause a major increase in costs or prices for consumers; individual industries; Federal, State, or local government agencies; or geographic regions. This proposed rule would have only a slight effect on the costs of hunting opportunities for Americans. If the substitute sites are farther from the participants' residences, then an increase in travel costs would occur. The Service does not have information to quantify this change in travel cost but assumes that, since most people travel less than 100 miles to hunt, the increased travel cost would be small. We do not expect this proposed rule to affect the supply or demand for hunting opportunities in the United States, and, therefore, it should not affect prices for hunting equipment and supplies, or the retailers that sell equipment.

c. Would not have significant adverse effects on competition, employment, investment, productivity, innovation, or the ability of U.S.-based enterprises to compete with foreign-based enterprises. This proposed rule represents only a small proportion of recreational spending at NWRs. Therefore, if adopted, this rule would have no measurable economic effect on the wildlife-dependent industry, which has annual sales of equipment and travel expenditures of $72 billion nationwide.

Unfunded Mandates Reform Act

Since this proposed rule would apply to public use of federally owned and managed refuges, it would not impose an unfunded mandate on State, local, or Tribal governments or the private sector of more than $100 million per year. The proposed rule would not have a significant or unique effect on State, local, or Tribal governments or the private sector. A statement containing the information required by the Unfunded Mandates Reform Act (2 U.S.C. 1531 et seq.) is not required.

Takings (E.O. 12630)

In accordance with E.O. 12630, this proposed rule would not have significant takings implications. This proposed rule would affect only visitors at NWRs and NFHs, and would describe what they can do while they are on a Service station.

Federalism (E.O. 13132)

As discussed under Regulatory Planning and Review and Unfunded Mandates Reform Act, above, this proposed rule would not have sufficient federalism implications to warrant the preparation of a federalism summary impact statement under E.O. 13132. In preparing this proposed rule, we worked with State governments.

Civil Justice Reform (E.O. 12988)

In accordance with E.O. 12988, the Department of the Interior has determined that this proposed rule would not unduly burden the judicial system and that it meets the requirements of sections 3(a) and 3(b)(2) of the Order.

Energy Supply, Distribution or Use (E.O. 13211)

On May 18, 2001, the President issued E.O. 13211 on regulations that significantly affect energy supply, distribution, and use. E.O. 13211 requires agencies to prepare Statements of Energy Effects when undertaking certain actions. Because this proposed rule would add 8 NWRs to the list of refuges open to hunting and sport fishing, open or expand hunting or sport fishing at 89 other NWRs, and open 9 NFHs to hunting and/or sport fishing, it is not a significant regulatory action under E.O. 12866, and we do not expect it to significantly affect energy supplies, distribution, or use. Therefore, this action is not a significant energy action, and no Statement of Energy Effects is required.

Consultation and Coordination With Indian Tribal Governments (E.O. 13175)

In accordance with E.O. 13175, we have evaluated possible effects on federally recognized Indian tribes and have determined that there are no effects. We coordinate recreational use on NWRs and NFHs with Tribal governments having adjoining or overlapping jurisdiction before we propose the regulations.

Paperwork Reduction Act (PRA)

This proposed rule does not contain any new collections of information that require approval by the Office of Management and Budget (OMB). All information collections require approval under the Paperwork Reduction Act of 1995 (44 U.S.C. 3501 et seq.). We may not conduct or sponsor and you are not required to respond to a collection of information unless it displays a currently valid OMB control number. The OMB has reviewed and approved the information collection requirements associated with hunting and sport fishing activities across the National Wildlife Refuge System and assigned the following OMB control numbers:

• 1018-0140, “Hunting and Sport Fishing Application Forms and Activity Reports for National Wildlife Refuges, 50 CFR 25.41, 25.43, 25.51, 26.32, 26.33, 27.42, 30.11, 31.15, 32.1 to 32.72” (Expires 07/30/2021),

• 1018-0153, “National Wildlife Refuge Visitor Check-In Permit and Use Report” (Expires 04/30/2022),

• 1018-0102, “National Wildlife Refuge Special Use Permit Applications and Reports, 50 CFR 25, 26, 27, 29, 30, 31, 32, & 36” (Expires 08/31/2020),

• 1018-0135, “Electronic Federal Duck Stamp Program” (Expires 01/31/2023),

• 1018-0093, “Federal Fish and Wildlife Permit Applications and Reports—Management Authority; 50 CFR 13, 15, 16, 17, 18, 22, 23” (Expires 08/31/2020), and

• 1024-0252, “The Interagency Access Pass and Senior Pass Application Processes” (Expires 08/31/2020).

In accordance with the PRA and 5 CFR 1320.8(d)(1), we provide the general public and other Federal agencies with an opportunity to comment on our proposal to renew OMB control number 1018-0140. This helps us assess the impact of our information collection requirements and minimize the public's reporting burden. It also helps the public understand our information collection requirements and provide the requested data in the desired format.

The Service's proposed rule (RIN 1018-BE50) would open, for the first time, eight National Wildlife Refuges (NWRs) that are currently closed to hunting and sport fishing. In addition, we propose to open or expand hunting and sport fishing at 89 other NWRs, and add pertinent station-specific regulations for other NWRs that pertain to migratory game bird hunting, upland game hunting, big game hunting, and sport fishing for the 2020-2021 season. We also propose to open hunting or sport fishing on nine units of the National Fish Hatchery System (NFHs). We also propose to add pertinent station-specific regulations that pertain to migratory game bird hunting, upland game hunting, big game hunting, and sport fishing at these nine NFHs for the 2020-2021 season. Further, we propose to open 41 limited-interest easement NWRs in North Dakota for upland game and big game hunting in accordance with State regulations. Access to these NWRs is controlled by the current landowners, and, therefore, they are not fully open to the public unless authorized by the landowner. The additional burden of information collection through the opening of these NWRs to hunting and/or sport fishing will also be included in this application to OMB to revise OMB Control No. 1018-0140.

Many refuges offer hunting and sport fishing activities without collecting any information. Those refuges that do collect hunter and angler information do so seasonally, usually once a year at the beginning of the hunting or sport fishing season. Some refuges may elect to collect the identical information via a non-form format (letter, email, or through discussions in person or over the phone). Some refuges provide the form electronically over the internet. In some cases, because of high demand and limited resources, we often provide hunt opportunities by lottery, based on dates, locations, or type of hunt.

Hunting Applications/Permit (FWS Form 3-2439, Hunt Application—National Wildlife Refuge System)

Form 3-2439 collects the following information from individuals seeking hunting experiences on the National Wildlife Refuge System:

• Lottery Application: Refuges who administer hunting via a lottery system will use Form 3-2439 as the lottery application. If the applicant is successful, the completed Form 3-2439 also serves as their permit application, avoiding a duplication of burden on the public filling out two separate forms.

• Date of application: We often have application deadlines and this information helps staff determine the order in which we received the applications. It also ensures that the information is current.

• Methods: Some refuges hold multiple types of hunts, i.e., archery, shotgun, primitive weapons, etc. We ask for this information to identify which opportunity(ies) a hunter is applying for.

• Species Permit Type: Some refuges allow only certain species, such as moose, elk, or bighorn sheep to be hunted. We ask hunters to identify which species hunt they are applying for.

• Applicant information: We collect name, address, phone number(s), and email so we can contact the applicant/permittee either during the application process, when the applicant is successful in a lottery drawing, or after receiving a permit.

• Party Members: Some refuges allow the permit applicant to include additional hunters in their group. We collect the names of all additional hunters, when allowed by the refuge.

• Parent/Guardian Contact Information: We collect name, relationship, address, phone number(s), and email for a parent/guardian of youth hunters. We ask for this information in the event of an emergency.

• Date: We ask hunters for their preferences for hunt dates.

• Hunt/Blind Location: We ask hunters for their preferences for hunt units, areas, or blinds.

• Special hunts: Some refuges hold special hunts for youth, hunters who are disabled, or other underserved populations. We ask hunters to identify if they are applying for these special hunts. For youth hunts, we ask for the age of the hunter at the time of the hunt.

• Signature and date: To confirm that the applicant (and parent/guardian, if a youth hunter) understands the terms and conditions of the permit.

Sport Fishing Application/Permit (FWS Form 3-2358, “Sport Fishing-Shrimping-Crabbing-Frogging Permit Application”)

Form 3-2358 allows the applicant to choose multiple permit activities, and requests the applicant provide the state fishing license number. The form provides the refuge with more flexibility to insert refuge-specific requirements/instructions, along with a permit number and validity dates for season issued.

We collect the following information from individuals seeking sport fishing experiences:

• Date of application: We often have application deadlines and this information helps staff determine the order in which we received the applications. It also ensures that the information is current.

• State fishing license number: We ask for this information to verify the applicant is legally licensed by the state (where required).

• Permit Type: On sport fishing permits, we ask what type of activity (crabbing, shrimping, frogging, etc.) is being applied for.

• Applicant information: We collect name, address, phone number(s), and email so we can contact the applicant/permittee either during the application process or after receiving a permit.

• Signature and date: To confirm that the applicant (and parent/guardian, if a youth hunter) understands the terms and conditions of the permit.

Harvest/Fishing Activity Reports

We have four harvest/fishing activity reports, depending on the species. We ask users to report on their success after their experience so that we can evaluate hunt quality and resource impacts. We use the following activity reports, which we distribute during appropriate seasons, as determined by State or Federal regulations:

• FWS Form 3-2359 (Big Game Harvest Report).

• FWS Form 3-2360 (Sport Fishing Report).

• FWS Form 3-2361 (Migratory Bird Hunt Report).

• FWS Form 3-2362 (Upland/Small Game/Furbearer Report).

We collect the following information on the harvest reports:

• Name of refuge and location: We ask this to track responses by location, which is important when we manage more than one refuge or activity area from one office.

• Date: We ask when the hunter/angler participated in the activity. This helps us identify use trends so we have resources available.

• Hours/Time in/out: We ask this to determine how long the hunter/angler participated in the activity. We also use this to track use so we can allocate resources appropriately.

• Name, City, State: We ask for a name so we can identify the user. We ask for residence information to help establish use patterns (if users are local or traveling).

• Number harvested/caught based on species: We ask this to determine the impacts on wildlife/fish populations, relative success, and quality of experience.

• Species harvested/caught: We ask this to determine the impacts on wildlife/fish populations, relative success, and quality of experience.

Labeling/Marking Requirements

As a condition of the permit, some refuges require permittees to label hunting and/or sport fishing gear used on the refuge. This equipment may include items such as the following: Tree stands, blinds, or game cameras; hunting dogs (collars); flagging/trail markers; boats; and/or sport fishing equipment such as jugs, trotlines, and crawfish or crab traps. Refuges require the owner label their equipment with their last name, the state issued hunting/fishing license number, and/or hunting/fishing permit number. Refuges may also require equipment for youth hunters include “YOUTH” on the label. This minimal information is necessary in the event the refuge needs to contact the owner.

Required Notifications

On occasion, hunters may find their game has landed outside of established hunting boundaries. In this situation, hunters must notify an authorized refuge employee to obtain consent to retrieve the game from an area closed to hunting or entry only upon specific consent. Certain refuges also require hunters to notify the refuge manager when hunting specific species (e.g., black bear, bobcat, or eastern coyote) with trailing dogs. Refuges encompassing privately owned lands, referred to as “easement overlay refuges” or “limited-interest easement refuges,” may also require the hunter obtain written or oral permission from the landowner prior to accessing the land.

Self-Clearing Daily Check-In/Out Permit (FWS Form 3-2405)

FWS Form 3-2405 has three parts:

• Self-Clearing Daily Check-in Permit. Each user completes this portion of the form (date of visit, name, and telephone numbers) and deposits it in the permit box prior to engaging in any activity on the refuge.

• Self-Clearing Daily Visitor Registration Permit. Each user must complete the front side of the form (date, name, city, State, zip code, and purpose of visit) and carry this portion while on the refuge. At the completion of the visit, each user must complete the reverse side of the form (number of hours on refuge, harvest information (species and number), harvest method, angler information (species and number), and wildlife sighted (e.g., black bear and hog) and deposit it in the permit box.

• Self-Clearing Daily Vehicle Permit. The driver and each user traveling in the vehicle must complete this portion (date) and display in clear view in the vehicle while on the refuge.

We use FWS Form 3-2405 to collect:

• Information on the visitor (name, address, and contact information). We use this information to identify the visitor or driver/passenger of a vehicle while on the refuge. This is extremely valuable information should visitors become lost or injured. Law enforcement officers can easily check vehicles for these cards in order to determine a starting point for the search or to contact family members in the event of an abandoned vehicle. Having this information readily available is critical in a search and rescue situation.

• Purpose of visit (hunting, sport fishing, wildlife observation, wildlife photography, auto touring, birding, hiking, boating/canoeing, visitor center, special event, environmental education class, volunteering, other recreation). This information is critical in determining public use participation in wildlife management programs. This not only allows the refuge to manage its hunt and other visitor use programs, but also to increase and/or improve facilities for non-consumptive uses that are becoming more popular on refuges. Data collected will also help managers better allocate staff and resources to serve the public as well as develop annual performance measures.

• Success of harvest by hunters/anglers (number and type of harvest/caught). This information is critical to wildlife management programs on refuges. Each refuge will customize the form by listing game species and incidental species available on the refuge, hunting methods allowed, and data needed for certain species (e.g., for deer, whether itis a buck or doe and the number of points; or for turkeys, the weight and beard and spur lengths).

• Visitors observations of incidental species. This information will help managers develop annual performance measures and it provides information to help develop resource management planning.

• Photograph of animal harvested (specific refuges only). This requirement documents the sex of animal prior to the hunter being eligible to harvest the opposite sex (where allowed).

• Date of visit and/or area visited.

• Comments. We encourage visitors to comment on their experience.

Due to the wide range of hunting and sport fishing opportunities offered on the National Wildlife Refuge and National Fish Hatchery Systems, the refuges and fish hatcheries may customize the forms to remove any fields that are not pertinent to the recreational opportunities they offer. Refuges will not add any new fields to the forms, but the order of the fields may be reorganized. Refuges may customize the forms with instructions and permit conditions specific to a particular unit for the hunting/sport fishing activity.

Title of Collection: Hunting and Fishing Application Forms and Activity Reports for National Wildlife Refuges, 50 CFR 25.41, 25.43, 25.51, 26.32, 26.33, 27.42, 30.11, 31.15, 32.1 to 32.72.

OMB Control Number: 1018-0140.

Form Number: FWS Forms 3-2405, 3-2439, and 3-2358 through 3-2362.

Type of Review: Extension of a currently approved collection.

Respondents/Affected Public: Individuals and households.

Respondent's Obligation: Required to Obtain or Retain a Benefit.

Frequency of Collection: On occasion.

Estimated Annual Non-hour Burden Cost: None.

Activity | Annual number of responses | Completion time per response (minutes) | Total annual burden hours
Hunting and Sport Fishing Permit Applications:
Form 3-2439 Hunt Application/Permit | 355,663 | 10 | 59,277
Form 3-2358 Fish/Crab/Shrimp Application/Permit | 2,521 | 5 | 210
Subtotal Applications: | 358,184 |  | 59,487
Harvest Activity Reports:
Form 3-2359 Big Game Harvest Report | 93,717 | 15 | 23,429
Form 3-2360 Sport Fishing Harvest Report | 429,534 | 15 | 107,384
Form 3-2361 Migratory Bird Harvest Report | 33,477 | 15 | 8,369
Form 3-2362 Upland Game Furbearer Harvest Report | 25,524 | 15 | 6,381
Subtotal Activity Reports: | 582,253 |  | 145,563
Labeling/Marking Requirements | 2,203 | 10 | 367
Required Notifications | 433 | 30 | 217
Form 3-2405 Check-In/Out Permit | 663,000 | 5 | 55,250
Subtotal Other Requirements: | 665,595 |  | 55,813
Totals: | 1,606,032 |  | 260,863

The above burden estimates indicate an expected total of 1,606,031 responses and 260,863 burden hours across all of our forms. These totals reflect expected increases of 31,490 responses and 5,114 burden hours relative to the 2019-2020 rule and previous ICR. We expect such increases in the use of our forms because we anticipate increased hunting and fishing activity as a direct result of the increased number of hunting and fishing opportunities on Service stations under the proposed rule.

As part of our continuing effort to reduce paperwork and respondent burdens, and in accordance with 5 CFR 1320.8(d)(1), we invite the public and other Federal agencies to comment on any aspect of this proposed information collection, including:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) Ways to minimize the burden of the collection of information on those who are to respond, including through the use of appropriate automated, electronic, mechanical, or other technological collection techniques or other forms of information technology, e.g., permitting electronic submission of response.

Send your comments and suggestions on this information collection by the date indicated in the DATES section to the Desk Officer for the Department of the Interior at OMB-OIRA at (202) 395-5806 (fax) or OIRA_Submission@omb.eop.gov (email). You may view the information collection request(s) at http://www.reginfo.gov/public/do/PRAMain. Please provide a copy of your comments to the Service Information Collection Clearance Officer, U.S. Fish and Wildlife Service, 5275 Leesburg Pike, MS: PRB/PERMA (JAO), Falls Church, VA 22041-3803 (mail); or Info_Coll@fws.gov (email). Please reference OMB Control Number 1018-0140 in the subject line of your comments.

Endangered Species Act Section 7 Consultation

We comply with section 7 of the Endangered Species Act of 1973, as amended (16 U.S.C. 1531 et seq.), when developing comprehensive conservation plans and step-down management plans—which would include hunting and/or fishing plans—for public use of refuges and hatcheries, and prior to implementing any new or revised public recreation program on a station as identified in 50 CFR 26.32. We have completed section 7 consultation on each of the affected stations.

National Environmental Policy Act

We analyzed this proposed rule in accordance with the criteria of the National Environmental Policy Act of 1969 (NEPA) (42 U.S.C. 4332(C)), 43 CFR part 46, and 516 Departmental Manual (DM) 8.

A categorical exclusion from NEPA documentation applies to publication of proposed amendments to station-specific hunting and fishing regulations because they are technical and procedural in nature, and the environmental effects are too broad, speculative, or conjectural to lend themselves to meaningful analysis (43 CFR 46.210 and 516 DM 8). Concerning the actions that are the subject of this proposed rulemaking, we have complied with NEPA at the project level when developing each proposal. This is consistent with the Department of the Interior instructions for compliance with NEPA where actions are covered sufficiently by an earlier environmental document (43 CFR 46.120).

Prior to the addition of a refuge or hatchery to the list of areas open to hunting and fishing in 50 CFR parts 32 and 71, we develop hunting and fishing plans for the affected stations. We incorporate these proposed station hunting and fishing activities in the station comprehensive conservation plan and/or other step-down management plans, pursuant to our refuge planning guidance in 602 Fish and Wildlife Service Manual (FW) 1, 3, and 4. We prepare these comprehensive conservation plans and step-down plans in compliance with section 102(2)(C) of NEPA, the Council on Environmental Quality's regulations for implementing NEPA in 40 CFR parts 1500 through 1508, and the Department of Interior's NEPA regulations 43 CFR part 46. We invite the affected public to participate in the review, development, and implementation of these plans. Copies of all plans and NEPA compliance are available from the stations at the addresses provided below.

Available Information for Specific Stations

Individual refuge and hatchery headquarters have information about public use programs and conditions that apply to their specific programs and maps of their respective areas. To find out how to contact a specific refuge or hatchery, contact the appropriate Service office for the States listed below:

Hawaii, Idaho, Oregon, and Washington. Regional Chief, National Wildlife Refuge System, U.S. Fish and Wildlife Service, Eastside Federal Complex, Suite 1692, 911 NE 11th Avenue, Portland, OR 97232-4181; Telephone (503) 231-6214.

Arizona, New Mexico, Oklahoma, and Texas. Regional Chief, National Wildlife Refuge System, U.S. Fish and Wildlife Service, P.O. Box 1306, 500 Gold Avenue SW, Albuquerque, NM 87103; Telephone (505) 248-6937.

Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5360.

Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7166.

Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Colorado, Kansas, Montana, Nebraska, North Dakota, South Dakota, Utah, and Wyoming. Regional Chief, National Wildlife Refuge System, U.S. Fish and Wildlife Service, 134 Union Blvd., Lakewood, CO 80228; Telephone (303) 236-8145.

Alaska. Regional Chief, National Wildlife Refuge System, U.S. Fish and Wildlife Service, 1011 E. Tudor Rd., Anchorage, AK 99503; Telephone (907) 786-3545.

California and Nevada. Regional Chief, National Wildlife Refuge System, U.S. Fish and Wildlife Service, 2800 Cottage Way, Room W-2606, Sacramento, CA 95825; Telephone (916) 414-6464.

Primary Author

Katherine Harrigan, Division of Natural Resources and Conservation Planning, National Wildlife Refuge System, is the primary author of this rulemaking document.

List of Subjects

50 CFR Part 32

Fishing, Hunting, Reporting and recordkeeping requirements, Wildlife, Wildlife refuges.

50 CFR Part 36

Alaska, Recreation and recreation areas, Reporting and recordkeeping requirements, Wildlife refuges.

50 CFR Part 71

Fish, Fishing, Hunting, Wildlife.

Proposed Regulation Promulgation

For the reasons set forth in the preamble, we propose to amend title 50, chapter I, subchapters C and E of the Code of Federal Regulations as follows:

Subchapter C—The National Wildlife Refuge System

PART 32—HUNTING AND FISHING

1. The authority citation for part 32 continues to read as follows:

Authority: 5 U.S.C. 301; 16 U.S.C. 460k, 664, 668dd-668ee, and 715i; Pub. L. 115-20, 131 Stat. 86.

2. Amend § 32.7 by:

a. Redesignating paragraph (c)(8) as paragraph (c)(9) and adding a new paragraph (c)(8);

b. Redesignating paragraphs (e)(17) through (22) as paragraphs (e)(18) through (23) and adding a new paragraph (e)(17);

c. Redesignating paragraphs (i)(5) through (14) as paragraphs (i)(6) through (15) and adding a new paragraph (i)(5);

d. Redesignating paragraphs (aa)(4) through (6) as paragraphs (aa)(5) through (7) and adding a new paragraph (aa)(4);

e. Redesignating paragraphs (bb)(3) through (6) as paragraphs (bb)(4) through (7) and adding a new paragraph (bb)(3);

f. Revising paragraph (hh);

g. Redesignating paragraph (kk)(20) as paragraph (kk)(21) and adding a new paragraph (kk)(20);

h. Redesignating paragraphs (mm)(2) through (4) as paragraphs (mm)(3) through (5) and adding a new paragraph (mm)(2); and

i. Redesignating paragraphs (xx)(1) through (5) as paragraphs (xx)(2) through (6) and adding a new paragraph (xx)(1).

The additions and revision read as follows:

§ 32.7 What refuge units are open to hunting and/or sport fishing?

* * * * *

(c) * * *

(8) Leslie Canyon National Wildlife Refuge.

* * * * *

(e) * * *

(17) San Diego Bay National Wildlife Refuge.

* * * * *

(i) * * *

(5) Everglades Headwaters National Wildlife Refuge.

* * * * *

(aa) * * *

(4) John W. and Louise Seier National Wildlife Refuge.

* * * * *

(bb) * * *

(3) Fallon National Wildlife Refuge.

* * * * *

(hh) North Dakota. (1) Appert Lake National Wildlife Refuge.

(2) Ardoch National Wildlife Refuge.

(3) Arrowwood National Wildlife Refuge.

(4) Arrowwood Wetland Management District.

(5) Audubon National Wildlife Refuge.

(6) Audubon Wetland Management District.

(7) Bone Hill National Wildlife Refuge.

(8) Brumba National Wildlife Refuge.

(9) Buffalo Lake National Wildlife Refuge.

(10) Camp Lake National Wildlife Refuge.

(11) Canefield Lake National Wildlife Refuge.

(12) Chase Lake National Wildlife Refuge.

(13) Chase Lake Wetland Management District.

(14) Cottonwood Lake National Wildlife Refuge.

(15) Crosby Wetland Management District.

(16) Dakota Lake National Wildlife Refuge.

(17) Des Lacs National Wildlife Refuge.

(18) Devils Lake Wetland Management District.

(19) Half Way Lake National Wildlife Refuge.

(20) Hiddenwood Lake National Wildlife Refuge.

(21) Hobart Lake National Wildlife Refuge.

(22) Hutchinson Lake National Wildlife Refuge.

(23) J. Clark Salyer National Wildlife Refuge.

(24) J. Clark Salyer Wetland Management District.

(25) Johnson Lake National Wildlife Refuge.

(26) Kulm Wetland Management District.

(27) Lake Alice National Wildlife Refuge.

(28) Lake George National Wildlife Refuge.

(29) Lake Ilo National Wildlife Refuge.

(30) Lake National Wildlife Refuge.

(31) Lake Nettie National Wildlife Refuge.

(32) Lake Otis National Wildlife Refuge.

(33) Lake Patricia National Wildlife Refuge.

(34) Lake Zahl National Wildlife Refuge.

(35) Lambs Lake National Wildlife Refuge.

(36) Little Goose Lake National Wildlife Refuge.

(37) Long Lake National Wildlife Refuge.

(38) Long Lake Wetland Management District.

(39) Lords Lake National Wildlife Refuge.

(40) Lost Lake National Wildlife Refuge.

(41) Lostwood National Wildlife Refuge.

(42) Lostwood Wetland Management District.

(43) Maple River National Wildlife Refuge.

(44) Pleasant Lake National Wildlife Refuge.

(45) Pretty Rock National Wildlife Refuge.

(46) Rabb Lake National Wildlife Refuge.

(47) Rock Lake National Wildlife Refuge.

(48) Rose Lake National Wildlife Refuge.

(49) School Section National Wildlife Refuge.

(50) Sheyenne Lake National Wildlife Refuge.

(51) Sibley Lake National Wildlife Refuge.

(52) Silver Lake National Wildlife Refuge.

(53) Slade National Wildlife Refuge.

(54) Snyder Lake National Wildlife Refuge.

(55) Springwater National Wildlife Refuge.

(56) Stewart Lake National Wildlife Refuge.

(57) Stoney Slough National Wildlife Refuge.

(58) Storm Lake National Wildlife Refuge.

(59) Sunburst Lake National Wildlife Refuge.

(60) Tewaukon National Wildlife Refuge.

(61) Tewaukon Wetland Management District.

(62) Tomahawk National Wildlife Refuge.

(63) Upper Souris National Wildlife Refuge.

(64) Wild Rice National Wildlife Refuge.

(65) Willow Lake National Wildlife Refuge.

(66) Wintering River National Wildlife Refuge.

(67) Wood Lake National Wildlife Refuge.

* * * * *

(kk) * * *

(20) Wapato Lake National Wildlife Refuge.

* * * * *

(mm) * * *

(2) John H. Chafee National Wildlife Refuge.

* * * * *

(xx) * * *

(1) Bamforth National Wildlife Refuge.

* * * * *

3. Amend § 32.22 by:

a. Revising paragraphs (b), (c), (d)(1) introductory text, (d)(1)(i), (d)(2)(i) and (ii), and (d)(3);

b. Redesignating paragraph (h) as paragraph (i); and

c. Adding a new paragraph (h).

The revisions and addition read as follows:

§ 32.22 Arizona.

* * * * *

(b) Buenos Aires National Wildlife Refuge—(1) Migratory game bird hunting. We allow hunting of goose, duck, coot, merganser, moorhen (gallinule), common snipe, and mourning, white-winged, and Eurasian-collared dove on designated areas of the refuge subject to the following condition: We allow portable or temporary blinds and stands, but you must remove them at the end of each day's hunt (see § 27.93 of this chapter).

(2) Upland game hunting. We allow hunting of black-tailed and antelope jackrabbit; cottontail rabbit; badger; bobcat; coati; kit and gray fox; raccoon; ringtail; coyote; and hog-nosed, hooded, spotted, and striped skunk on designated areas of the refuge subject to the following conditions:

(i) We prohibit night hunting from ½ hour after legal sunset until ½ hour before legal sunrise the following day.

(ii) We allow portable or temporary blinds and stands, but you must remove them at the end of each day's hunt (see § 27.93 of this chapter).

(3) Big game hunting. We allow hunting of mule and white-tailed deer, javelina, mountain lion, and feral hog on designated areas of the refuge subject to the following condition: The conditions set forth at paragraphs (b)(2)(i) and (ii) of this section apply.

(4) [Reserved]

(c) Cabeza Prieta National Wildlife Refuge—(1) Migratory game bird hunting. We allow hunting of mourning dove on designated areas of the refuge subject to the following conditions:

(i) We require hunters to obtain a Barry M. Goldwater Range Entry Permit (Department of Defense form/requirement—pending OMB approval) from the refuge.

(ii) We prohibit falconry.

(iii) We allow dogs only for the pointing and retrieval of birds.

(iv) We allow hunting only during the late season dove hunt.

(2) Upland game hunting. We allow hunting of Gambel's quail, Eurasian collared-dove, desert cottontail rabbit, antelope and black-tailed jackrabbit, coyote, spotted skunk, bobcat, ringtail, badger, and fox in designated areas of the refuge subject to the following conditions:

(i) The conditions set forth at paragraphs (c)(1)(i) through (iii) of this section apply.

(ii) We do not allow wheeled carts in designated Wilderness.

(iii) We prohibit night hunting from ½ hour after legal sunset until ½ hour before legal sunrise the following day.

(3) Big game hunting. We allow hunting of desert bighorn sheep, mule deer, and mountain lion on designated areas of the refuge subject to the following conditions:

(i) The conditions set forth at paragraphs (c)(1)(i) and (c)(2)(ii) of this section apply.

(ii) We require Special Use Permits for all hunters (FWS Form 3-1383-G), guides (FWS Form 3-1383-C), and stock animals (FWS Form 3-1383-G).

(iii) We prohibit the use of dogs when hunting big game.

(4) [Reserved]

(d) * * *

(1) Migratory game bird hunting. We allow hunting of goose, duck, coot, moorhen (gallinule), common snipe, mourning and white-winged dove, and Eurasian collared-dove on designated areas of the refuge subject to the following conditions:

(i) We allow only shotgun, bow and arrow, and crossbow.

* * * * *

(2) * * *

(i) For cottontail rabbit, we allow only shotgun, bow and arrow, crossbow, handgun, rifle, and muzzleloader.

(ii) For quail, we allow only shotgun, bow and arrow, crossbow, and handgun shooting shot.

* * * * *

(3) Big game hunting. We allow hunting of mule deer on designated areas of the refuge subject to the following condition: We allow rifle, shotgun, handgun, muzzleloader, crossbow and bow and arrow, except for archery-only hunts.

* * * * *

(h) Leslie Canyon National Wildlife Refuge—(1) Migratory game bird hunting. We allow hunting of mourning, white-winged, and Eurasian collared-dove on designated areas of the refuge subject to the following condition: We prohibit falconry.

(2) Upland game hunting. We allow hunting of Gambel's and scaled quail; cottontail; black-tailed jackrabbit; gray fox; coati; badger; striped, hooded, spotted, and hog-nosed skunk; bobcat; raccoon; ring-tailed cat; and coyote on designated areas of the refuge subject to the following conditions:

(i) We prohibit pneumatic weapons.

(ii) We prohibit night hunting.

(iii) We allow upland game hunting on the refuge only during general or archery State deer and javelina hunts when seasons overlap.

(3) Big game hunting. We allow hunting of mule deer, white-tailed deer, javelina, and black bear on designated areas of the refuge subject to the following conditions:

(i) The conditions set forth at paragraphs (h)(2)(i) and (ii) of this section apply.

(ii) We allow black bear hunting on the refuge only during general or archery State deer and javelina hunt when seasons overlap.

(4) [Reserved]

* * * * *

4. Amend § 32.23 by revising paragraphs (d)(1) introductory text, (d)(1)(ii), and (g)(1) introductory text to read as follows:

§ 32.23 Arkansas.

* * * * *

(d) * * *

(1) Migratory game bird hunting. We allow hunting of waterfowl (ducks, mergansers, and coots) on designated areas of the refuge subject to the following conditions:

* * * * *

(ii) We allow waterfowl hunting from legal shooting hours until 12 p.m. (noon).

* * * * *

(g) * * *

(1) Migratory game bird hunting. We allow hunting of American woodcock, duck, goose, and coot on designated areas of the refuge subject to the following conditions:

* * * * *

5. Amend § 32.24 by:

a. Revising paragraphs (l)(1) introductory text, (m)(1)(viii), and (m)(2)(i);

b. Redesignating paragraphs (q) through (v) as paragraphs (r) through (w);

c. Adding a new paragraph (q); and

d. Revising newly redesignated paragraphs (r)(1)(vii), (s)(2)(ii), and (v)(2)(ii).

The revisions and addition read as follows:

§ 32.24 California.

* * * * *

(l) * * *

(1) Migratory game bird hunting. We allow hunting of goose, duck, coot, snipe, and moorhen on designated areas of the refuge subject to the following conditions:

* * * * *

(m) * * *

(1) * * *

(viii) Hunters must enter and exit the hunting area from the three designated hunt parking lots, which we open 1½ hours before legal sunrise and close 1 hour after legal sunset each hunt day.

* * * * *

(2) * * *

(i) We limit hunting to junior hunters possessing a valid State Junior Hunting License and refuge Junior Pheasant Hunt Permit (FWS Form 3-2439, Hunt Application—National Wildlife Refuge System).

* * * * *

(q) San Diego Bay National Wildlife Refuge. (1)-(3) [Reserved]

(4) Sport fishing. We allow sport fishing from boats and other flotation devices on designated areas of the refuge subject to the following condition: We prohibit shoreline fishing.

(r) * * *

(1) * * *

(vii) We prohibit the use of motorized boats and other flotation devices in the free-roam units with the exception of the Freitas Unit.

* * * * *

(s) * * *

(2) * * *

(ii) The conditions set forth at paragraphs (s)(1)(ii) and (iii) of this section apply.

* * * * *

(v) * * *

(2) * * *

(ii) The conditions set forth at paragraphs (v)(1)(i) through (viii) of this section apply.

* * * * *

6. Amend § 32.25 by revising paragraphs (a)(2) and (4), (d)(3), and (e)(2) to read as follows:

§ 32.25 Colorado.

* * * * *

(a) * * *

(2) Upland game hunting. We allow hunting of cottontail rabbit, and black-tailed and white-tailed jackrabbit, on designated areas of the refuge subject to the following condition: The only acceptable methods of take are shotgun, rifle firing rimfire cartridges less than .23 caliber, hand-held bow, pellet gun, slingshot, and hawking/falconry.

* * * * *

(4) Sport fishing. We allow sport fishing on designated areas of the refuge.

* * * * *

(d) * * *

(3) Big game hunting. We allow hunting of pronghorn antelope, moose, mule deer, and elk on designated areas of the refuge.

* * * * *

(e) * * *

(2) Upland game hunting. We allow hunting of cottontail rabbit, and black-tailed and white-tailed jackrabbit, on designated areas of the refuge subject to the following condition: The only acceptable methods of take are shotgun, rifle firing rimfire cartridges less than .23 caliber, hand-held bow, pellet gun, slingshot, and hawking/falconry.

* * * * *

7. Revise § 32.26 to read as follows:

§ 32.26 Connecticut.

The following refuge units are open for hunting and/or fishing as governed by applicable Federal and State regulations, and are listed in alphabetical order with additional refuge-specific regulations.

(a) Silvio O. Conte National Fish and Wildlife Refuge—(1) Migratory game bird hunting. We allow hunting of migratory game birds on designated areas of the refuge subject to the following conditions:

(i) We allow refuge access 1½ hours prior to legal sunrise until 1½ hours after legal sunset.

(ii)We allow the use of dogs consistent with State regulations.

(2) Upland game hunting. We allow hunting of upland game on designated areas of the refuge subject to the following condition: The conditions set forth at paragraphs (a)(1)(i) and (ii) of this section apply.

(3) Big game hunting. We allow hunting of big game on designated areas of the refuge subject to the following condition: The conditions set forth at paragraphs (a)(1)(i) and (ii) of this section apply.

(4) Sport fishing. We allow sport fishing on designated areas of the refuge subject to the following conditions:

(i) The condition set forth at paragraph (a)(1)(i) of this section applies.

(ii) We prohibit launching of motorboats from the refuge.

(iii) We prohibit the use of reptiles and amphibians as bait.

(b) Stewart B. McKinney National Wildlife Refuge—(1) Migratory game bird hunting. We allow hunting of duck, coot, merganser, brant, sea duck, and goose on designated areas of the refuge subject to the following conditions:

(i) For the Great Meadows unit, we will limit hunt days to Tuesdays, Wednesdays, and Saturdays during the regular duck, sea duck, and brant seasons.

(ii) We allow the use of dogs consistent with State regulations.

(iii) We allow the use of temporary tree stands and blinds, which must be removed at the end of each day's hunt (see § 27.93 of this chapter).

(2) [Reserved]

(3) Big game hunting. We allow archery hunting of white-tailed deer and wild turkey on designated areas of the refuge subject to the following condition: The condition set forth at paragraph (b)(1)(iii) of this section applies.

(4) [Reserved]

8. Revise § 32.27 to read as follows:

§ 32.27 Delaware.

The following refuge units are open for hunting and/or fishing as governed by applicable Federal and State regulations, and are listed in alphabetical order with additional refuge-specific regulations.

(a) Bombay Hook National Wildlife Refuge—(1) Migratory game bird hunting. We allow hunting of migratory game birds on designated areas of the refuge subject to the following conditions:

(i) We require a refuge permit (FWS Form 3-2439, Hunt Application—National Wildlife Refuge System) for waterfowl hunting.

(ii) You must complete and return a Migratory Bird Hunt Report (FWS Form 3-2361), available at the refuge administration office or on the refuge's website, within 15 days of the close of the season.

(iii) We allow the use of dogs consistent with State regulations.

(2) Upland game hunting. We allow hunting of grey squirrel, cottontail rabbit, ring-necked pheasant, bobwhite quail, raccoon, opossum, coyote, and red fox on designated areas of the refuge subject to the following condition: The condition set forth at paragraph (a)(1)(iii) of this section applies.

(3) Big game hunting. We allow hunting of turkey and deer on designated areas of the refuge subject to the following conditions:

(i) We require a refuge permit (FWS Form 3-2439, Hunt Application—National Wildlife Refuge System).

(ii) Hunting on the headquarters deer hunt area will be by lottery. You must obtain and possess a refuge permit (FWS Form 3-2439, Hunt Application—National Wildlife Refuge System) from the refuge office or website and have the permit in your possession while hunting.

(4) Sport fishing. We allow sport fishing and crabbing on designated areas of the refuge subject to the following condition: We prohibit the use of lead fishing tackle on the refuge.

(b) Prime Hook National Wildlife Refuge—(1) Migratory game bird hunting. We allow the hunting of waterfowl, coot, mourning dove, snipe, and woodcock on designated areas of the refuge subject to the following conditions:

(i) You must obtain and possess a refuge permit (FWS Form 3-2439, Hunt Application—National Wildlife Refuge System) from the refuge office or website and have the permit in your possession while hunting.

(ii) You must complete and return a Migratory Bird Hunt Report (FWS Form 3-2361), available at the refuge administration office or on the refuge's website, within 15 days of the close of the season.

(iii) We allow State certified hunters with disabilities hunting privileges in the Disabled Waterfowl Draw Area subject to the following condition: We do not allow assistants to enter a designated disabled hunting area unless they are accompanied by a certified disabled hunter.

(iv) We allow the use of dogs consistent with State regulations.

(2) Upland game hunting. We allow hunting of rabbit, quail, pheasant, and red fox on designated areas of the refuge subject to the following condition: The conditions set forth at paragraphs (b)(1)(i) and (iv) of this section apply.

(3) Big game hunting. We allow hunting of white-tailed deer and turkey on designated areas of the refuge subject to the following conditions:

(i) We prohibit organized deer drives. We define a “deer drive” as an organized or planned effort to pursue, drive, chase, or otherwise frighten or cause deer to move in the direction of any person(s) who is part of the organized or planned hunt and known to be waiting for the deer.

(ii) Hunting on the headquarters deer hunt area will be by lottery.

(iii) The condition set forth at paragraph (b)(1)(i) of this section applies.

(4) Sport fishing. We allow sport fishing and crabbing on designated areas of the refuge subject to the following conditions:

(i) On Turkle and Fleetwood ponds, we allow boats only with electric trolling motors.

(ii) You must attend all crabbing and fishing gear at all times.

(iii) You must remove all personal property at the end of each day's fishing activity (see §§ 27.93 and 27.94 of this chapter).

9. Amend § 32.28 by:

a. Revising paragraph (a);

b. Redesignating paragraphs (e) through (n) as paragraphs (f) through (o);

c. Adding a new paragraph (e);

d. Revising newly redesignated paragraphs (i)(2)(i) and (i)(3)(i);

e. In newly redesignated paragraph (j):

i. Revising paragraphs (j)(1)(ii) and (x);

ii. Adding paragraph (j)(1)(xi);

iii. Revising paragraphs (j)(3)(iv) through (viii) and (x);

iv. Removing paragraph (j)(3)(xiv);

v. Redesignating paragraphs (j)(3)(xv) through (xix) as paragraphs (j)(3)(xiv) through (xviii);

vi. Revising newly redesignated paragraphs (j)(3)(xv) and (j)(3)(xviii); and

f. Revising newly redesignated paragraphs (m)(2)(iii) and (vii), (m)(3) introductory text, (m)(3)(i), (ii), (iv), (viii) and (ix), and (n)(3)(vii).

The revisions and additions read as follows:

§ 32.28 Florida.

* * * * *

(a) Arthur R. Marshall Loxahatchee National Wildlife Refuge—(1) Migratory game bird hunting. We allow hunting of duck and coot on designated areas of the refuge subject to the following conditions:

(i) You must possess and carry a signed refuge hunt permit (signed brochure) while hunting. You must have on your person all applicable licenses and permits, including CITES tags if applicable.

(ii) We prohibit hunting from all refuge structures, canals, and levees; within ½ mile of canoe trails, campsites, and boat ramps; and in areas posted as closed. We allow motorized vessels in the Motorized Zone, south of latitude line 26°27.130. We allow nonmotorized vessels in the Refuge Interior.

(iii) Hunters may only enter and leave the refuge at designated entrances.

(iv) We allow only temporary blinds of native vegetation.

(v) Hunters must remove decoys and other personal property from the hunting area at the end of each day's hunt (see § 27.93 of this chapter).

(vi) Hunters may only use boats equipped with factory-manufactured, water-cooled outboard motors; boats with electric motors; and nonmotorized boats. We prohibit boats with air-cooled engines, fan boats, hovercraft, and personal watercraft (jet skis, jet boats, wave runners, etc.). We allow airboats by permit only (Special Use Permit (FWS Form 3-1383-G)). We will issue airboat permits through a separate lottery. There is a 35 miles per hour (mph) speed limit in all waters of the refuge. A 500-foot (150-meter) “idle speed zone” is at each of the refuge's three boat ramps.

(vii) Hunters operating boats in the Refuge Interior, outside of the perimeter canal, are required to display a 10-inches by 12-inches (25-centimeters by 30-centimeters) orange flag 10 feet (3 meters) above the vessel's waterline.

(viii) We will allow airboats with a Duck and Coot Hunting Airboat Permit during Phase 2 of the State duck and coot season only. We will issue airboat permits through a separate lottery. Contact the Refuge headquarters for airboat permitting information.

(ix) Airboats used while hunting must be stopped and shut off for 15 minutes prior to shooting. Permitted airboats must be in place 1 hour before legal sunrise and not move until 1 hour after legal sunrise.

(x) All hunters must leave the hunt area once their bag/tag limit has been reached.

(xi) We prohibit unrestricted airboat travel not associated with hunting.

(xii) All hunters younger than age 18 must be supervised by a licensed and permitted adult age 21 or older, and must remain with the adult while hunting. Hunters younger than age 18 must have completed a hunter education course.

(2) [Reserved]

(3) Big game hunting. We allow hunting of alligator, white-tailed deer, and feral hog on designated areas of the refuge subject to the following conditions:

(i) The conditions set forth at paragraphs (a)(1)(i) through (iii), (v) through (vii), and (ix) through (xi) of this section apply.

(ii) We allow hunting on the refuge 1 hour before legal sunset on Friday night through 1 hour after legal sunrise Saturday morning, and 1 hour before legal sunset on Saturday night through 1 hour after legal sunrise Sunday morning. We allow alligator hunting the first two weekends during Harvest Period 1 (August) and the first two weekends during Harvest Period 2 (September). Following the close of Harvest Period 2, the remaining weekends in October will be open for alligator harvest permittees who possess unused CITES tags (OMB Control No. 1018-0093). Specific dates for the alligator hunt are on the harvest permit issued by the State.

(iii) Alligator hunters age 18 and older must be in possession of all necessary State and Federal licenses, permits, and CITES tags, as well as a signed refuge hunt permit (signed brochure) while hunting on the refuge. They must possess an Alligator Trapping License with CITES tag or an Alligator Trapping Agent License (State-issued), if applicable.

(iv) Persons younger than age 18 may not hunt but may only accompany an adult age 21 or older who possesses an Alligator Trapping Agent License (State-issued).

(v) You may take alligators using hand-held snare, harpoon, gig, snatch hook, artificial lure, manually operated spear, spear gun, or crossbow. We prohibit the taking of alligators using baited hook, baited wooden peg, or firearm. We allow the use of bang sticks (a hand-held pole with a pistol or shotgun cartridge on the end in a very short barrel) with approved nontoxic ammunition (see § 32.2(k)) only for taking alligators attached to a restraining line. Once an alligator is captured, it must be killed immediately. We prohibit catch-and-release of alligators. Once the alligator is dead, you must lock a CITES tag through the skin of the carcass within 6 inches (15.2 centimeters) of the tip of the tail. The tag must remain attached to the alligator at all times.

(vi) Alligators must remain in whole condition while on refuge lands.

(vii) We allow a limited quota permit for the taking of white-tailed deer and incidental take of feral hog in the Refuge Interior, by airboat (airboat permit required) and nonmotorized vessels only.

(viii) White-tailed deer and feral hog hunters age 18 and older must be in possession of all necessary State and Federal licenses, permits, as well as a refuge hunt permit (signed brochure) while hunting on the refuge.

(ix) We have limited quota and specialty hunts for the taking of white-tailed deer, and incidental take of feral hogs during the deer hunts on the Strazzulla Marsh and the Cypress Swamp.

(x) We close the Refuge Interior to all other uses during the limited quota white-tailed deer hunt in the Refuge Interior.

(xi) White-tailed deer hunters younger than age 18 must be supervised by a licensed and permitted adult age 21 or older, and must remain with the adult while hunting. Hunters younger than age 18 must have completed a hunter education course.

(xii) We prohibit the use of dogs for the take or attempt to take of white-tailed deer and feral hogs. We allow the use of dogs for blood trailing only.

(xiii) We require nontoxic ammunition when deer hunting on the refuge.

(4) Sport fishing. We allow sport fishing on designated areas of the refuge subject to the following conditions:

(i) The conditions set forth at paragraphs (a)(1)(ii) and (iii), (vi), (vii), and (xi) of this section apply.

(ii) We only allow the use of rods and reels and poles and lines, and anglers must attend them at all times.

(iii) We allow frog gigging, bow fishing, and fish gigging in all areas open to sport fishing, except in the A, B, and C Impoundments and Strazzulla Marsh.

(iv) We prohibit frog gigging, bow fishing, and fish gigging from structures and from within ½ mile of refuge boat ramps, campsites, and canoe trails, and in areas posted as closed.

(v) We allow the taking of frogs from July 16 through March 15 of each year.

(vi) The daily bag limit for frogs is 50 frogs per vessel or party.

(vii) Fish and frogs must remain in whole condition while on refuge lands.

(viii) Frogs may only be taken by gig, blowgun, or hook and line, or by hand.

(ix) We limit frogging or fishing by airboat to nonhunting airboat permittees only.

(x) We prohibit commercial fishing, including unpermitted commercial guiding, and the taking of turtles and other wildlife (see § 27.21 of this chapter).

(xi) We allow 17 fishing tournaments a year by Special Use Permit only (General Activities—Special Use Permit Application, FWS Form 3-1383-G).

* * * * *

(e) Everglades Headwaters National Wildlife Refuge—(1) Migratory game bird hunting. We allow hunting of migratory game birds on designated areas of the refuge in accordance with State regulations and applicable State Wildlife Management Area regulations.

(2) Upland game hunting. We allow upland game hunting on designated areas of the refuge in accordance with applicable State Wildlife Management Area regulations.

(3) Big game hunting. We allow big game hunting on designated areas of the refuge in accordance with applicable State Wildlife Management Area regulations.

(4) Sport fishing. We allow sport fishing on designated areas of the refuge subject to State regulations and applicable State Wildlife Management Area regulations.

* * * * *

(i) * * *

(2) * * *

(i) The conditions set forth at paragraphs (i)(1)(i) through (viii) of this section apply.

* * * * *

(3) * * *

(i) The conditions set forth at paragraphs (i)(1)(i) through (viii) of this section apply.

* * * * *

(j) * * *

(1) * * *

(ii) You must carry (or hunt within 30 yards of a hunter who possesses) a valid State-issued Merritt Island Waterfowl Quota Permit, while hunting in areas 1 or 4 during the State's regular waterfowl season. The Waterfowl Quota Permit can be used for a single party consisting of the permit holder and up to three guests. The permit holder must be present. The Waterfowl Quota Permit is a limited entry quota permit, is zone-specific, and is nontransferable.

* * * * *

(x) You must stop at a posted refuge waterfowl check station and report statistical hunt information on the Migratory Bird Hunt Report (FWS Form 3-2361) to refuge personnel.

(xi) When inside the impoundment perimeter ditch, you may use gasoline or diesel motors. Outside the perimeter ditch, you must propel vessels by paddling, push pole, or electric trolling motor.

* * * * *

(3) * * *

(iv) We allow hunting within the State's deer season on specific days as defined by the refuge hunt brochure. Each hunt will be a 3-day weekend. Legal shooting hours are ½ hour before legal sunrise to ½ hour after legal sunset.

(v) Hunters possessing a valid permit (State-issued permit) may access the refuge no earlier than 4 a.m. and must leave the refuge no later than 2 hours after legal sunset. If you wish to track wounded game beyond 2 hours after legal sunset, you must gain consent from a Federal Wildlife Officer to do so.

(vi) We prohibit hunting from refuge roads or within 150 yards of roads open to public vehicle traffic or within 200 yards of a building or Kennedy Space Center facility.

(vii) Each permitted hunter may have one adult guest and one youth hunter per adult. All guests must remain within 30 yards of the permitted hunter. The party must share a single bag limit. Each adult may supervise one youth hunter and must remain within sight and normal voice contact.

(viii) You may set up stands or blinds up to 7 days prior to the permitted hunt; you must remove them on the last day of your permitted hunt. You must clearly mark stands and blinds with your Florida State customer identification (ID) number found on your hunting license. You may have no more than one stand or blind per person on the refuge at any time. You must place a stand or blind for a youth hunter within sight and normal voice contact of the supervisory hunter's stand and mark it with the supervisory hunter's Florida State customer ID number and the word “YOUTH.”

* * * * *

(x) If you use flagging or other trail-marking material, you must print your Florida State customer ID number on each piece or marker. You may set out flagging and trail markers up to 7 days prior to the permitted hunt, and you must remove them on the last day of the permitted hunt.

* * * * *

(xv) You may field dress game; however, we prohibit cleaning game within 150 yards of any public area, road, game-check station, or gate. We prohibit dumping game carcasses on the refuge.

* * * * *

(xviii) You must stop at one of two check stations and report statistical hunt information on the Self-Clearing Check-In/Out Permit (FWS Form 3-2405).

* * * * *

(m) * * *

(2) * * *

(iii) You may only use .22 caliber or smaller rim-fire rifles, shotguns (#4 bird shot or smaller) (see § 32.2(k)), or muzzleloaders to harvest squirrel, rabbit, and raccoon. In addition, you may use shotgun slugs, buckshot, archery equipment including crossbows, center fire weapons, or pistols to take feral hogs.

* * * * *

(vii) You must check out all game taken at a game check station. You must use the State harvest recording system to check out all white-tail deer harvested on the refuge.

(3) Big game hunting. We allow hunting of white-tailed deer, feral hog, and turkey in areas and during seasons designated in the hunting brochure subject to the following conditions:

(i) We require State-issued refuge permits. Permits are nontransferable. Each hunter must possess and carry a signed permit when participating in a hunt.

(ii) The conditions set forth at paragraphs (m)(2)(ii) and (iv) through (vii) of this section apply.

* * * * *

(iv) There is a two deer limit per hunt, as specified at paragraph (m)(3)(vi) of this section, except during the youth hunt, when the limit is as specified at paragraph (m)(3)(vii) of this section. The limit for turkey is one per hunt.

* * * * *

(viii) Mobility-impaired hunters may have an assistant accompany them. You may transfer permits (State-issued permit) issued to assistants. We limit those hunt teams to harvesting white-tailed deer and feral hog within the limits provided at paragraph (m)(3)(vi) of this section.

(ix) You may harvest one bearded turkey per hunt. You may only use shotguns or archery equipment, including crossbows, to harvest turkey. We prohibit hunting after 1 p.m.

* * * * *

(n) * * *

(3) * * *

(vii) We limit weapons to primitive weapons (bow and arrow, muzzleloader, and crossbow) on the primitive weapons sambar deer hunt and the primitive weapons white-tailed deer hunt. We limit the archery hunt to bow and arrow, and crossbow. You may take feral hog and raccoon only with the weapons allowed for that period.

* * * * *

10. Amend § 32.29 by:

a. Adding paragraph (a)(3);

b. Redesignating paragraph (h)(1)(iv) as paragraph (h)(1)(v);

c. Adding a new paragraph (h)(1)(iv);

d. Revising paragraphs (h)(2)(i), (h)(3) introductory text, and (h)(3)(i); and

e. Adding paragraph (h)(3)(vii).

The revisions and additions read as follows:

§ 32.29 Georgia.

* * * * *

(a) * * *

(3) Big game hunting. We allow alligator hunting on designated areas of the refuge subject to the following condition: We only allow alligator hunting during the first two weekends (from Friday 12:00 a.m. (midnight) through Sunday 11:59 p.m.) of the State alligator season.

* * * * *

(h) * * *

(1) * * *

(iv) We allow the incidental take of armadillo, beaver, opossum, and raccoon during all refuge hunts (migratory bird, upland, and big game) with firearms and other equipment authorized for use on refuge lands in Georgia only.

* * * * *

(2) * * *

(i) The conditions set forth at paragraphs (h)(1)(i), (iii), and (iv) of this section apply.

* * * * *

(3) Big game hunting. We allow hunting of white-tailed deer, turkey, alligator, feral hog, and coyote on designated areas of the refuge subject to the following conditions:

(i) The conditions set forth at paragraphs (h)(1)(i), (iii), and (iv) of this section apply.

* * * * *

(vii) We prohibit catch-and-release of alligators.

* * * * *

11. Amend § 32.31 by revising paragraphs (c)(4)(i), (e)(1) introductory text, (f)(1) introductory text, and (f)(2) and (3) to read as follows:

§ 32.31 Idaho.

* * * * *

(c) * * *

(4) * * *

(i) From October 1 through April 14, we allow ice fishing on the Lake Lowell Unit, unless otherwise posted by the Bureau of Reclamation.

* * * * *

(e) * * *

(1) Migratory game bird hunting. We allow hunting of goose, duck, coot, and snipe on designated areas of the refuge subject to the following conditions:

* * * * *

(f) * * *

(1) Migratory game bird hunting. We allow hunting of duck, goose, coot, snipe, dove, and crow on designated areas of the refuge subject to the following conditions:

* * * * *

(2) Upland game hunting. We allow hunting of pheasant, grouse, partridge (chukar and gray partridge), cottontail rabbit, and bobcat on designated areas of the refuge subject to the following condition: The condition set forth at paragraph (f)(1)(i) of this section applies.

(3) Big game hunting. We allow hunting of deer and elk on designated areas of the refuge subject to the following condition: Deer and elk hunters may enter the hunt area from 1½ hours before legal hunting time to 1½ hours after legal hunting time.

* * * * *

12. Amend § 32.32 by:

a. Revising paragraphs (b)(3)(iv)(A), (e)(1), (e)(3)(iii) and (v), (g), and (i)(2);

b. Removing paragraph (i)(3)(iii);

c. Redesignating paragraph (i)(3)(iv) as paragraph (i)(3)(iii); and

d. Revising paragraphs (k)(1), (2), and (3).

The revisions read as follows:

§ 32.32 Illinois.

* * * * *

(b) * * *

(3) * * *

(iv) * * *

(A) In the area west of Division Street and east of Blue Heron Marina;

* * * * *

(e) * * *

(1) Migratory game bird hunting. We allow hunting of migratory game birds on designated areas of the refuge subject to the following condition: On the Long Island Division, we allow hunting only from blinds constructed on sites posted by the Illinois Department of Natural Resources.

* * * * *

(3) * * *

(iii) On the Fox Island Division, Slim Island Division, Cherry Box Division, and Hickory Creek Division, we only allow archery deer hunting during the Statewide archery season. We prohibit archery hunting during the State firearm season.

* * * * *

(v) We prohibit organized deer drives. We define a “deer drive” as an organized or planned effort to pursue, drive, chase, or otherwise frighten or cause deer to move in the direction of any person(s) who is part of the organized or planned hunt and known to be waiting for the deer.

* * * * *

(g) Kankakee National Wildlife Refuge. (1) [Reserved]

(2) Upland game hunting. We allow hunting of wild turkey on designated areas of the refuge subject to the following conditions:

(i) For hunting, you may possess only approved nontoxic shot shells while in the field (see § 32.2(k)).

(ii) You must remove all boats, decoys, blinds, blind materials, stands, platforms, and other hunting equipment (see §§ 27.93 and 27.94 of this chapter) brought onto the refuge at the end of each day's hunt.

(3) Big game hunting. We allow hunting of white-tailed deer on designated areas of the refuge subject to the following condition: The condition set forth at paragraph (g)(2)(ii) of this section applies.

(4) [Reserved]

* * * * *

(i) * * *

(2) Upland game hunting. We allow hunting of small game, furbearers, and game birds on designated areas of the refuge subject to the following condition: We open the refuge divisions for upland game hunting from ½ hour before legal sunrise to ½ hour after legal sunset.

* * * * *

(k) Two Rivers National Wildlife Refuge—(1) Migratory game bird hunting. We allow hunting of migratory game birds on designated areas of the refuge subject to the following conditions:

(i) Hunters must remove boats, decoys, blinds, blind materials, stands, and platforms brought onto the refuge at the end of each day's hunt (see §§ 27.93 and 27.94 of this chapter).

(ii) We allow the use of dogs while hunting, provided the dog is under the immediate control of the hunter at all times.

(2) Upland game hunting. We allow upland game hunting for wild turkey, small game, furbearers, and nonmigratory game birds on designated areas of the refuge subject to the following conditions:

(i) The conditions set forth at paragraphs (k)(1)(i) and (ii) of this section apply.

(ii) For hunting, you may use or possess only approved nontoxic shot shells while in the field, including shot shells used for hunting wild turkey (see § 32.2(k)).

(iii) We prohibit hunters using rifles or handguns with ammunition larger than .22 caliber rimfire, except they may use black powder firearms up to and including .50 caliber.

(iv) We allow the use of .22 and .17 caliber rimfire lead ammunition for the taking of small game and furbearers during open season.

(v) We allow hunting from legal sunrise to legal sunset.

(3) Big game hunting. We allow hunting of white-tailed deer on designated areas of the refuge subject to the following conditions:

(i) The condition set forth at paragraph (k)(1)(i) of this section applies.

(ii) We prohibit organized deer drives. We define a “deer drive” as an organized or planned effort to pursue, drive, chase, or otherwise frighten or cause deer to move in the direction of any person(s) who is part of the organized or planned hunt and known to be waiting for the deer.

* * * * *

13. Amend § 32.33 by:

a. Revising paragraphs (b), (c)(1) introductory text, and (c)(2) introductory text;

b. Redesignating paragraph (c)(3)(iv) as paragraph (c)(3)(v); and

c. Adding new paragraph (c)(3)(iv).

The revisions and addition read as follows:

§ 32.33 Indiana.

* * * * *

(b) Muscatatuck National Wildlife Refuge—(1) Migratory game bird hunting. We allow hunting of duck, goose, coot, merganser, woodcock, and dove on designated areas of the refuge subject to the following conditions:

(i) You must remove all boats, decoys, blinds, blind materials, stands, and platforms brought onto the refuge at the end of each day's hunt (see § 27.93 of this chapter).

(ii) We allow the use of dogs when hunting, provided the dogs are under the immediate control of the hunter at all times.

(iii) We prohibit hunting and the discharge of a firearm within 100 yards (30 meters) of any dwelling or any other building that people, pets, or livestock may occupy.

(2) Upland game hunting. We allow hunting of turkey, quail, squirrel, raccoon, opossum, coyote, fox, skunk, and rabbit on designated areas of the refuge subject to the following conditions:

(i) For hunting, you may use or possess only approved nontoxic shot shells while in the field, including shot shells used for hunting wild turkey (see § 32.2(k)).

(ii) We allow the use of rimfire weapons for upland/small game hunting.

(iii) We prohibit the use of centerfire rifles for any hunts on refuge property.

(iv) During spring turkey hunting, hunters must possess a State-issued hunting permit during the first 6 days of the season.

(v) We prohibit turkey hunting after 1 p.m. each day.

(vi) We allow the incidental take of coyote only during other refuge hunting seasons.

(vii) The conditions set forth at paragraphs (b)(1)(i) through (iii) of this section apply.

(3) Big game hunting. We allow hunting of white-tailed deer on designated areas of the refuge subject to the following conditions:

(i) The conditions set forth at paragraphs (b)(1)(i) through (iii) and (b)(2)(i) through (iii) of this section apply.

(ii) We prohibit organized deer drives. We define a “deer drive” as an organized or planned effort to pursue, drive, chase, or otherwise frighten or cause deer to move in the direction of any person(s) who is part of the organized or planned hunt and known to be waiting for the deer.

(iii) We prohibit the use or possession of tree spikes, plastic flagging, and reflective tacks.

(iv) We prohibit firearms deer hunting during the State deer firearm season (archery and muzzleloader only).

(v) We close archery deer hunting during the State muzzleloader season.

(vi) We prohibit the possession of game trail cameras on the refuge.

(vii) We require you to remove arrows from crossbows during transport in a vehicle.

(4) Sport fishing. We allow sport fishing on designated areas of the refuge subject to the following conditions:

(i) We prohibit the use of any type of motor.

(ii) We allow the use of kayaks, canoes, belly boats, or float tubes in all designated fishing areas.

(iii) We allow fishing only with rod and reel, or pole and line.

(iv) We prohibit harvest of frog and turtle (see § 27.21 of this chapter).

(v) We prohibit the use of lead fishing tackle.

(vi) We allow only youth age 15 and younger to fish in the Discovery Pond.

(c) * * *

(1) Migratory game bird hunting. We allow hunting of duck, goose, merganser, coot, woodcock, dove, snipe, rail, and crow on designated areas of the refuge and the White River Wildlife Management Area subject to the following conditions:

* * * * *

(2) Upland game hunting. We allow hunting of bobwhite quail, pheasant, cottontail rabbit, squirrel (gray and fox), red and gray fox, coyote, opossum, striped skunk, and raccoon subject to the following conditions:

* * * * *

(3) * * *

(iv) On the Columbia Mine Unit, if you use a rifle to hunt, you may use only rifles allowed by State regulations for hunting on public land.

* * * * *

14. Amend § 32.34 by:

a. Revising paragraph (d)(1) introductory text;

b. Removing paragraph (d)(1)(i);

c. Redesignating paragraphs (d)(1)(ii) through (d)(1)(v) as paragraphs (d)(1)(i) through (d)(1)(iv); and

d. Revising paragraphs (d)(2) introductory text, (d)(2)(i), (g)(1) introductory text, (g)(1)(ii), and (g)(2) introductory text.

The revisions read as follows:

§ 32.34 Iowa.

* * * * *

(d) * * *

(1) Migratory game bird hunting. We allow the hunting of dove, duck, goose, and coot on designated areas of the refuge subject to the following conditions:

* * * * *

(2) Upland game hunting. We allow hunting of ring-necked pheasant, bobwhite quail, pigeon, crow, cottontail rabbit, gray and fox squirrel, and wild turkey on designated areas of the refuge subject to the following conditions:

(i) The conditions set forth at paragraphs (d)(1)(i) through (iv) of this section apply.

* * * * *

(g) * * *

(1) Migratory game bird hunting. We allow hunting of duck, goose, coot, rail (Virginia and sora only), woodcock, dove, crow, and snipe on designated areas of the refuge subject to the following conditions:

* * * * *

(ii) We allow boats or other floating devices when hunting. You may not leave boats unattended.

* * * * *

(2) Upland game hunting. We allow hunting of pheasant, gray partridge, cottontail rabbit, squirrel (fox and gray), groundhog, raccoon, opossum, fox, coyote, and skunk on designated areas of the refuge subject to the following conditions:

* * * * *

15. Revising § 32.35 to read as follows:

§ 32.35 Kansas.

The following refuge units are open for hunting and/or fishing as governed by applicable Federal and State regulations, and are listed in alphabetical order with additional refuge-specific regulations.

(a) Flint Hills National Wildlife Refuge—(1) Migratory game bird hunting. We allow hunting of coot, crow, mourning dove, duck, goose, rail, woodcock, and snipe on designated areas of the refuge subject to the following conditions:

(i) You must remove portable hunting blinds and decoys at the end of each day's hunt (see § 27.93 of this chapter).

(ii) We only allow rimfire firearms, shotguns, and archery equipment.

(iii) We prohibit shooting from or over roads and parking areas.

(iv) We allow the use of dogs when hunting migratory birds.

(v) We close hunting areas on the north side of the Neosho River to all hunting from November 1 through March 1.

(2) Upland game hunting. We allow hunting of coyote, pheasant, prairie chicken, quail, rabbit, State-defined furbearers, and squirrel on designated areas of the refuge subject to the following conditions:

(i) We allow the use of dogs when hunting upland game, except that we prohibit the use of dogs when hunting coyotes and furbearers.

(ii) Shooting hours for upland game species are ½ hour before legal sunrise until legal sunset.

(iii) We prohibit the harvest of beaver and otter.

(iv) The conditions set forth at paragraphs (a)(1)(ii) and (iii) of this section apply.

(3) Big game hunting. We allow hunting of white-tailed deer and turkey on designated areas of the refuge subject to the following conditions:

(i) You may possess only approved nontoxic shot for turkey hunting (see § 32.2(k)).

(ii) We allow one portable blind or stand per hunter. You may place your blind or stand on the refuge no more than 14 days prior to the season, and you must remove it within 14 days of the close of the season. You must remove portable blinds at the end of each day's hunt (see § 27.93 of this chapter). You must label portable blinds and stands with the owner's Kansas Department of Wildlife, Parks and Tourism (KDWPT) number. Labels must be clearly visible from the ground.

(iii) We prohibit the use of dogs when hunting turkey.

(iv) The condition set forth at paragraph (a)(1)(iii) of this section applies.

(v) We only allow muzzleloaders, shotguns, and archery equipment.

(4) Sport fishing. We allow sport fishing on designated areas of the refuge subject to the following condition: We prohibit the take of reptiles and amphibians.

(b) Kirwin National Wildlife Refuge—(1) Migratory game bird hunting. We allow hunting of coot, crow, duck, goose, merganser, mourning dove, rail, snipe, and woodcock on designated areas of the refuge subject to the following conditions:

(i) You must remove portable hunting blinds and decoys at the end of each day's hunt (see § 27.93 of this chapter).

(ii) We prohibit shooting from or over roads and parking areas.

(iii) In Bow Creek, we allow hunting access by boat or on foot.

(iv) We allow the use of dogs when hunting migratory birds.

(2) Upland game hunting. We allow hunting of cottontail rabbit, jack rabbit, pheasant, prairie chicken, quail, State-defined furbearers, and squirrel (fox and grey) on designated areas of the refuge subject to the following conditions:

(i) We only allow shotguns and archery equipment when hunting upland game.

(ii) We allow the use of dogs when hunting upland game, except that we prohibit the use of dogs when hunting coyotes and furbearers.

(iii) Shooting hours for upland game species are ½ hour before legal sunrise until legal sunset.

(iv) We prohibit the harvest of beaver and otter.

(v) The condition set forth at paragraph (b)(1)(ii) of this section applies.

(3) Big game hunting. We allow hunting of deer and turkey on designated areas of the refuge subject to the following conditions:

(i) We only allow archery hunting of deer.

(ii) We allow one portable blind or stand per hunter. You may place your blind or stand on the refuge no more than 14 days prior to the season, and you must remove it within 14 days of the close of the season. You must remove portable blinds at the end of each day's hunt (see § 27.93 of this chapter). You must label portable blinds and stands with the owner's KDWPT number. Labels must be clearly visible from the ground.

(iii) You must obtain a refuge-issued permit (FWS Form 3-2405, Self-Clearing Check-In/Out Permit) to hunt deer on the refuge.

(iv) The condition set forth at paragraph (b)(1)(ii) of this section applies.

(v) We prohibit the use of dogs when hunting turkey.

(vi) You may possess only approved nontoxic shot for turkey hunting (see § 32.2(k)).

(4) Sport fishing. We allow sport fishing on designated areas on the refuge subject to the following conditions:

(i) We only allow boats for activities related to fishing.

(ii) We prohibit boating for fishing between October 1 and April 1 when the reservoir water elevation falls below 1,722 feet (measured on October 1), except in the Bow Creek Hunting Unit. Boats may be launched only at Scout Cove during this period.

(iii) We allow boating for fishing year-round, on the entire reservoir, only when the reservoir water elevation is above 1,722 feet (measured on October 1).

(iv) We prohibit anglers from using all-terrain vehicles (ATVs) when accessing Kirwin Reservoir for bank or ice fishing.

(v) We allow noncommercial collection of baitfish as governed by State regulations.

(vi) We prohibit all activities associated with fishing tournaments, outside of sport fishing itself, to include organized gatherings, registrations, weigh-ins, and award presentations to be held or organized on the refuge.

(vii) We prohibit the take of reptiles and amphibians.

(c) Marais des Cygnes National Wildlife Refuge—(1) Migratory game bird hunting. We allow hunting of coot, crow, duck, goose, mourning dove, rail, snipe, and woodcock on designated areas of the refuge subject to the following conditions:

(i) You must remove portable hunting blinds and decoys at the end of each day's hunt (see § 27.93 of this chapter).

(ii) We prohibit shooting from or over roads and parking areas.

(iii) We allow the use of dogs when hunting migratory birds.

(iv) We only allow shotguns and archery equipment.

(2) Upland game hunting. We allow hunting of coyote, cottontail rabbit, State-defined furbearers, squirrel, and upland birds on designated areas of the refuge subject to the following conditions:

(i) We allow the use of dogs when hunting upland game, except that we prohibit the use of dogs when hunting coyotes and furbearers.

(ii) Shooting hours for upland game species are ½ hour before legal sunrise until legal sunset.

(iii) We prohibit the harvest of beaver and otter.

(iv) The conditions set forth at paragraphs (c)(1)(i), (ii), and (iv) of this section apply.

(3) Big game hunting. We allow hunting of white-tailed deer and turkey on designated areas of the refuge subject to the following conditions:

(i) You must possess and carry a State-issued refuge access permit to hunt deer and spring turkey.

(ii) We allow one portable blind or stand per hunter. You may place your blind or stand on the refuge no more than 14 days prior to the season, and you must remove it within 14 days of the close of the season. You must remove portable blinds at the end of each day's hunt (see § 27.93 of this chapter). You must label portable blinds and stands with the owner's KDWPT number. Labels must be clearly visible from the ground.

(iii) We prohibit the use of dogs when hunting turkey.

(iv) You may possess only approved nontoxic shot for turkey hunting (see § 32.2(k)).

(v) The condition set forth at paragraph (c)(1)(ii) of this section applies.

(vi) We only allow archery deer hunting, except during the January antlerless deer season when we allow the use of archery, muzzleloader, and shotgun.

(4) Sport fishing. We allow sport fishing on designated areas of the refuge subject to the following condition: We prohibit the take of reptiles and amphibians.

(d) Quivira National Wildlife Refuge—(1) Migratory game bird hunting. We allow hunting of coot, crow, duck, goose, and mourning dove on designated areas of the refuge subject to the following conditions:

(i) We open refuge hunting areas from September 1 through February 28.

(ii) The refuge is open from 1½ hours before legal sunrise to 1½ hours after legal sunset.

(iii) We prohibit the retrieval of game from areas closed to hunting.

(iv) You must remove portable hunting blinds and decoys at the end of each day's hunt (see § 27.93 of this chapter).

(v) We prohibit shooting from or over roads and parking areas.

(vi) We allow the use of dogs when hunting migratory birds.

(vii) We only allow shotguns and archery equipment.

(2) Upland game hunting. We allow hunting of coyote, pheasant, quail, State-designated furbearers, squirrel, and rabbit on designated areas of the refuge subject to the following conditions:

(i) The conditions set forth at paragraphs (d)(1)(i) through (iii), (v), and (vii) of this section apply.

(ii) We allow the use of dogs when hunting upland game, except that we prohibit the use of dogs when hunting coyotes and furbearers.

(iii) We prohibit the harvest of beaver and otter.

(3) Big game hunting. We allow hunting of white-tailed deer and turkey on designated areas of the refuge subject to the following conditions:

(i) You may possess only approved nontoxic ammunition for turkey and deer hunting (see § 32.2(k)).

(ii) You must possess a State-issued refuge access permit for deer and turkey hunting.

(iii) We allow one portable blind or stand per hunter. You may place your blind or stand on the refuge no more than 14 days prior to the season, and you must remove it within 14 days of the close of the season. You must remove portable blinds at the end of each day's hunt (see § 27.93 of this chapter). You must label portable blinds and stands with the owner's KDWPT number. Labels must be clearly visible from the ground.

(iv) We prohibit the use of dogs when hunting turkey.

(v) The conditions set forth at paragraphs (d)(1)(i) through (iii) and (v) of this section apply.

(vi) We only allow muzzleloaders, shotguns, and archery equipment.

(4) Sport fishing. We allow sport fishing on all waters on the refuge subject to the following conditions:

(i) We prohibit taking of reptiles and amphibians.

(ii) We prohibit the use of trotlines and setlines.

(iii) We prohibit the use of seines for taking bait.

(iv) We prohibit fishing from water control structures and bridges.

(v) We restrict fishing in the designated “Kid's Pond,” approximately ¼ mile (.4 kilometers) west-southwest of headquarters, to youth age 14 and younger, and to a parent and/or guardian age 18 or older accompanying a youth.

(vi) The creel limit for the Kid's Pond is one fish per day.

(vii) The condition set forth at paragraph (d)(1)(ii) of this section applies.

(viii) The only live bait we allow is worms; we prohibit all other live bait.

16. Amend § 32.36 by:

a. Revising paragraphs (a)(1)(iii), (v), and (vi);

b. Removing paragraphs (a)(1)(vii) and (viii); and

c. Revising paragraphs (a)(2) and (a)(3)(i).

The revisions read as follows:

§ 32.36 Kentucky.

* * * * *

(a) * * *

(1) * * *

(iii) We prohibit hunting within 100 feet (30 meters) of a residence and discharge of firearms within 200 feet (60 meters) of any home, the abandoned railroad tracks, graveled roads, and hiking trails.

* * * * *

(v) We allow the use of dogs for waterfowl, quail, snipe, dove, woodcock, squirrel, rabbit, raccoon, opossum, and fall turkey hunting. Dog owners/handlers must have a collar on each dog with the owner's contact information.

(vi) We allow waterfowl hunting from legal shooting time until 12 p.m. (noon).

(2) Upland game hunting. We allow hunting of squirrel, rabbit, quail, raccoon, opossum, coyote, bobcat, fox, skunk, otter, muskrat, mink, weasel, and beaver on designated areas of the refuge subject to the following conditions:

(i) The conditions set forth at paragraphs (a)(1)(i) through (v) of this section apply.

(ii) We allow coyote hunting under Statewide regulations during daylight hours only.

(3) * * *

(i) The conditions set forth at paragraphs (a)(1)(i) through (v) of this section apply.

* * * * *

17. Amend § 32.37 by:

a. Revising paragraphs (a)(1) introductory text and (c)(1)(vi);

b. Adding new paragraph (d)(1)(ix);

c. Revising paragraphs (d)(3)(ii), (e)(1)(i), (iv) and (v), and (e)(2) introductory text;

d. Adding paragraph (e)(2)(v);

e. Removing paragraph (f)(3)(iii);

f. Redesignating paragraph (f)(3)(iv) as (f)(3)(iii);

g. Revising paragraphs (g), (k)(1) introductory text, (k)(1)(x), (k)(3)(ii), (n)(1)(xiv), (n)(4)(ii), (p)(1)(vii) and (xii), and (q)(1)(iii); and

h. Adding paragraphs (t)(1)(vi), (t)(2)(v), and (t)(3)(xiii).

The revisions and additions read as follows:

§ 32.37 Louisiana.

* * * * *

(a) * * *

(1) Migratory game bird hunting. We allow hunting of mourning dove, duck, goose, coot, snipe, rail, gallinule, woodcock, and crow on designated areas of the refuge subject to the following conditions:

* * * * *

(c) * * *

(1) * * *

(vi) Each person age 18 and older must possess a valid Annual Public Use Permit (signed brochure).

* * * * *

(d) * * *

(1) * * *

(ix) Each person age 18 and older, must possess a valid Annual Public Use Permit (signed brochure).

* * * * *

(3) * * *

(ii) We allow archery deer hunting according to the State of Louisiana archery season. Hunters may take deer of either sex as governed by State-approved archery equipment and regulations. We close refuge archery hunting during refuge deer gun hunts.

* * * * *

(e) * * *

(1) * * *

(i) We allow waterfowl hunting on Wednesdays, Thursdays, Saturdays, and Sundays from ½ hour before legal sunrise until 12 p.m. (noon), including waterfowl hunting during the State special teal season and State youth waterfowl hunt. We allow snipe, rail, and gallinule hunting on Wednesdays, Thursdays, Saturdays, and Sundays from ½ hour before legal sunrise until 2 p.m.

* * * * *

(iv) Each person age 18 and older while hunting or fishing must possess a valid Annual Public Use Permit (signed brochure).

(v) An adult age 18 or older must supervise youth hunters age 17 and younger during all hunts. Youth hunter age and hunter education requirements are governed by State regulations. One adult may supervise two youths during small game hunts and migratory bird hunts, but is only allowed to supervise one youth during big game hunts. Youths must remain within normal voice contact and direct sight of the adult who is supervising them. Adult guardians are responsible for ensuring that youth hunters do not violate refuge rules.

* * * * *

(2) Upland game hunting. We allow hunting of squirrel, rabbit, raccoon, and quail on designated areas of the refuge subject to the following conditions:

* * * * *

(v) We only allow raccoon to be taken during the State rabbit season.

* * * * *

(g) Bogue Chitto National Wildlife Refuge—(1) Migratory game bird hunting. We allow hunting of duck, goose, coot, and woodcock on designated areas of the refuge subject to the following conditions:

(i) We allow hunting from ½ hour before legal sunrise until 12 p.m. (noon), including during the State special teal season, State youth waterfowl hunt, and special light goose conservation season.

(ii) You must remove blinds and decoys by 1 p.m. each day (see § 27.93 of this chapter).

(iii) We prohibit goose hunting for that part of the season that extends beyond the regular duck season.

(iv) When hunting migratory game birds, you may only use dogs to locate, point, and retrieve game.

(v) Each person age 18 and older while hunting or fishing must possess a valid Annual Public Use Permit (signed brochure).

(vi) An adult age 18 or older must supervise youth hunters age 17 and younger during all hunts. Youth hunter age and hunter education requirements are governed by State regulations. One adult may supervise two youths during small game hunts and migratory bird hunts, but is only allowed to supervise one youth during big game hunts. Youths must remain within normal voice contact of the adult who is supervising them. Adult guardians are responsible for ensuring that youth hunters do not violate refuge rules.

(vii) We prohibit hunting or discharge of firearms (see § 27.42 of this chapter) within 150 feet (45.7 meters (m)) from the centerline of any public road, refuge road, designated or maintained trail, building, residence, designated camping area, or designated public facility, or from or across aboveground oil, gas, or electric facilities.

(viii) For the purpose of hunting, we prohibit possession of slugs, buckshot, and rifle and pistol ammunition, except during the deer gun and primitive firearm seasons (see § 32.2(k)).

(ix) You may use only reflective tacks as trail markers on the refuge.

(x) We allow the incidental take of feral hog during any open refuge hunting season with weapons approved for that season.

(2) Upland game hunting. We allow hunting of squirrel, rabbit, raccoon, and opossum on designated areas of the refuge subject to the following conditions:

(i) We allow the use of dogs for rabbit, squirrel, raccoon, and opossum hunting on specific dates listed in the refuge hunt brochure.

(ii) During any open deer firearm or primitive firearm season on the refuge, all hunters, except waterfowl hunters and nighttime raccoon and opossum hunters, must wear hunter orange, blaze pink, or other such color as governed by State regulations.

(iii) The conditions set forth at paragraphs (g)(1)(v) through (x) of this section apply, except you may use .22-caliber rifles or smaller, and the nontoxic shot in your possession while hunting must be size 4 or smaller (see § 32.2(k)).

(iv) We will close the refuge to hunting (except waterfowl) and camping when the Pearl River reaches 15.5 feet (4.65 meters) on the Pearl River Gauge at Pearl River, Louisiana.

(v) During the dog season for squirrels and rabbits, all hunters, including archery hunters (while on the ground), except waterfowl hunters, must wear a cap or hat that is hunter-orange, blaze pink, or other such color as governed by State regulations.

(3) Big game hunting. We allow hunting of white-tailed deer, turkey, and feral hog on designated areas of the refuge subject to the following conditions:

(i) The conditions set forth at paragraphs (g)(1)(v) through (x) and (g)(2)(ii) through (iv) of this section apply.

(ii) Hunters may erect deer stands 48 hours before the deer archery season and must remove them from the refuge within 48 hours after this season closes (see § 27.93 of this chapter). We allow only one deer stand per hunter on the refuge. Deer stands must have the owner's State license/sportsmen's identification number clearly printed on the stand.

(iii) Deer hunters hunting from concealed blinds must display State Wildlife Management Area (WMA) hunter-orange or blaze-pink (as governed by State WMA regulations) above or around their blinds that is visible from 360 degrees.

(iv) We hold a special dog hog hunt in February. During this hunt, the following conditions apply, in addition to other applicable conditions in paragraph (g)(3) of this section:

(A) You must use trained hog-hunting dogs to aid in the take of hog.

(B) We allow take of hog from ½ hour before legal sunrise until ½ hour after legal sunset.

(C) You must possess only approved nontoxic shot, or pistol or rifle ammunition not larger than .22 caliber rim-fire to take the hog after it has been caught by dogs.

(v) You must kill all hogs prior to removal from the refuge.

(vi) We prohibit the use of deer and turkey gobbler decoys.

(4) Sport fishing. We allow only recreational fishing year-round on designated areas of the refuge subject to the following conditions:

(i) We only allow cotton limb lines.

(ii) We close the fishing ponds at the Pearl River Turnaround to fishing from April through the first full week of June and to boating during the months of April, May, June, and July.

(iii) When the Pearl River Turnaround area is open, we allow boats that do not have gasoline-powered engines attached in the fishing ponds at the Pearl River Turnaround. Anglers must hand-launch these boats into the ponds. When the fishing ponds at the Pearl River Turnaround are open, hook and line is the only legal method of take in those ponds.

(iv) The Pearl River Turnaround area, when open to fishing, is open ½ hour before legal sunrise to ½ hour after legal sunset.

(v) The conditions set forth at paragraphs (g)(1)(x) and (g)(2)(iv) of this section apply.

* * * * *

(k) * * *

(1) Migratory game bird hunting. We allow hunting of duck, goose, coot, and woodcock on designated areas of the refuge subject to the following conditions:

* * * * *

(x) We only allow the use of bright eyes or reflective tape for flagging or trail markers.

* * * * *

(3) * * *

(ii) We allow deer modern firearm hunting on the area south of the French Fork of the Little River for 2 days in December with these dates being set annually.

* * * * *

(n) * * *

(1) * * *

(xiv) We only allow the use of bright eyes or reflective tape for flagging or trail markers.

* * * * *

(4) * * *

(ii) We only allow fishing within the Coulee Des Grues Bayou from the bank adjacent to Little California Road.

* * * * *

(p) * * *

(1) * * *

(vii) We restrict the use of the ATV trails that are designated for physically challenged persons to individuals who possess a State-issued physically challenged program hunter permit or are age 60 or older.

* * * * *

(xii) We only allow the use of bright eyes or reflective tape for flagging or trail markers.

* * * * *

(q) * * *

(1) * * *

(iii) Each person age 18 and older must possess a valid Annual Public Use Permit (signed brochure).

* * * * *

(t) * * *

(1) * * *

(vi) We allow the incidental take of coyote, beaver, raccoon, skunk, opossum, and feral hog when hunting for migratory bird species with firearms and archery equipment authorized for use.

(2) * * *

(v) We allow the incidental take of coyote, beaver, raccoon, skunk, opossum, and feral hog when hunting for upland game species with firearms and archery equipment authorized for use.

(3) * * *

(xiii) We allow the incidental take of coyote, beaver, raccoon, skunk, opossum, and feral hog when hunting for big game species with firearms and archery equipment authorized for use.

* * * * *

18. Revise § 32.38 to read as follows:

§ 32.38 Maine.

The following refuge units are open for hunting and/or fishing as governed by applicable Federal and State regulations, and are listed in alphabetical order with additional refuge-specific regulations.

(a) Moosehorn National Wildlife Refuge—(1) Migratory game bird hunting. We allow hunting of duck, goose, American woodcock, and snipe on designated areas of the refuge subject to the following conditions:

(i) We require every hunter to possess and carry a personally signed refuge permit (FWS Form 3-2439, Hunt Application—National Wildlife Refuge System).

(ii) We allow hunters to enter the refuge 2 hours before legal shooting hours, and they must exit the refuge by 1 hour past legal shooting hours.

(iii) We only allow portable or temporary blinds and decoys that must be removed from the refuge following each day's hunt (see § 27.93 of this chapter).

(iv) We allow the use of dogs consistent with State regulations.

(2) Upland game hunting. We allow hunting of ruffed grouse, snowshoe hare, red fox, gray and red squirrel, raccoon, skunk, and woodchuck on designated areas of the refuge subject to the following condition: The conditions set forth at paragraphs (a)(1)(i), (ii) (except for hunters pursuing raccoon at night), and (iv) of this section apply.

(3) Big game hunting. We allow hunting of black bear, bobcat, eastern coyote, moose, and white-tailed deer on designated areas of the refuge subject to the following conditions:

(i) The conditions set forth at paragraphs (a)(1)(i), (ii) (except for hunters pursuing eastern coyote at night), and (iv) of this section apply.

(ii) The hunter must retrieve all species harvested on the refuge.

(iii) We allow eastern coyote hunting from October 1 to March 31.

(iv) We allow tree stands, blinds, and ladders. You must clearly label any tree stand, blind, or ladder left on the refuge overnight with your hunting license number. You must remove your tree stand(s), blind(s), and/or ladder(s) from the refuge on the last day of the muzzleloader deer season (see § 27.93 of this chapter).

(v) You may hunt black bear, eastern coyote, and white-tailed deer during the State archery and firearms deer seasons on the Baring Division east of State Route 191.

(vi) We prohibit use of firearms to hunt bear and coyote during the archery deer season on the Baring Division east of Route 191. We prohibit the use of firearms, other than a muzzleloader, to hunt coyote during the deer muzzleloader season on the Baring Division east of Route 191.

(4) Sport fishing. We allow sport fishing on designated areas of the refuge subject to the following conditions:

(i) We only allow fishing from ½ hour before legal sunrise to ½ hour after legal sunset.

(ii) We prohibit trapping fish for use as bait.

(b) Petit Manan National Wildlife Refuge—(1) Migratory game bird hunting. We allow hunting of duck, goose, woodcock, rail, and snipe on designated areas of the refuge subject to the following condition: We allow the use of dogs consistent with State regulations.

(2) Upland game hunting. We allow hunting of upland game on designated areas of the refuge subject to the following conditions:

(i) We allow the use of dogs consistent with State regulations.

(ii) You may hunt coyotes from November 1 to March 31.

(iii) Hunters must retrieve all species harvested on the refuge.

(iv) We prohibit night hunting from ½ hour after legal sunset until ½ hour before legal sunrise the following day.

(3) Big game hunting. We allow hunting of white-tailed deer and black bear on designated areas of the refuge subject to the following conditions:

(i) Petit Manan Point is open only during the State-prescribed muzzleloader deer season.

(ii) We allow black bear hunting during the firearm season for white-tailed deer.

(iii) We allow hunters to enter the refuge 1 hour prior to legal sunrise and remain on the refuge 1 hour after legal sunset.

(iv) We prohibit the use of dogs when hunting black bear.

(4) [Reserved]

(c) Rachel Carson National Wildlife Refuge—(1) Migratory game bird hunting. We allow hunting of duck, goose, coot, woodcock, and snipe on designated areas of the refuge subject to the following conditions:

(i) Prior to entering designated refuge hunting areas, you must obtain a refuge permit (FWS Form 3-2439, Hunt Application—National Wildlife Refuge System) and sign and carry the permit at all times.

(ii) We open designated youth hunting areas to hunters age 15 and younger who possess and carry a refuge hunting permit (FWS Form 3-2439, Hunt Application—National Wildlife Refuge System). Youth hunters must be accompanied by an adult age 18 or older. The accompanying adult must possess and carry a refuge hunting permit (FWS Form 3-2439, Hunt Application—National Wildlife Refuge System) and may also hunt.

(iii) We allow the use of dogs consistent with State regulations.

(iv) We only allow temporary blinds and stands, which you must remove at the end of each day's hunt (see § 27.93 of this chapter).

(2) Upland game hunting. We allow hunting of pheasant, quail, grouse, fox, and coyote on designated areas of the refuge subject to the following conditions:

(i) The conditions set forth at paragraphs (c)(1)(i) and (iii) of this section apply.

(ii) We allow take of pheasant, quail, and grouse by falconry on the refuge during State seasons.

(3) Big game hunting. We allow hunting of white-tailed deer and turkey on designated areas of the refuge subject to the following conditions:

(i) The conditions as set forth at paragraphs (c)(1)(i) and (iv) of this section apply.

(ii) We allow hunting with shotgun and archery only. We prohibit rifles and muzzleloading firearms for hunting.

(iii) We allow turkey hunting during the fall season only, as designated by the State.

(iv) We allow only archery on those areas of the Little River division open to hunting.

(v) During the State firearm deer season, we only allow hunting of fox and coyote with archery or shotgun as incidental take with a refuge big game permit (FWS Form 3-2439, Hunt Application—National Wildlife Refuge System).

(vi) We allow hunting from ½ hour before legal sunrise to ½ hour after legal sunset.

(4) Sport fishing. We allow sport fishing on designated areas of the refuge subject to the following conditions:

(i) We allow fishing from ½ hour before legal sunrise to ½ hour after legal sunset.

(ii) We prohibit lead tackle.

(iii) We prohibit trapping fish for use as bait.

(d) Sunkhaze Meadows National Wildlife Refuge—(1) Migratory game bird hunting. We allow hunting of migratory game birds on designated areas of the refuge subject to the following condition: We allow the use of dogs consistent with State regulations.

(2) Upland game hunting. We allow hunting of upland game on designated areas of the refuge subject to the following conditions:

(i) We allow hunters to enter the refuge 1 hour before legal shooting hours, and they must exit the refuge by 1 hour past legal shooting hours, except for hunters pursuing raccoons at night.

(ii) The hunter must retrieve all species harvested on the refuge.

(iii) We allow the use of dogs consistent with State regulations.

(3) Big game hunting. We allow hunting of black bear, bobcat, moose, coyote, and white-tailed deer on designated areas of the refuge subject to the following conditions:

(i) We allow hunters to enter the refuge 1 hour before legal shooting hours, and they must exit the refuge by 1 hour after legal shooting hours, except for hunters pursuing coyotes at night.

(ii) We allow tree stands, blinds, and ladders. You must clearly label tree stands, blinds, or ladders left on the refuge overnight with your State hunting license number. You must remove your tree stand(s), blind(s), and/or ladder(s) from the refuge on the last day of the muzzleloader deer season (see § 27.93 of this chapter).

(iii) We allow the use of dogs consistent with State regulations.

(iv) We allow coyote hunting from October 1 to March 31.

(4) Sport fishing. We allow sport fishing on designated areas of the refuge subject to the following condition: We prohibit trapping fish for use as bait.

(e) Umbagog National Wildlife Refuge—(1) Migratory game bird hunting. We allow hunting of duck, goose, snipe, coot, crow, and woodcock on designated areas of the refuge subject to the following condition: We allow the use of dogs consistent with State regulations.

(2) Upland game hunting. We allow hunting of fox, raccoon, woodchuck, squirrel, porcupine, skunk, snowshoe hare, ring-necked pheasant, and ruffed grouse on designated areas of the refuge subject to the following conditions:

(i) We prohibit night hunting from ½ hour after legal sunset until ½ hour before legal sunrise the following day.

(ii) We allow the use of dogs consistent with State regulations.

(3) Big game hunting. We allow hunting of bear, white-tailed deer, coyote, turkey, and moose on designated areas of the refuge subject to the following conditions:

(i) We allow the use of dogs consistent with State regulations.

(ii) Hunters must retrieve all species harvested on the refuge.

(iii) We allow temporary blinds and tree stands that are clearly marked with the owner's State hunting license number. You may erect temporary blinds and tree stands no earlier than 14 days prior to the hunting season, and you must remove them within 14 days after the hunting season (see § 27.93 of this chapter).

(4) Sport fishing. We allow sport fishing on designated areas of the refuge.

19. Revise § 32.39 to read as follows:

§ 32.39 Maryland.

The following refuge units are open for hunting and/or fishing as governed by applicable Federal and State regulations, and are listed in alphabetical order with additional refuge-specific regulations.

(a) Blackwater National Wildlife Refuge—(1) Migratory game bird hunting. We allow hunting of goose and duck on designated areas of the refuge subject to the following conditions:

(i) You must obtain, and possess while hunting, a refuge waterfowl hunting permit (signed brochure or printed and signed copy of permit from Recreation.gov).

(ii) Up to three additional hunters may accompany you on your reserved unit.

(iii) We allow the use of dogs consistent with State regulations.

(2) [Reserved]

(3) Big game hunting. We allow the hunting of white-tailed deer, sika deer, and turkey on designated areas of the refuge subject to the following conditions:

(i) General hunt regulations for this paragraph (a)(3).

(A) You must obtain, and possess while hunting, a turkey or deer hunting permit (printed and signed copy of permit from Recreation.gov).

(B) We prohibit organized deer drives unless authorized by the refuge manager. We define a “deer drive” as an organized or planned effort to pursue, drive, chase, or otherwise frighten or cause deer to move in the direction of any person(s) who is part of the organized or planned hunt and known to be waiting for the deer.

(C) We prohibit shooting a projectile from a firearm, muzzleloader, bow, or crossbow from, down, or across any road that is traveled by vehicular traffic.

(D) We prohibit the use of rimfire or centerfire rifles and all handguns, including muzzleloading pistols, for hunting.

(ii) Archery deer hunt. We do not allow archery hunters to hunt within areas designated for the youth hunt on designated days.

(iii) Turkey hunt. We allow turkey hunt permit holders (printed and signed copy of permit from Recreation.gov) to have an assistant, who must remain within sight and normal voice contact and abide by the rules set forth in the refuge's turkey brochure.

(iv) Youth deer and turkey hunt. We allow youth hunters to hunt on designated areas on designated days (youth hunt) if they meet the criteria of a “youth hunter” as governed by State law and possess a turkey or deer hunting permit (printed and signed copy of permit from Recreation.gov).

(v) Designated disabled hunt. (A) We require disabled hunters to have their America the Beautiful Access pass (OMB Control 1024-0252) in their possession while hunting in disabled areas.

(B) Disabled hunters may have an assistant, age 18 or older, who must remain within sight and normal voice contact while hunting. Assistants must possess a printed and signed copy of a permit from Recreation.gov and a valid government-issued photo identification.

(4) Sport fishing. We allow sport fishing and crabbing on designated areas of the refuge subject to the following conditions:

(i) We allow fishing and crabbing only from April 1 through September 30 from legal sunrise to legal sunset in refuge waters, unless otherwise authorized by the refuge manager.

(ii) We allow fishing and crabbing by boat in the Big Blackwater and the Little Blackwater River.

(b) Eastern Neck National Wildlife Refuge. (1)-(2) [Reserved]

(3) Big game hunting. We allow hunting of white-tailed deer and turkey on designated areas of the refuge subject to the following conditions:

(i) General hunt regulations for this paragraph (b)(3). (A) You must obtain, and possess while hunting, a deer or turkey hunting permit (printed and signed copy of permit from Recreation.gov).

(B) We prohibit shooting a projectile from a firearm, muzzleloader, bow, or crossbow from, down, or across any road that is traveled by vehicular traffic.

(C) We prohibit the use of rimfire or centerfire rifles and all handguns, including muzzleloading pistols, for hunting.

(ii) Youth deer hunt. We allow youth hunters to hunt on designated areas on designated days (youth hunt) if they meet the criteria of a “youth hunter” as governed by State law and possess a printed and signed copy of a permit from Recreation.gov.

(iii) Designated disabled hunt. (A) We require disabled hunters to have their America the Beautiful Access pass (OMB Control 1024-0252) in their possession while hunting in disabled areas.

(B) Disabled hunters may have an assistant who must be age 18 or older and remain within sight and normal voice contact. Assistants must possess a printed and signed copy of a permit from Recreation.gov and a valid government-issued photo identification.

(4) Sport fishing. We allow sport fishing and crabbing in designated areas of the refuge subject to the following conditions:

(i) We allow fishing and crabbing from designated shoreline areas located at the Ingleside Recreation Area from legal sunrise to legal sunset, April 1 through September 30.

(ii) We allow fishing from designated shoreline areas located at the Chester River end of Boxes Point and Duck Inn Trails from legal sunrise to legal sunset.

(c) Patuxent Research Refuge—(1) Migratory game bird hunting. We allow hunting of goose, duck, and dove on designated areas of the refuge subject to the following conditions:

(i) We require a National Wildlife Refuge System Hunt Application (FWS Form 3-2439, Hunt Application—National Wildlife Refuge System), and a signed Statement of Hunter Ethics (FWS Form 3-2516).

(ii) We prohibit hunting and scouting on Sundays and Federal holidays. No hunt-related activities may take place unless the Hunting Control Station is open.

(iii) We allow the use of dogs consistent with State regulations.

(iv) We prohibit wading in all impounded waters except for the placement and retrieval of decoys.

(2) Upland game hunting. We allow hunting of gray squirrel, eastern cottontail rabbit, and woodchuck on designated areas of the refuge subject to the following condition: The conditions set forth at paragraphs (c)(1)(i) through (iii) of this section apply.

(3) Big game hunting. We allow hunting of turkey and white-tailed deer on designated areas of the refuge subject to the following conditions:

(i) The conditions set forth at paragraphs (c)(1)(i) and (ii) apply.

(ii) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following conditions:

(i) We require a National Wildlife Refuge System Fishing/Shrimping/Crabbing/Frogging Application (FWS Form 3-2358).

(ii) We prohibit the use and/or possession of lead sinkers.

20. Amend § 32.40 by revising paragraphs (a), (b), (c), (d), (f), (g), and (h) to read as follows:

§ 32.40 Massachusetts.

* * * * *

(a) Assabet River National Wildlife Refuge—(1) Migratory game bird hunting. We allow hunting of waterfowl and woodcock on designated areas of the refuge subject to the following conditions:

(i) We allow hunters to enter the refuge 1½ hours before legal shooting hours, and they must exit the refuge by 1½ hours after legal shooting hours.

(ii) Hunters must obtain and possess a refuge-specific hunting permit (FWS Form 3-2439, Hunt Application—National Wildlife Refuge System) to hunt on the refuge.

(iii) You may begin scouting hunting areas 4 weeks prior to the opening day of your permitted season. We require possession of a valid refuge hunting permit (FWS Form 3-2439, Hunt Application—National Wildlife Refuge System) while scouting.

(iv) We allow the use of dogs consistent with State regulations.

(v) One nonhunting companion may accompany each permitted hunter. We prohibit nonhunting companions from hunting, but they may assist in other means. All companions must carry identification and stay with the hunter.

(vi) Hunters may use temporary tree stands and ground blinds while engaged in hunting during the applicable seasons. Hunters must mark stands and blinds with their permit number. Hunters must remove all stands and blinds within 30 days after the end of the permitted season.

(vii) Migratory waterfowl hunting hours are ½ hour before legal sunrise to legal sunset.

(2) Upland game hunting. We allow hunting of ruffed grouse, fox, coyote, gray squirrel, and cottontail rabbit on designated areas of the refuge subject to the following conditions:

(i) The conditions set forth at paragraphs (a)(1)(i) through (v) of this section apply.

(ii) Upland and big game hunting hours are ½ hour before legal sunrise to ½ hour after legal sunset.

(iii) North Unit B, Unit C, and South Unit are archery only.

(3) Big game hunting. We allow hunting of white-tailed deer, turkey, and bear on designated areas of the refuge subject to the following conditions:

(i) The conditions set forth at paragraphs (a)(1)(i) through (iii), (v), and (vi), and (2)(ii) and (iii) of this section apply.

(ii) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following conditions:

(i) We allow catch-and-release fishing only.

(ii) We allow the use of live bait with the exception of any amphibians or reptiles (frogs, salamanders, etc.).

(b) Great Meadows National Wildlife Refuge—(1) Migratory game bird hunting. We allow hunting of waterfowl on designated areas of the refuge subject to the following conditions:

(i) We allow hunters to enter the refuge 1½ hours before legal shooting hours, and they must exit the refuge by 1½ hours after legal shooting hours.

(ii) Hunters must obtain and possess a refuge-specific hunting permit (FWS Form 3-2439, Hunt Application—National Wildlife Refuge System) to hunt on the refuge.

(iii) Hunters may begin scouting hunting areas 4 weeks prior to the opening day of your permitted season. We require possession of a valid hunting permit (FWS Form 3-2439, Hunt Application—National Wildlife Refuge System) while scouting.

(iv) One nonhunting companion may accompany each permitted hunter. We prohibit nonhunting companions from hunting, but they may assist in other means. All companions must carry identification and stay with the hunter.

(v) Hunters may use temporary tree stands and ground blinds while engaged in hunting during the applicable seasons. Hunters must mark stands and blinds with their permit number. Hunters must remove all stands and blinds within 30 days after the end of the permitted season.

(vi) We allow the use of dogs consistent with State regulations.

(vii) Migratory waterfowl hunting hours are ½ hour before legal sunrise to legal sunset.

(2) Upland game hunting. We allow hunting of coyote on designated areas of the refuge subject to the following conditions:

(i) The conditions set forth at paragraphs (b)(1)(i) through (iii), (iv) and (vi) of this section apply.

(ii) Upland and big game hunting hours are ½ hour before legal sunrise to ½ hour after legal sunset.

(iii) We allow archery hunting only for upland game.

(3) Big game hunting. We allow archery hunting of whitetail deer, turkey, and bear on designated areas of the refuge subject to the following conditions:

(i) The conditions set forth at paragraphs (b)(1)(i) through (v) and (b)(2)(ii) of this section apply.

(ii) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge.

(c) Mashpee National Wildlife Refuge—(1) Migratory game bird hunting. We allow migratory game bird hunting on designated areas of the refuge subject to the following conditions:

(i) We allow hunters to access the refuge 1½ hours before legal shooting hours until 1½ hours after legal shooting hours.

(ii) Hunters may begin scouting hunting areas 4 weeks prior to the opening day of your permitted season. We require possession of a valid refuge hunting permit (FWS Form 3-2439, Hunt Application—National Wildlife Refuge System) while scouting.

(iii) We allow the use of dogs consistent with State regulations.

(iv) One nonhunting companion may accompany each permitted hunter. We prohibit nonhunting companions from hunting, but they may assist in other means. All companions must carry identification and stay with the hunter.

(v) Hunters must clearly label tree stands and ground blinds with their State hunting license number.

(vi) Migratory waterfowl hunting hours are ½ hour before legal sunrise to legal sunset.

(2) Upland game hunting. We allow hunting of coyote, fox, raccoon, opossum, gray squirrel, quail, pheasant, crow, and ruffed grouse on designated areas of the refuge subject to the following conditions:

(i) The conditions set forth at paragraphs (c)(1)(i) through (iv) of this section apply.

(ii) Upland and big game hunting hours are ½ hour before legal sunrise to ½ hour after legal sunset.

(3) Big game hunting. We allow hunting of white-tailed deer and wild turkey on designated areas of the refuge subject to the following conditions:

(i) The conditions set forth at paragraphs (c)(1)(i), (ii), (iv), and (v), and (c)(2)(ii) of this section apply.

(ii) We prohibit organized deer drives. We define a “deer drive” as an organized or planned effort to pursue, drive, chase, or otherwise frighten or cause deer to move in the direction of any person(s) who is part of the organized or planned hunt and known to be waiting for the deer.

(4) [Reserved]

(d) Monomoy National Wildlife Refuge—(1) Migratory game bird hunting. We allow hunting of migratory waterfowl on designated areas of the refuge by boat subject to the following condition: We allow the use of dogs consistent with State regulations.

(2)-(3) [Reserved]

(4) Sport fishing. We allow sport fishing on designated areas of the refuge subject to the following conditions:

(i) We allow fishing from legal sunrise to legal sunset on designated portions of the Monomoy Islands unless otherwise posted.

(ii) We allow surf fishing from the Morris Island shore 24 hours a day.

* * * * *

(f) Oxbow National Wildlife Refuge—(1) Migratory game bird hunting. We allow hunting of waterfowl, woodcock, and Wilson's snipe on designated areas of the refuge subject to the following conditions:

(i) We allow hunters to enter the refuge 1½ hours before legal shooting hours, and they must exit the refuge by 1½ hours after legal shooting hours.

(ii) Hunters must obtain and possess a refuge-specific hunting permit (FWS Form 3-2439, Hunt Application—National Wildlife Refuge System) to hunt on the refuge.

(iii) Hunters may begin scouting hunting areas 4 weeks prior to the opening day of your permitted season. We require possession of a valid refuge hunting permit (FWS Form 3-2439, Hunt Application—National Wildlife Refuge System) while scouting.

(iv) We allow the use of dogs consistent with State regulations.

(v) Hunters may use temporary tree stands and ground blinds while engaged in hunting during the applicable seasons. Hunters must mark stands and blinds with their permit number. Hunters must remove all stands and blinds within 30 days after the end of the permitted season.

(vi) One nonhunting companion may accompany each permitted hunter. We prohibit nonhunting companions from hunting, but they can assist in other means. All companions must carry identification and stay with the hunter.

(vii) Migratory waterfowl hunting hours are ½ hour before legal sunrise to legal sunset.

(2) Upland game hunting. We allow hunting of ruffed grouse, gray squirrel, coyote, fox, and eastern cottontail rabbit on designated areas of the refuge subject to the following conditions:

(i) The conditions set forth at paragraphs (f)(1)(i) through (vi) of this section apply.

(ii) Upland and big game hunting hours are ½ hour before legal sunrise to ½ hour after legal sunset.

(iii) Hospital Road North Unit and Still River Depot Area are archery only.

(3) Big game hunting. We allow hunting of white-tailed deer and turkey on designated areas of the refuge subject to the following conditions:

(i) The conditions set forth at paragraphs (f)(1)(i) through (iii), (v), and (vi), and (f)(2)(ii) of this section apply.

(ii) We prohibit organized deer drives. We define a “deer drive” as an organized or planned effort to pursue, drive, chase, or otherwise frighten or cause deer to move in the direction of any person(s) who is part of the organized or planned hunt and known to be waiting for the deer.

(4) Sport fishing. We allow sport fishing in designated areas of the refuge.

(g) Parker River National Wildlife Refuge—(1) Migratory game bird hunting. We allow hunting of duck, goose, brant, coot, crow, merganser, rail, snipe, and woodcock on designated areas of the refuge subject to the following conditions:

(i) Hunters may enter the refuge ½ hour before legal shooting hours and must exit the refuge by ½ hour after legal shooting hours.

(ii) We prohibit the use of centerfire rifles and handguns to hunt any species.

(iii) We prohibit shooting across refuge roads and within or into administratively closed zones.

(iv) We prohibit launching motorized boats for scouting purposes prior to hunting.

(v) We allow the use of dogs consistent with State regulations.

(vi) We allow crow hunting only from September 1 through February 28.

(vii) Migratory waterfowl hunting hours are ½ hour before legal sunrise to legal sunset.

(2) Upland game hunting. We allow hunting of ruffed grouse, pheasant, cottontail rabbit, hare, gray squirrel, coyote, fox, raccoon, and opossum on designated areas of the refuge subject to the following conditions:

(i) The conditions set forth at paragraphs (g)(1)(i) through (iii), and (v) (with the exception that we prohibit dogs while hunting furbearers) of this section apply.

(ii) Upland and big game hunting hours are ½ hour before legal sunrise to ½ hour after legal sunset.

(3) Big game hunting. We allow hunting of white-tailed deer and wild turkey on designated areas of the refuge subject to the following conditions:

(i) The conditions set forth at paragraphs (g)(1)(i) through (iii) and (g)(2)(ii) of this section apply.

(ii) We allow hunting of white-tailed deer on Plum Island subject to the following conditions:

(A) We allow archery, primitive firearms, shotgun, and crossbow (by MassWildlife permit only, for certain disabled persons) hunting during a designated 2-day hunt on the first Wednesday and Thursday of the State shotgun deer season.

(B) You must have a lottery-issued hunt permit (FWS Form 3-2439, Hunt Application—National Wildlife Refuge System) to hunt during this 2-day time period.

(iii) We allow hunting of deer and wild turkey in Areas A, B, C, and D subject to the following condition: You may take deer using archery equipment only.

(4) Sport fishing. We allow saltwater fishing on designated areas of the refuge subject to the following conditions:

(i) We allow saltwater fishing on the ocean beach from legal sunrise to legal sunset without a refuge permit.

(ii) Stage Island is open to fishing from legal sunrise to legal sunset.

(iii) Nelson Island is open to fishing from legal sunrise to legal sunset.

(iv) We allow walk-on night fishing after legal sunset with a valid refuge permit (FWS Form 3-2358, National Wildlife Refuge System Fishing/Shrimping/Crabbing/Frogging Application; vehicle sticker issued by the refuge office).

(v) We allow anglers to use over-the-sand, surf-fishing vehicles, or off-road vehicles (ORVs) with a valid refuge permit (FWS Form 3-2439, Hunt Application—National Wildlife Refuge System) and permit fee, as determined in an annual lottery.

(h) Silvio O. Conte National Fish and Wildlife Refuge—(1) Migratory game bird hunting. We allow hunting of migratory game birds on designated areas subject to the following conditions:

(i) Hunters may access the refuge 1½ hours before legal sunrise until 1½ hours after legal sunset.

(ii) We prohibit access to Third Island between January 1 and June 30.

(iii) We allow the use of dogs consistent with State regulations.

(iv) Migratory waterfowl hunting hours are ½ hour before legal sunrise to legal sunset.

(2) Upland game hunting. We allow hunting of upland game on designated areas of the refuge subject to the following condition:

(i) The conditions set forth at paragraphs (h)(1)(i) through (iii) of this section apply.

(ii) Upland and big game hunting hours are ½ hour before legal sunrise to ½ hour after legal sunset.

(3) Big game hunting. We allow hunting of big game on designated areas of the refuge subject to the following condition: The conditions set forth at paragraphs (h)(1)(i) and (h)(2)(ii) of this section apply.

(4) Sport fishing. We allow sport fishing on designated areas of the refuge subject to the following conditions:

(i) The conditions set forth at paragraphs (h)(1)(i) and (ii) of this section apply.

(ii) We prohibit launching of motorboats from the refuge.

(iii) We prohibit the use of reptiles and amphibians as bait.

21. Amend § 32.42 by revising paragraphs (b)(2) introductory text, (m)(1)(v), and (o) to read as follows:

§ 32.42 Minnesota.

* * * * *

(b) * * *

(2) Upland game hunting. We allow hunting of ring-necked pheasant, Hungarian partridge, cottontail and jack rabbit, raccoon, striped skunk, gray and fox squirrel, red and gray fox, and wild turkey on designated areas of the refuge subject to the following conditions:

* * * * *

(m) * * *

(1) * * *

(v) We allow hunting on the Spieker tract in Clay County, as governed by applicable State regulations.

* * * * *

(o) Rydell National Wildlife Refuge—(1) Migratory game bird hunting. We allow hunting of goose, duck, coot, woodcock, and mourning dove on designated areas of the refuge subject to the following conditions:

(i) We only allow hunting of goose, duck, and coot during the special State-administered youth waterfowl season.

(ii) We allow the use of dogs while hunting, provided the dog is under the immediate control of the hunter at all times.

(iii) Hunters must dismantle hunting blinds, platforms, and ladders made from natural vegetation at the end of each day.

(iv) We allow nonmotorized boats in areas open to migratory bird hunting during the special State-administered youth waterfowl season.

(v) We prohibit hunting during the Spring Light Goose Conservation Order.

(vi) We allow the use of wheeled, nonmotorized conveyance devices (e.g., bikes, game carts).

(vii) We prohibit entry onto the refuge earlier than 2 hours before legal shooting time, and we require hunters to leave the refuge no later than 2 hours after legal shooting time.

(2) Upland game hunting. We allow hunting of ring-necked pheasant, gray (Hungarian) partridge, ruffed grouse, prairie grouse, rabbit (cottontail and jack), snowshoe hare, squirrel (fox and gray), and wild turkey on designated areas of the refuge subject to the following conditions:

(i) The conditions set forth at paragraphs (o)(1)(ii), (iii), (vi), and (vii) of this section apply.

(ii) You may use or possess only approved nontoxic shot shells (see § 32.2(k)) in the field while hunting turkey.

(iii) We prohibit the use of centerfire, rimfire, or muzzleloading rifles, and handguns.

(3) Big game hunting. We allow hunting of white-tailed deer on designated areas of the refuge subject to the following conditions:

(i) We prohibit shooting at a big game animal or a decoy of a big game animal on, from, over, across, or within 30 feet (9 meters) of a roadway open to public vehicle transportation.

(ii) We require a State-issued permit to hunt white-tailed deer in the Special Permit Area of the refuge.

(iii) Archery is the only legal weapon for hunting deer, with the exception of during the special State-administered mentored youth hunt and disabled hunt.

(4) Sport fishing. We allow sport fishing on designated areas of the refuge subject to the following conditions:

(i) We prohibit the taking of any turtle, frog, leech, minnow, crayfish, and mussel (clam) species by any method on the refuge (see § 27.21 of this chapter).

(ii) We allow fishing from May 1 through November 1.

* * * * *

22. Amend § 32.43 by:

a. Revising paragraphs (b)(1) and (2), and (b)(3)(i);

b. Removing paragraph (b)(4)(v);

c. Revising paragraphs (c), (e), (f)(2) and (3), (g)(1)(iv), (g)(2), (g)(3)(i) and (v), (g)(4)(iv), (h)(1)(v), (h)(2), (h)(3)(iv) and (vi), (h)(4)(i), (i)(2), (i)(3)(iv) and (vi), (i)(4)(i), (l), and (m)(1)(v);

d. Adding new paragraph (m)(1)(xi); and

e. Revising paragraphs (m)(2)(ii) and (iii), (m)(3)(i), (iv), (vi), and (m)(3)(vii).

The revisions and addition read as follows:

§ 32.43 Mississippi.

* * * * *

(b) * * *

(1) Migratory game bird hunting. We allow hunting of migratory ducks, geese, mergansers, coot, rails, snipe, and woodcock on designated areas of the refuge subject to the following conditions:

(i) All hunters age 16 and older must possess a State-issued North Mississippi NWR hunting permit (code 606, available from the Mississippi Department of Wildlife, Fisheries, and Parks). While hunting on the refuge, all persons age 15 and younger (“youth hunter”) must be in the presence and under the direct supervision of a licensed or exempt hunter age 21 or older. A hunter supervising a youth hunter must hold all required licenses and permits.

(ii) Hunters may enter the refuge at 4 a.m. and must exit the refuge no later than 2 hours after legal sunset except during raccoon and frog hunts.

(iii) We allow hunting of migratory game birds, including under the Light Goose Conservation Order, only on Wednesdays, Saturdays, and Sundays.

(iv) Each hunter must obtain a daily Migratory Bird Hunt Report (FWS Form 3-2361). You must display the card in plain view on the dashboard of your vehicle so that the State-issued license number is readable. Prior to leaving the refuge, you must complete the reverse side of the card and deposit it at one of the refuge information stations. Include all game harvested, and if you harvest no game, report “0.” We prohibit hunters possessing more than one Migratory Bird Hunt Report at a time.

(v) It is unlawful to hunt from or shoot into the 100-foot (30.5-meter) zone along either side of designated roads and parking lots.

(vi) We allow the use of dogs on the refuge when hunting migratory game birds.

(vii) You must remove decoys, blinds, boats, other personal property, and litter from the hunting area following each morning's hunt (see §§ 27.93 and 27.94 of this chapter).

(viii) We allow no more than 25 shotshells per person in the field.

(ix) We allow the take of coyote, beaver, nutria, and feral hog incidental to other lawful hunting using legal methods of take.

(2) Upland game hunting. We allow hunting of quail, squirrel, and rabbit on designated areas of the refuge subject to the following conditions:

(i) You must possess a valid general Special Use Permit (FWS Form 3-1383-G) to hunt raccoon on the refuge.

(ii) Each hunter must obtain a daily Upland/Small Game/Furbearer Report (FWS Form 3-2362). You must display the card in plain view on the dashboard of your vehicle so that the State-issued license number is readable. Prior to leaving the refuge, you must complete the card and deposit it at one of the refuge information stations. Include all game harvested, and if you harvest no game, report “0.” We prohibit hunters possessing more than one Upland/Small Game/Furbearer Report at a time.

(iii) The conditions set forth at paragraphs (b)(1)(i), (ii), (v), and (ix) of this section apply.

(3) * * *

(i) The conditions set forth at paragraphs (b)(1)(i), (ii), (iv) (substitute Big Game Harvest Report [FWS Form 3-2359] for Migratory Bird Hunt Report [FWS Form 3-2361]), (v), (vi), and (ix) of this section apply.

* * * * *

(c) Dahomey National Wildlife Refuge—(1) Migratory game bird hunting. We allow hunting of duck, goose, merganser, coot, rail, snipe, woodcock, and dove on designated areas of the refuge subject to the following conditions:

(i) All hunters age 16 and older must possess a North Mississippi NWR hunting permit (code 606, available from the Mississippi Department of Wildlife, Fisheries, and Parks). While hunting on the refuge, all persons age 16 and younger (“youth hunter”) must be in the presence and under the direct supervision of a licensed or exempt hunter at age 21 or older (“licensed hunter”). A hunter supervising a youth hunter must hold all required licenses and permits.

(ii) Hunters may enter the refuge at 4 a.m. and must exit the refuge no later than 2 hours after legal sunset except during raccoon and frog hunts.

(iii) We allow hunting of migratory game birds, including under the Light Goose Conservation Order, only on Wednesdays, Saturdays, and Sundays ending at 12 p.m. (noon).

(iv) Each hunter must obtain a daily Migratory Bird Hunt Report (FWS Form 3-2361). You must display the card in plain view on the dashboard of your vehicle so that the State-issued license number is readable. Prior to leaving the refuge, you must complete the card and deposit it at one of the refuge information stations. Include all game harvested, and if you harvest no game, report “0.” We prohibit hunters possessing more than one Migratory Bird Hunt Report at a time.

(v) It is unlawful to hunt from or shoot into the 100-foot (30.5-meter) zone along either side of designated roads and parking lots.

(vi) We allow the use of dogs on the refuge when hunting migratory game birds and upland game. We prohibit the use of dogs during big game hunts.

(vii) You must remove decoys, blinds, boats, other personal property, and litter from the hunting area following each morning's hunt (see §§ 27.93 and 27.94 of this chapter).

(viii) We allow no more than 25 shotshells per person in the field.

(ix) We allow the take of coyote, beaver, nutria, and feral hog incidental to other lawful hunting using legal methods of take.

(2) Upland game hunting. We allow hunting of quail, squirrel, rabbit, frog, and raccoon on designated areas of the refuge subject to the following conditions:

(i) You must possess a valid general Special Use Permit (FWS Form 3-1383-G) to hunt raccoon on the refuge.

(ii) Each hunter must obtain a daily Upland/Small Game/Furbearer Report (FWS Form 3-2362). You must display the card in plain view on the dashboard of your vehicle so that the State-issued license number is readable. Prior to leaving the refuge, you must complete the card and deposit it at one of the refuge information stations. Include all game harvested, and if you harvest no game, report “0.” We prohibit hunters possessing more than one Upland/Small Game/Furbearer Report at a time.

(iii) The conditions set forth at paragraphs (c)(1)(i), (ii), (v), and (ix) of this section apply.

(3) Big game hunting. We allow hunting of white-tailed deer on designated areas of the refuge subject to the following conditions:

(i) Each hunter must obtain a daily Big Game Harvest Report (FWS Form 3-2359). You must display the card in plain view on the dashboard of your vehicle so that the State-issued license number is readable. Prior to leaving the refuge, you must complete the card and deposit it at one of the refuge information stations. Include all game harvested, and if you harvest no game, report “0.” We prohibit hunters possessing more than one Big Game Harvest Report at a time.

(ii) The conditions set forth at paragraphs (c)(1)(i), (ii), (v), and (ix) of this section apply.

(iii) We prohibit organized deer drives. We define a “deer drive” as an organized or planned effort to pursue, drive, chase, or otherwise frighten or cause deer to move in the direction of any person(s) who is part of the organized or planned hunt and known to be waiting for the deer.

(iv) We prohibit hunting or shooting across any open, fallow, or planted field.

(v) We allow valid permit holders to possess and hunt from one portable stand or blind on the refuge. You must clearly label your stand or blind with your State license/sportsmen's identification number. Stands left in the area do not reserve the hunting locations. You may place stands up to 7 days prior to the hunt, and you must remove them within 7 days after the refuge's deer season closes (see § 27.93 of this chapter). We prohibit the placement of ground blinds within mowed trails.

(vi) Hunters using a climbing tree stand must use a fall-arrest system manufactured to Treestand Manufacturer's Association standards.

(vii) We prohibit the use of buckshot on the refuge.

(4) Sport fishing. We allow sport fishing on designated areas of the refuge subject to the following conditions:

(i) We prohibit the use or possession of alcoholic beverages while fishing.

(ii) We prohibit possession or use of jugs, seines, nets, hand-grab baskets, slat traps/baskets, or any other similar devices.

(iii) We prohibit commercial fishing of any kind.

(iv) We only allow trotlines, yo-yos, limb lines, crawfish traps, or any other similar devices and only for recreational use. You must tag or mark these devices with the angler's State fishing license number written with waterproof ink, legibly inscribed or legibly stamped on the tag. You must attend these devices a minimum of once every 24 hours. When not attended, you must remove these devices from the refuge (see § 27.93 of this chapter).

(v) We allow crawfishing.

* * * * *

(e) Hillside National Wildlife Refuge—(1) Migratory game bird hunting. We allow hunting of goose, duck, merganser, coot, and dove on designated areas of the refuge subject to the following conditions:

(i) Each person age 16 or older hunting or fishing must possess a valid Theodore Roosevelt Complex Annual Public Use Permit (FWS Form 3-2439, Hunt Application—National Wildlife Refuge System).

(ii) All youth hunters age 15 and younger must be in the presence and direct supervision of a Mississippi licensed or exempt hunter, age 21 or older. One adult may supervise no more than one youth hunter.

(iii) Before hunting or fishing, all participants must display their Daily Visitor Information/Harvest Report Card (Big Game Harvest Report, FWS Form 3-2359) in plain view in their vehicle so that the State-issued license number is readable. You must return all cards upon completion of the activity and before leaving the refuge.

(iv) We prohibit all other public use on the refuge during the muzzleloader deer and limited draw turkey hunts.

(v) Valid permit holders may incidentally take opossum, coyote, beaver, bobcat, and nutria in any refuge hunt season with weapons legal for that hunt. Valid permit holders may incidentally take feral hog during deer and turkey hunts only.

(vi) We prohibit hunting or shooting into a 100-foot (30.5-meter) zone along either side of pipelines, power line rights-of-way, designated roads, and trails, and around parking lots. It is considered hunting if you have a loaded weapon, if you have a nocked arrow while bow hunting, or if you are in an elevated tree stand or ground blind with a means to take, within these areas.

(vii) Hunters must remove all decoys, blind material, and harvested waterfowl from the area no later than 1 p.m. each day (see § 27.93 of this chapter).

(viii) We allow the use of dogs for retrieving migratory birds.

(ix) We allow goose, duck, merganser, and coot hunting beginning ½ hour before legal sunrise until 12 p.m. (noon).

(x) We do not open for early teal season.

(xi) We limit waterfowl hunters to 25 shotshells per person in the field.

(2) Upland game hunting. We allow hunting of squirrel, rabbit, quail, raccoon, opossum, coyote, beaver, bobcat, and nutria on designated areas of the refuge subject to the following conditions:

(i) The conditions set forth at paragraphs (e)(1)(i) through (vi) of this section apply.

(ii) We allow the use of dogs for hunting squirrel and quail, and for the February rabbit hunt.

(iii) Beginning the first day after the deer muzzleloader hunt, we prohibit entry into the Turkey Point area until March 1.

(3) Big game hunting. We allow hunting of white-tailed deer, turkey, and feral hog on designated areas of the refuge subject to the following conditions:

(i) The conditions set forth at paragraphs (e)(1)(i) through (vi) and (e)(2)(iii) of this section apply.

(ii) We prohibit organized drives. We define a “drive” as an organized or planned effort to pursue, drive, chase, or otherwise frighten or cause game to move in the direction of any person(s) who is part of the organized or planned hunt and known to be waiting for the game.

(iii) Hunting or shooting within or adjacent to open fields and tree plantations less than 5 feet (1.5 meters (m)) in height must be from a stand a minimum of 10 feet (3 m) above the ground.

(iv) The refuge brochure provides deer check station locations and requirements. Prior to leaving the refuge, you must check all harvested deer at the nearest self-service check station (FWS Form 3-2405, Self-Clearing Check-in/out Permit) following the posted instructions.

(v) Hunters may possess and hunt from only one stand or blind. Hunters may place a deer stand or blind 48 hours prior to a hunt and must remove it within 48 hours after each designated hunt (see § 27.93 of this chapter), with the exception of closed areas where special regulations apply.

(vi) During designated muzzleloader hunts, we allow archery equipment and muzzleloaders loaded with a single projectile; we prohibit breech-loading firearms of any type.

(vii) Turkey hunting opportunities will consist of three limited draw hunts within the State season time frame. Limited draw hunts require a Limited Hunt Permit (FWS Form 3-2439, Hunt Application—National Wildlife Refuge System) assigned by random computer drawing. At the end of the hunt, you must return the permit with information concerning the hunt to the refuge (Big Game Harvest Report (FWS Form 3-2359)). Failure to return this permit will disqualify the hunter for any limited hunts the next year.

(4) Sport fishing. We allow sport fishing on designated areas of the refuge subject to the following conditions:

(i) The conditions set forth at paragraphs (e)(1)(i), (iii), (iv), and (e)(2)(iii) of this section apply.

(ii) We prohibit trotlines, limb lines, jugs, seines, and traps.

(iii) We allow frogging during the State bullfrog season.

(iv) We allow fishing in the borrow ponds along the north levee throughout the year except during the muzzleloader deer hunt.

(v) We open all other refuge waters to fishing March 1 through November 15.

(f) * * *

(2) Upland game hunting. We allow hunting of rabbit, opossum, coyote, beaver, bobcat, and nutria on designated areas of the refuge subject to the following conditions:

(i) Each person age 16 or older hunting or fishing must possess a valid Theodore Roosevelt Complex Annual Public Use Permit (FWS Form 3-2439, Hunt Application—National Wildlife Refuge System)).

(ii) All youth hunters age 15 and younger must be in the presence and direct supervision of a Mississippi licensed or exempt hunter, age 21 or older. One adult may supervise no more than one youth hunter.

(iii) Before hunting or fishing, all participants must display their Daily Visitor Information/Harvest Report Card (Big Game Harvest Report, FWS Form 3-2359) in plain view in their vehicle so that the required information is readable. You must return all cards upon completion of the activity and before leaving the refuge.

(iv) We prohibit all other public use on the refuge during the muzzleloader deer hunt.

(v) Valid permit holders may incidentally take opossum, coyote, beaver, bobcat, and nutria in any refuge hunt season with weapons legal for that hunt. Valid permit holders may incidentally take feral hog during deer hunts only.

(vi) We allow the use of dogs for hunting during the February rabbit hunt.

(vii) We prohibit hunting or shooting into a 100-foot (30.5-meter (m)) zone along either side of pipelines, power line rights-of-way, designated roads, and trails, and around parking lots. It is considered hunting if you have a loaded weapon, if you have a nocked arrow while bow hunting, or if you are in an elevated tree stand or ground blind with a means to take, within these areas.

(3) Big game hunting. We allow hunting of white-tailed deer and feral hog on designated areas of the refuge subject to the following conditions:

(i) The conditions set forth at paragraphs (f)(2)(i) through (iii), (v), and (vii) of this section apply.

(ii) We prohibit organized drives. We define a “drive” as an organized or planned effort to pursue, drive, chase, or otherwise frighten or cause game to move in the direction of any person(s) who is part of the organized or planned hunt and known to be waiting for the game.

(iii) Hunting or shooting within or adjacent to open fields or tree plantations less than 5 feet (1.5 m) in height must be from a stand a minimum of 10 feet (3 m) above the ground.

(iv) Hunters may possess and hunt from only one stand or blind. Hunters may place a deer stand or blind 48 hours prior to a hunt and must remove it within 48 hours after each designated hunt (see § 27.93 of this chapter), with the exception of closed areas where special regulations apply.

(v) During designated muzzleloader hunts, we allow archery equipment and muzzleloaders loaded with a single projectile; we prohibit breech-loading firearms of any type.

* * * * *

(g) * * *

(1) * * *

(iv) Valid permit holders may incidentally take opossum, coyote, beaver, bobcat, and nutria in any refuge hunt season with weapons legal for that hunt. Valid permit holders may incidentally take feral hog during deer hunts only.

* * * * *

(2) Upland game hunting. We allow hunting of squirrel, rabbit, raccoon, opossum, coyote, beaver, bobcat, and nutria on designated areas of the refuge subject to the following conditions:

(i) The conditions set forth at paragraphs (g)(1)(i) through (v) of this section apply.

(ii) We allow the use of dogs for hunting squirrel and raccoon, and for the February rabbit hunt.

(iii) Beginning the day before waterfowl season, we restrict hunting to the waterfowl hunt area.

(3) * * *

(i) The conditions set forth at paragraphs (g)(1)(i) through (v) and (g)(2)(iii) of this section apply.

* * * * *

(v) Hunters may possess and hunt from only one stand or blind. Hunters may place a deer stand or blind 48 hours prior to a hunt and must remove it within 48 hours after each designated hunt (see § 27.93 of this chapter), with the exception of closed areas where special regulations apply.

* * * * *

(4) * * *

(iv) We open refuge waters to fishing throughout the year, except in the waterfowl sanctuary, which is closed one day prior to the beginning of waterfowl season until March 1.

(h) * * *

(1) * * *

(v) Valid permit holders may incidentally take opossum, coyote, beaver, bobcat, and nutria in any refuge hunt season with weapons legal for that hunt. Valid permit holders may incidentally take feral hog during deer hunts only.

* * * * *

(2) Upland game hunting. We allow hunting of squirrel, rabbit, quail, raccoon, opossum, coyote, beaver, bobcat, and nutria on designated areas of the refuge subject to the following conditions:

(i) The conditions set forth at paragraphs (h)(1)(i) through (vi) of this section apply.

(ii) We allow the use of dogs for hunting squirrel, quail, and raccoon, and for the February rabbit hunt.

(3) * * *

(iv) The refuge brochure provides deer check station locations and requirements. Prior to leaving the refuge, you must check all harvested deer at the nearest self-service check station (FWS Form 3-2405, Self-Clearing Check-in/out Permit) following the posted instructions.

* * * * *

(vi) During designated muzzleloader hunts, we allow archery equipment and muzzleloaders loaded with a single projectile; we prohibit breech-loading firearms of any type.

(4) * * *

(i) The conditions set forth at paragraphs (h)(1)(i), (iii), and (iv) of this section apply.

* * * * *

(i) * * *

(2) Upland game hunting. We allow hunting of squirrel, rabbit, quail, raccoon, opossum, coyote, beaver, bobcat, and nutria on designated areas of the refuge subject to the following conditions:

(i) The conditions set forth at paragraphs (i)(1)(i) through (vi) and (x) of this section apply.

(ii) We allow the use of dogs for hunting squirrel, quail, and raccoon, and for the February rabbit hunt.

(3) * * *

(iv) The refuge brochure provides deer check station locations and requirements. Prior to leaving the refuge, you must check all harvested deer at the nearest self-service check station (FWS Form 3-2405, Self-Clearing Check-in/out Permit) following the posted instructions.

* * * * *

(vi) During designated muzzleloader hunts, we allow archery equipment and muzzleloaders loaded with a single projectile; we prohibit breech-loading firearms of any type.

* * * * *

(4) * * *

(i) The conditions set forth at paragraphs (i)(1)(i), (iii), (iv), and (x) of this section apply.

* * * * *

(l) Tallahatchie River National Wildlife Refuge—(1) Migratory game bird hunting. We allow hunting of duck, geese, merganser, coot, rail, snipe, and woodcock on designated areas of the refuge subject to the following conditions:

(i) All hunters age 16 and older must possess a North Mississippi NWR hunting permit (code 606, available from the Mississippi Department of Wildlife, Fisheries, and Parks). While hunting on the refuge, all persons age 15 and younger (“youth hunter”) must be in the presence and under the direct supervision of a licensed or exempt hunter age 21 or older. A hunter supervising a youth hunter must hold all required licenses and permits.

(ii) Hunters may enter the refuge at 4 a.m. and must exit the refuge no later than 2 hours after legal sunset except during raccoon and frog hunts.

(iii) We allow hunting of migratory game birds, including under the Light Goose Conservation Order, only on Wednesdays, Saturdays, and Sundays.

(iv) Each hunter must obtain a daily Migratory Bird Hunt Report (FWS Form 3-2361). You must display the card in plain view on the dashboard of your vehicle so that the State-issued license number is readable. Prior to leaving the refuge, you must complete the reverse side of the card and deposit it at one of the refuge information stations. Include all game harvested, and if you harvest no game, report “0.” We prohibit hunters possessing more than one Migratory Bird Hunt Report at a time.

(v) It is unlawful to hunt from or shoot into the 100-foot (30.5-meter) zone along either side of designated roads and parking lots.

(vi) We allow the use of dogs on the refuge when hunting migratory game birds.

(vii) You must remove decoys, blinds, boats, other personal property, and litter from the hunting area following each morning's hunt (see §§ 27.93 and 27.94 of this chapter).

(viii) We allow no more than 25 shotshells per person in the field.

(ix) We allow the take of coyote, beaver, nutria, and feral hog incidental to other lawful hunting using legal methods of take.

(2) Upland game hunting. We allow hunting of squirrel, rabbit, nutria, and raccoon on designated areas of the refuge subject to the following conditions:

(i) The conditions set forth at paragraphs (l)(1)(i), (ii), (v), and (ix) of this section apply.

(ii) All hunters using shotguns for small game must use approved nontoxic shot (see § 32.2(k)).

(3) Big game hunting. We allow hunting of white-tailed deer and feral hog on designated areas of the refuge subject to the following conditions:

(i) The conditions set forth at paragraphs (l)(1)(i), (ii), and (iv) (substitute Big Game Harvest Report [FWS Form 3-2359] for Migratory Bird Hunt Report [FWS Form 3-2361]) of this section apply.

(ii) We prohibit dogs while hunting deer. We allow the use of dogs to hunt feral hog during designated hog seasons.

(iii) We prohibit organized deer drives. We define a “deer drive” as an organized or planned effort to pursue, drive, chase, or otherwise frighten or cause deer to move in the direction of any person(s) who is part of the organized or planned hunt and known to be waiting for the deer.

(iv) We prohibit hunting or shooting across any open, fallow, or planted field from ground level or on or across any public road, public highway, railroad, or their rights-of-way during all general gun and primitive weapon hunts.

(v) Hunters may erect portable deer stands 2 weeks prior to the opening of archery season on the refuge and must remove them (see § 27.93 of this chapter) by January 31.

(4) Sport fishing. We allow sport fishing on designated areas of the refuge subject to the following conditions:

(i) We prohibit possession or use of jugs, seines, nets, hand-grab baskets, slat traps/baskets, or any other similar devices.

(ii) We allow trotlines, yo-yos, limb lines, crawfish traps, or any other similar devices for recreational use only, and you must tag or mark them with waterproof ink, legibly inscribed or legibly stamped on the tag with your State fishing license number. You must attend these devices a minimum of once daily. If you are not going to attend these devices, you must remove them from the refuge (see § 27.93 of this chapter).

(iii) We allow crawfishing.

(m) * * *

(1) * * *

(v) Valid Theodore Roosevelt National Wildlife Refuge Complex Annual Public Use Permit (FWS Form 3-2439, Hunt Application—National Wildlife Refuge System) holders may incidentally take opossum, coyote, beaver, bobcat, and nutria in any refuge hunt season with weapons legal for that hunt. Valid permit holders may incidentally take feral hog during deer hunts only.

* * * * *

(xi) Limited draw hunts require a Limited Hunt Permit (FWS Form 3-2439, Hunt Application—National Wildlife Refuge System) assigned by random computer drawing. At the end of the hunt, you must return the permit with information concerning that hunt to the refuge (FWS Form 3-2405, Self-Clearing Check-in/out Permit). Failure to return this permit will disqualify the hunter for any limited hunts the next year.

(2) * * *

(ii) We allow the use of dogs for hunting squirrel and raccoon, and for the February rabbit hunt.

(iii) We allow rabbit hunting on the Brown Tract of Theodore Roosevelt National Wildlife Refuge, which is managed by Yazoo National Wildlife Refuge.

(3) * * *

(i) The conditions set forth at paragraphs (m)(1)(i) through (vi) and (xi) of this section apply.

* * * * *

(iv) The refuge brochure provides deer check station locations and requirements. Prior to leaving the refuge, you must check all harvested deer at the nearest self-service check station (FWS Form 3-2405, Self-Clearing Check-in/out Permit) following the posted instructions.

* * * * *

(vi) During designated muzzleloader hunts, we allow archery equipment and muzzleloaders loaded with a single projectile; we prohibit breech-loading firearms of any type.

(vii) We allow white-tailed deer hunting on the Brown Tract of Theodore Roosevelt National Wildlife Refuge which is managed by Yazoo National Wildlife Refuge.

* * * * *

23. Amend § 32.45 by:

a. Revising paragraph (n)(1)(v);

b. Adding paragraph (n)(2);

c. Removing paragraph (n)(3)(iv);

d. Redesignating paragraphs (n)(3)(v) through (n)(3)(viii) as paragraphs (n)(3)(iv) through (n)(3)(vii); and

e. Revising paragraph (w)(3) introductory text.

The revisions and addition read as follows:

§ 32.45 Montana.

* * * * *

(n) * * *

(1) * * *

(v) Each hunter must set the appropriate blind selector (metal flip tag) before and after hunting.

* * * * *

(2) Upland game hunting. We allow hunting of turkey on designated areas of the refuge.

* * * * *

(w) * * *

(3) Big game hunting. We allow archery hunting of bear, elk, white-tailed deer, and mule deer on designated areas of the refuge subject to the following conditions:

* * * * *

24. Amend § 32.46 by:

a. Revising paragraphs (b) and (c);

b. Redesignating paragraphs (d) through (f) as paragraphs (e) through (g);

c. Adding a new paragraph (d); and

d. Revising newly redesignated paragraphs (e), (f)(2) and (3), and (g).

The revisions and addition read as follows:

§ 32.46 Nebraska.

* * * * *

(b) Crescent Lake National Wildlife Refuge—(1) Migratory game bird hunting. We allow hunting of coot, crow, dove, duck, goose, merganser, rail, and snipe on designated areas of the refuge subject to the following conditions:

(i) Hunters may access the refuge from 2 hours before legal sunrise until 2 hours after legal sunset.

(ii) We allow the use of dogs.

(iii) We open the refuge to hunting from September 1 through March 15.

(iv) We prohibit publicly organized hunts unless authorized under a Special Use Permit (FWS Form 3-1383-C).

(2) Upland game hunting. We allow hunting of cottontail and jack rabbit, coyote, porcupine, prairie dog, State-defined furbearers, ring-necked pheasant, and prairie grouse on designated areas of the refuge subject to the following conditions:

(i) The conditions set forth at paragraphs (b)(1)(i) through (iv) of this section apply.

(ii) We allow electronic calls for coyote and furbearer hunting.

(iii) Coyotes and all furbearers or their parts, if left in the field, must be left at least 50 yards away from any road, trail, or building. Otherwise, hunters must remove them from the refuge.

(iv) Shooting hours are from ½ hour before legal sunrise until ½ hour after legal sunset.

(3) Big game hunting. We allow hunting of white-tailed deer, mule deer, and pronghorn antelope on designated areas of the refuge subject to the following condition: The conditions set forth at paragraphs (b)(1)(i) and (iv) of this section apply.

(4) Sport fishing. We allow sport fishing on designated areas of the refuge subject to the following conditions:

(i) Anglers may enter the refuge 1 hour before legal sunrise and remain until 1 hour after legal sunset.

(ii) We open Blue, Smith, Crane, and Island Lake to fishing year-round. We close all other refuge lakes to fishing.

(iii) We prohibit leaving temporary shelters used for fishing overnight on the refuge.

(c) Fort Niobrara National Wildlife Refuge—(1) Migratory game bird hunting. We allow hunting of coot, crow, dark goose, dove, duck, light goose, rail, snipe, teal, and woodcock on designated areas of the refuge subject to the following conditions:

(i) Hunters may access the refuge from 2 hours before legal sunrise until 2 hours after legal sunset.

(ii) We allow access from designated areas of the refuge.

(iii) You must remove all blinds and decoys at the conclusion of each day's hunt (see § 27.93 of this chapter).

(iv) We allow the use of dogs when hunting August 1 through April 30.

(2) Upland game hunting. We allow upland game hunting on designated areas of the refuge subject to the following conditions:

(i) The conditions set forth at paragraphs (c)(1)(i), (ii), and (iv) of this section apply.

(ii) We allow hunting with muzzleloader, archery, shotgun, and falconry.

(iii) You may only possess nontoxic shot when hunting turkey (see § 32.2(k)).

(3) Big game hunting. We allow hunting of deer and elk on designated areas of the refuge subject to the following conditions:

(i) We allow hunting only with muzzleloader and archery equipment.

(ii) We allow hunter access from 2 hours before legal sunrise until 2 hours after legal sunset.

(iii) We allow portable tree stands and ground blinds to be used from August 16 through January 31. They may be left in the same location for no more than 7 consecutive days.

(4) Sport fishing. We allow fishing on Minnechaduza Creek and on the Niobrara River, downstream from the Cornell Dam, subject to the following conditions:

(i) Anglers may access the refuge from 2 hours before legal sunrise until 2 hours after legal sunset.

(ii) We prohibit the use of limb or set lines.

(iii) We prohibit the take of baitfish, reptiles, and amphibians.

(iv) We prohibit use or possession of alcoholic beverages while fishing on refuge lands and waters.

(d) John W. and Louise Seier National Wildlife Refuge—(1) Migratory game bird hunting. We allow migratory game bird hunting on designated areas of the refuge subject to the following conditions:

(i) Hunters may access the refuge from 2 hours before legal sunrise until 2 hours after legal sunset.

(ii) You must remove all blinds and decoys at the conclusion of each day's hunt (see § 27.93 of this chapter).

(iii) We allow the use of dogs August 1 through April 31.

(2) Upland game hunting. We allow upland game hunting on designated areas of the refuge subject to the following conditions:

(i) The conditions set forth at paragraphs (d)(1)(i) and (iii) of this section apply.

(ii) You may only possess nontoxic shot when hunting turkey (see § 32.2(k)).

(3) Big game hunting. We allow hunting of deer, elk, and pronghorn antelope on designated areas of the refuge subject to the following conditions:

(i) The condition set forth at paragraph (d)(1)(i) of this section applies.

(ii) We allow portable tree stands and ground blinds to be used from August 16 through January 31. They may be left in the same location for no more than 7 consecutive days.

(4) [Reserved]

(e) North Platte National Wildlife Refuge. (1) [Reserved]

(2) Upland game hunting. We allow hunting of pheasant, porcupine, prairie dog, rabbit, State-defined furbearers, squirrel, turkey, and coyote on designated areas of the refuge subject to the following conditions:

(i) We close the Lake Alice Unit to all public entry from November 1 through January 14.

(ii) Hunters must be 15 years of age or younger (“youth hunters”). A licensed hunter 19 years of age or older (“adult guide”) must accompany youth hunters. Adult guides must not hunt or carry firearms.

(iii) We close the refuge to public use from legal sunset to legal sunrise. Youth hunters and adult guides may enter the designated hunting area 1 hour prior to legal sunrise.

(iv) We allow the use of dogs for hunting upland game.

(3) Big game hunting. We allow archery hunting of mule deer and white-tailed deer on designated areas of the refuge subject to the following conditions:

(i) The condition set forth at paragraph (e)(2)(i) of this section applies.

(ii) We close the refuge to public use from legal sunset to legal sunrise. However, archery deer hunters may enter the designated hunting area 1 hour prior to legal sunrise and remain until 1 hour after legal sunset.

(4) Sport fishing. We allow sport fishing on designated areas of the refuge.

(f) * * *

(2) Upland game hunting. We allow upland game hunting on designated areas of the district subject to the following condition: The conditions set forth at paragraphs (f)(1)(i) and (ii) of this section apply.

(3) Big game hunting. We allow big game hunting on designated areas of the district subject to the following condition: The conditions set forth at paragraphs (f)(1)(i) and (ii) of this section apply.

* * * * *

(g) Valentine National Wildlife Refuge—(1) Migratory game bird hunting. We allow hunting of coot, crow, dark goose, duck, light goose, merganser, rail, snipe, and woodcock on designated areas of the refuge subject to the following conditions:

(i) We allow hunter access from 2 hours before legal sunrise to 2 hours after legal sunset.

(ii) We allow the use of dogs.

(iii) We prohibit shooting from a motor vehicle or across any refuge roadway or right-of-way.

(iv) You must remove all blinds and decoys at the conclusion of each day's hunt (see § 27.93 of this chapter).

(2) Upland game hunting. We allow hunting of dove, cottontail rabbit, coyote, partridge, prairie chicken, ring-neck pheasant, State-defined furbearers, sharp-tailed grouse, squirrel, and turkey on designated areas of the refuge subject to the following conditions:

(i) The conditions set forth at paragraphs (g)(1)(i) through (iii) of this section apply.

(ii) We allow coyote and State-defined furbearer hunting from September 1 to March 31. Shooting hours are ½ hour before legal sunrise to ½ hour after legal sunset.

(iii) We prohibit the use of dogs to hunt coyotes.

(iv) We prohibit the use of bait to hunt coyotes.

(v) You may only possess nontoxic shot when hunting turkey (see § 32.2(k)).

(3) Big game hunting. We allow hunting of elk, white-tailed deer, mule deer, and pronghorn antelope on designated areas of the refuge subject to the following conditions:

(i) The conditions set forth at paragraphs (g)(1)(i) and (iii) of this section apply.

(ii) We allow portable tree stands and ground blinds to be used from August 16 through January 31. They may be left in the same location for no more than 7 consecutive days.

(4) Sport fishing. We allow sport fishing on designated areas of the refuge subject to the following conditions:

(i) Anglers may enter the refuge 1 hour before legal sunrise and remain 1½ hours after legal sunset.

(ii) We prohibit the take of reptiles, amphibians, and minnows (see § 27.21 of this chapter), with the exception that you may take bullfrogs on refuge lakes open to fishing.

25. Amend § 32.47 by:

a. Redesignating paragraphs (c) through (f) as paragraphs (d) through (g);

b. Adding a new paragraph (c); and

c. Revising newly redesignated paragraph (g).

The addition and revision read as follows:

§ 32.47 Nevada.

* * * * *

(c) Fallon National Wildlife Refuge—(1) Migratory game bird hunting. We allow hunting of goose, duck, swan, coot, merganser, snipe, and dove on designated areas of the refuge subject to the following conditions:

(i) We allow motorized and nonmotorized boats for hunting.

(ii) We allow the use of dogs when hunting.

(iii) We allow overnight stays while hunting subject to the following conditions:

(A) You may stay overnight only at designated sites within the refuge boundary.

(B) We limit overnight stays to 4 consecutive nights at one location, and to 12 consecutive nights on the refuge.

(2) Upland game hunting. We allow hunting of quail, rabbit, turkey, badger, beaver, and coyote on designated areas of the refuge subject to the following conditions:

(i) The conditions set forth at paragraphs (c)(1)(ii) and (iii) of this section apply.

(ii) We allow artificial lighting for hunting coyotes.

(3) Big game hunting. We allow hunting of mule deer and pronghorn on designated areas of the refuge subject to the following condition: The condition set forth at paragraph (c)(1)(iii) of this section applies.

(4) [Reserved]

* * * * *

(g) Stillwater National Wildlife Refuge—(1) Migratory game bird hunting. We allow hunting of goose, duck, swan, coot, merganser, snipe, and dove on designated areas of the refuge subject to the following conditions:

(i) We allow the use of dogs when hunting.

(ii) We allow overnight stays while hunting subject to the following conditions:

(A) You may stay overnight only at designated sites within the refuge boundary.

(B) We limit overnight stays to 4 consecutive nights at one location, and to 12 consecutive nights on the refuge.

(2) Upland game hunting. We allow hunting of quail, rabbit, turkey, badger, beaver, and coyote on designated areas of the refuge subject to the following conditions:

(i) Approved methods of take include shotgun and federally approved non-lead shot, bow and arrow, and falconry.

(ii) We allow the use of dogs when hunting.

(iii) The condition set forth at paragraph (g)(1)(ii) of this section applies.

(3) Big game hunting. We allow hunting of mule deer and pronghorn on designated areas of the refuge subject to the following conditions:

(i) Approved methods of take include shotgun, muzzle-loading rifle, and bow and arrow.

(ii) The condition set forth at paragraph (g)(1)(ii) of this section applies.

(4) [Reserved]

26. Amend § 32.48 by revising paragraphs (a)(1)(ii), (b), and (c) to read as follows:

§ 32.48 New Hampshire.

* * * * *

(a) * * *

(1) * * *

(ii) We allow the use of dogs consistent with State regulations.

* * * * *

(b) Silvio O. Conte National Fish and Wildlife Refuge—(1) Migratory game bird hunting. We allow hunting of duck, goose, common snipe, and American woodcock on designated areas of the refuge subject to the following condition: We allow the use of dogs consistent with State regulations.

(2) Upland game hunting. We allow hunting of coyote, fox, raccoon, woodchuck, red squirrel, eastern gray squirrel, porcupine, skunk, crow, snowshoe hare, ring-necked pheasant, and ruffed grouse on designated areas of the refuge subject to the following condition: We allow the use of dogs consistent with State regulations.

(3) Big game hunting. We allow hunting of white-tailed deer, moose, black bear, and wild turkey on designated areas of the refuge subject to the following condition: We allow tree stands and blinds that are clearly marked with the owner's State hunting license number.

(4) [Reserved]

(c) Umbagog National Wildlife Refuge—(1) Migratory game bird hunting. We allow hunting of duck, goose, snipe, coot, crow, and woodcock on designated areas of the refuge subject to the following condition: We allow the use of dogs consistent with State regulations.

(2) Upland game hunting. We allow hunting of fox, raccoon, woodchuck, squirrel, porcupine, skunk, snowshoe hare, ring-necked pheasant, and ruffed grouse on designated areas of the refuge subject to the following conditions:

(i) We prohibit night hunting from ½ hour after legal sunset until ½ hour before legal sunrise the following day.

(ii) We allow the use of dogs consistent with State regulations.

(3) Big game hunting. We allow hunting of bear, white-tailed deer, coyote, wild turkey, and moose on designated areas of the refuge subject to the following condition:

(i) We allow the use of dogs consistent with State regulations.

(ii) Hunters must retrieve all species harvested on the refuge.

(iii) We allow temporary blinds and tree stands that are clearly marked with the owner's State hunting license number. You may erect temporary blinds and tree stands no earlier than 14 days prior to the hunting season, and you must remove them within 14 days after the hunting season (see § 27.93 of this chapter).

(4) Sport fishing. We allow sport fishing on designated areas of the refuge.

27. Amend § 32.49 by revising paragraphs (a), (b), (c)(3)(iii), (d)(1), and (e) to read as follows:

§ 32.49 New Jersey.

* * * * *

(a) Cape May National Wildlife Refuge—(1) Migratory game bird hunting. We allow hunting of waterfowl, coot, moorhen, rail, snipe, and woodcock on designated areas of the refuge subject to the following conditions:

(i) The snipe season on the refuge begins with the start of the State early woodcock south zone season and continues through the end of the State snipe season.

(ii) We allow the use of dogs consistent with State regulations.

(iii) We prohibit falconry.

(2) Upland game hunting. We allow hunting of rabbit and squirrel on designated areas of the refuge subject to the following conditions:

(i) The conditions set forth at paragraphs (a)(1)(ii) and (iii) of this section apply.

(ii) We allow rabbit and squirrel hunting following the end of the State's 6-day firearm season for white-tailed deer, until the close of the regular rabbit and squirrel season.

(3) Big game hunting. We allow hunting of white-tailed deer and turkey on designated areas of the refuge subject to the following condition: Tree stands must be marked with the owner's New Jersey Conservation Identification Number.

(4) Sport fishing. We allow saltwater sport fishing on designated areas of the refuge subject to the following conditions:

(i) We allow fishing from 1 hour before legal sunrise to 1 hour after legal sunset.

(ii) We close the Atlantic Ocean beach annually to all access, including fishing, between April 1 and September 30.

(iii) We prohibit fishing for, or possession of, shellfish on refuge lands.

(b) Edwin B. Forsythe National Wildlife Refuge—(1) Migratory game bird hunting. We allow hunting of waterfowl, coot, moorhen, and rail on designated areas of the refuge subject to the following conditions:

(i) We require hunters to possess a signed refuge hunt permit (Migratory Bird Hunt Application FWS Form 3-2439, Hunt Application—National Wildlife Refuge System) at all times while scouting and hunting on the refuge.

(ii) We allow the use of dogs consistent with State regulations.

(2) Upland game hunting. We allow hunting of squirrel on designated areas of the refuge subject to the following condition: The conditions set forth at paragraphs (b)(1)(i) and (ii) of this section apply.

(3) Big game hunting. We allow hunting of white-tailed deer and wild turkey on designated areas of the refuge subject to the following conditions:

(i) The condition set forth at paragraph (b)(1)(i) of this section applies.

(ii) You must mark deer stands with the hunter's New Jersey Conservation Identification Number. You must remove deer stands from the refuge at the end of the last day of the hunting season (see §§ 27.93 and 27.94 of this chapter).

(4) Sport fishing. We allow sport fishing on designated areas of the refuge subject to the following condition: We prohibit the use of lead fishing tackle on the refuge.

(c) * * *

(3) * * *

(iii) Hunters may put up tree stands beginning on the first scouting day, except on the day of the refuge's youth hunt. Hunters must retrieve their stands by 12 p.m. (noon) on the Sunday after the last day of the hunt (see § 27.93 of this chapter). All hunters must put their Conservation Identification Number on their stand, and they may have only one stand in the field at any one time.

* * * * *

(d) * * *

(1) Migratory game bird hunting. We allow hunting of goose and duck on designated areas of the refuge subject to the following condition: We allow the use of dogs consistent with State regulations.

* * * * *

(e) Wallkill River National Wildlife Refuge—(1) Migratory game bird hunting. We allow hunting of migratory birds on designated areas of the refuge subject to the following conditions:

(i) Hunters must obtain a refuge hunt permit (FWS Form 3-2439, Hunt Application—National Wildlife Refuge System). We require hunters to possess a signed refuge hunt permit at all times while scouting and hunting on the refuge.

(ii) Hunters may enter the refuge 2 hours before legal shooting time and must leave no later than 2 hours after legal shooting time.

(iii) We allow the use of dogs consistent with State regulations.

(2) Upland game hunting. We allow hunting of coyote, fox, crow, ruffed grouse, opossum, raccoon, pheasant, chukar, rabbit/hare/jackrabbit, squirrel, and woodchuck on designated areas of the refuge subject to the following conditions:

(i) The conditions set forth at paragraphs (e)(1)(i) through (iii) of this section apply.

(ii) We allow hunting from legal sunrise to legal sunset.

(3) Big game hunting. We allow hunting of white-tailed deer, bear, and wild turkey on designated areas of the refuge subject to the following conditions:

(i) The conditions set forth at paragraphs (e)(1)(i) and (ii) of this section apply.

(ii) We prohibit organized deer drives. We define a “deer drive” as an organized or planned effort to pursue, drive, chase, or otherwise frighten or cause deer to move in the direction of any person(s) who is part of the organized or planned hunt and known to be waiting for the deer.

(4) Sport fishing. We allow sport fishing on the refuge subject to the following conditions:

(i) We open Owens Station Crossing for catch-and-release fishing only.

(ii) We allow fishing from ½ hour before legal sunrise to ½ hour after legal sunset.

(iii) We prohibit the taking of amphibians and reptiles (see § 27.21 of this chapter).

(iv) We prohibit trapping fish for use as bait.

28. Amend § 32.50 by:

a. Revising paragraphs (a)(1)(i)(A) and (a)(2) introductory text;

b. Adding paragraph (a)(2)(iii); and

c. Revising paragraph (b).

The revisions and addition read as follows:

§ 32.50 New Mexico.

* * * * *

(a) * * *

(1) * * *

(i) * * *

(A) You may hunt only on Tuesdays, Thursdays, and Saturdays during the period when the State seasons that apply to the Middle Tract area are open.

* * * * *

(2) Upland game hunting. We allow hunting of pheasant, quail (scaled, Gambel's, northern bobwhite, and Montezuma), Eurasian collared-dove, desert cottontail, and black-tailed jack rabbit on designated areas of the refuge subject to the following conditions:

* * * * *

(iii) We allow Eurasian collared-dove hunting on the North Tract only during the season that is concurrently open for dove hunting within the State.

* * * * *

(b) Bosque del Apache National Wildlife Refuge—(1) Migratory game bird hunting. We allow hunting of mourning and white-winged dove, light and dark goose, American coot, common moorhen, common snipe, duck, and merganser on designated areas of the refuge subject to the following conditions:

(i) We allow hunting of light goose on dates to be determined by refuge staff. Hunters must possess a permit available through a lottery drawing (Waterfowl Lottery Application, FWS Form 3-2439, Hunt Application—National Wildlife Refuge System).

(ii) Legal hunting hours will run from ½ hour before legal sunrise to legal sunset on each hunt day.

(iii) You must remove all waterfowl decoys, spent shells, temporary blinds/stands, and other personal equipment at the end of each day's hunt (see §§ 27.93 and 27.94 of this chapter).

(iv) We allow the use of dogs when hunting.

(v) We prohibit falconry on the refuge.

(vi) You may hunt on the designated wilderness areas and the East Hunt Unit by foot, horseback, or bicycle only. Bicycles must stay on designated roads.

(2) Upland game hunting. We allow hunting of scaled, Gambel's, northern bobwhite, and Montezuma quail; cottontail rabbit; black-tailed jackrabbit; and Eurasian collared-dove on designated areas of the refuge subject to the following conditions:

(i) The conditions set forth at paragraphs (b)(1)(iv) through (vi) of this section apply.

(ii) Hunting hours are from ½ hour before legal sunrise to ½ after legal sunset.

(3) Big game hunting. We allow hunting of mule deer, javelina, feral hog, oryx, and bearded Rio Grande turkey on designated areas of the refuge subject to the following conditions:

(i) The conditions set forth at paragraphs (b)(1)(vi) and (b)(2)(ii) of this section apply.

(ii) We allow hunting of bearded Rio Grande turkey for youth hunters on weekends April through May. All hunters must fill out FWS Form 3-2439 (Hunt Application—National Wildlife Refuge System) and pay a fee. The permit is available through a lottery drawing. If selected, you must carry your refuge hunt permit (FWS Form 3-2349) at all times during the hunt.

(4) Sport fishing. We allow fishing on designated areas of the refuge subject to the following conditions:

(i) We allow fishing from April 1 through September 30.

(ii) We allow fishing from ½ hour before legal sunrise until ½ hour after legal sunset.

(iii) We prohibit trotlines, bow fishing, seining, dip netting, and traps.

(iv) We allow frogging for bullfrog on the refuge in areas that are open to fishing. We allow the use of hook and line, spears, gigs, and archery equipment to take bullfrog.

* * * * *

29. Amend § 32.51 by:

a. Revising paragraphs (c) and (d);

b. Adding paragraph (f)(3);

c. Revising paragraphs (g)(3)(i) and (ii), (i), (j)(3), and (j)(4)(iv).

The revisions and addition read as follows:

§ 32.51 New York.

* * * * *

(c) Iroquois National Wildlife Refuge—(1) Migratory game bird hunting. We allow hunting of duck, goose, rail, coot, gallinule, woodcock, and snipe on designated areas of the refuge subject to the following conditions:

(i) We allow the use of dogs consistent with State regulations.

(ii) For hunting of duck, goose, and coot:

(A) We allow hunting on Saturday of the New York State Youth Days.

(B) We allow hunting Tuesdays, Thursdays, and Saturdays during the regular waterfowl season, excluding opening day of deer firearms season.

(C) We require proof of successful completion of the New York State waterfowl identification course, the Iroquois nonresident waterfowl identification course, or a suitable nonresident State waterfowl identification course. All hunters must show proof of successful course completion each time they hunt.

(D) We require a refuge hunt permit (FWS Form 3-2439, Hunt Application—National Wildlife Refuge System).

(E) We allow hunting from legal starting time until 12 p.m. (noon). We require hunters to return a completed Migratory Bird Hunt Report (FWS Form 3-2361) no later than 1 p.m. on the day of the hunt.

(F) Hunters must remain in designated hunting areas, unless actively pursuing downed or crippled birds.

(iii) For hunting of rail, gallinule, snipe, and woodcock:

(A) We allow hunting during the State seasons east of Sour Springs Road by all hunters, except we close rail, gallinule, snipe and woodcock hunting during refuge waterfowl hunt days to hunters without a refuge waterfowl permit.

(B) [Reserved]

(2) Upland game hunting. We allow hunting of ruffed grouse, gray squirrel, cottontail rabbit, pheasant, coyote, fox, raccoon, skunk, and opossum on designated areas of the refuge subject to the following conditions:

(i) The condition set forth at paragraph (c)(1)(i) of this section applies.

(ii) For small game hunting:

(A) We allow hunting from opening day of the State season until the last day of February.

(B) We prohibit the use of raptors to take small game.

(iii) For furbearer hunting, we prohibit hunting from legal sunset to legal sunrise.

(3) Big game hunting. We allow hunting of white-tailed deer and turkey on designated areas of the refuge subject to the following condition:

(i) We require a refuge permit (FWS Form 3-2439, Hunt Application—National Wildlife Refuge System) for spring turkey hunting.

(ii) The condition set forth at paragraph (c)(1)(i) of this section applies.

(4) Sport fishing. We allow sport fishing and frogging on designated areas of the refuge subject to the following conditions:

(i) We allow fishing and frogging from legal sunrise to legal sunset.

(ii) We prohibit collecting fish for use as bait.

(d) Montezuma National Wildlife Refuge—(1) Migratory game bird hunting. We allow hunting of waterfowl, Canada goose, snow goose, and gallinule on designated areas of the refuge subject to the following conditions:

(i) We allow the use of dogs consistent with State regulations.

(ii) For the regular waterfowl season:

(A) We require daily refuge permits (Migratory Bird Hunt Report, FWS Form 3-2361) and reservations; we issue permits to hunters with a reservation for that hunt day. We require you to complete and return your permit by the end of the hunt day.

(B) We allow hunting only on Tuesdays, Thursdays, and Saturdays during the established refuge season set within the State western zone season. We allow a youth waterfowl hunt during New York State's established youth waterfowl hunt each year.

(C) All hunters with reservations and their hunting companions must check-in at the Route 89 Hunter Check Station area at least 1 hour before legal shooting time or forfeit their reservation.

(D) We allow motorless boats to hunt waterfowl. We limit hunters to one boat per reservation and one motor vehicle in the hunt area per reservation.

(E) We prohibit shooting from within 500 feet (152.4 meters) of the Tschache Pool observation tower.

(F) We require proof of successful completion of the New York State waterfowl identification course, the Montezuma nonresident waterfowl identification course, or a suitable nonresident State waterfowl identification course. All hunters must show proof of successful course completion each time they hunt.

(iii) For Canada goose and snow goose hunting:

(A) We allow hunting of Canada goose during the New York State September season and of snow goose during portions of the New York State snow goose season and portions of the period covered by the Light Goose Conservation Order.

(B) You must possess a valid daily hunt permit card (Migratory Bird Hunt Report, FWS Form 3-2361). We require you to complete and return the daily hunt permit card by the end of the hunt day.

(2) Upland game hunting. We allow hunting of rabbit and squirrel on designated areas of the refuge subject to the following conditions:

(i) The condition set forth at paragraph (d)(1)(i) of this section applies.

(ii) You must possess a valid daily hunt permit card (Upland/Small Game/Furbearer Report, FWS Form 3-2362) and are required to complete and return the daily hunt permit card by the end of each hunt day.

(iii) We allow upland game hunters to access the refuge from 2 hours before legal sunrise until 2 hours after legal sunset.

(iv) We require the use of approved nontoxic shot for upland game hunting (see § 32.2(k)).

(3) Big game hunting. We allow hunting of white-tailed deer and wild turkey on designated areas of the refuge subject to the following conditions:

(i) We allow the use of dogs consistent with State regulations when hunting big game.

(ii) You must possess a valid daily Big/Upland Game Hunt permit card (FWS Form 3-2359, Hunt Application—National Wildlife Refuge System). We require you to complete and return the daily hunt permit card by the end of the hunt day.

(iii) We allow white-tailed deer and turkey hunters to access the refuge from 2 hours before legal sunrise until 2 hours after the end of legal shooting time.

(4) Sport fishing. We allow access for fishing from designated areas of the refuge subject to the following condition: We prohibit the use of lead fishing tackle.

* * * * *

(f) * * *

(3) Big game hunting. We allow hunting of white-tailed deer on designated areas of the refuge subject to the following conditions:

(i) We allow archery hunting on specific days between November 1 and January 31.

(ii) Hunters must obtain and possess a refuge-specific permit (FWS Form 3-2439, Hunt Application—National Wildlife Refuge System) for hunting on the refuge.

* * * * *

(g) * * *

(3) * * *

(i) Hunters must purchase and possess a signed refuge hunt permit (FWS Form 3-2439, Hunt Application—National Wildlife Refuge System) at all times while scouting and hunting on the refuge.

(ii) You may hunt deer using archery equipment only.

* * * * *

(i) Wallkill River National Wildlife Refuge—(1) Migratory game bird hunting. We allow hunting of migratory birds on designated areas of the refuge subject to the following conditions:

(i) Hunters must obtain and possess a signed refuge hunt permit (FWS Form 3-2439, Hunt Application—National Wildlife Refuge System) at all times while scouting and hunting on the refuge.

(ii) Hunters may enter the refuge 2 hours before legal shooting time and leave no later than 2 hours after legal shooting time.

(iii) We allow the use of dogs consistent with State regulations.

(2) Upland game hunting. We allow hunting of rabbit/hare, gray/black/fox squirrel, pheasant, bobwhite quail, ruffed grouse, crow, red/gray fox, coyote, bobcat, raccoon, skunk, mink, weasel, and opossum on designated areas of the refuge subject to the following conditions:

(i) The conditions set forth at paragraphs (i)(1)(i) through (iii) of this section apply.

(ii) We allow hunting from legal sunrise to legal sunset.

(3) Big game hunting. We allow hunting of white-tailed deer, bear, and wild turkey on designated areas of the refuge subject to the following conditions:

(i) The conditions set forth at paragraphs (i)(1)(i) and (ii), and (i)(2)(ii) of this section apply.

(ii) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following conditions:

(i) We open Owens Station Crossing for catch-and-release fishing only.

(ii) We allow fishing from ½ hour before legal sunrise to ½ hour after legal sunset.

(iii) We prohibit the taking of amphibians and reptiles.

(iv) We prohibit minnow/bait trapping.

(j) * * *

(3) Big game hunting. We allow hunting of white-tailed deer and turkey within designated areas of the refuge subject to the following conditions:

(i) We allow archery and shotgun hunting of white-tailed deer during specific days between November 1 and January 31.

(ii) We require a permit (FWS Form 3-2439, Hunt Application—National Wildlife Refuge System) for hunting on the refuge.

(iii) Hunters assigned to Unit 5 must hunt from portable tree stands and must direct aim away from a public road and/or dwelling.

(4) * * *

(iv) We prohibit the taking of baitfish and frogs.

30. Amend § 32.52 by revising paragraph (f)(1)(vi), and adding paragraph (f)(1)(ix), to read as follows:

§ 32.52 North Carolina.

* * * * *

(f) * * *

(1) * * *

(vi) Shooting hours are from ½ hour before legal sunrise until 12 p.m. (noon).

* * * * *

(ix) Hunting by youth hunters (age 16 and younger) is subject to the following conditions:

(A) Validly licensed adults, age 21 or older, holding applicable permits must accompany and supervise, remaining in sight and voice contact at all times, any youth hunters. Each adult may supervise no more than two youth hunters.

(B) Youth hunters must possess and carry evidence of successful completion of a State-approved hunter education course.

(C) We allow hunting on Tuesdays, Wednesdays, Fridays, and Saturdays during the late and youth waterfowl State seasons.

* * * * *

31. Revise § 32.53 to read as follows:

§ 32.53 North Dakota.

The following refuge units are open for hunting and/or fishing as governed by applicable Federal and State regulations, and are listed in alphabetical order with additional refuge-specific regulations.

(a) Appert Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(b) Ardoch National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(c) Arrowwood National Wildlife Refuge. (1) [Reserved]

(2) Upland game hunting. We allow hunting of pheasant, sharp-tailed grouse, partridge, cottontail rabbit, and fox on designated areas of the refuge subject to the following conditions:

(i) We allow hunting of upland game birds on the day following the close of the State firearm deer season through the end of the regular upland bird season.

(ii) We allow hunting of cottontail rabbit and fox on the day following the close of the State firearm deer season through March 31.

(3) Big game hunting. We allow deer hunting on designated areas of the refuge subject to the following conditions:

(i) We prohibit entering the refuge before legal shooting hours on the opening day of firearms deer season. We require all hunters to be off the refuge 1½ hours after legal sunset.

(ii) We allow deer hunting on the refuge during the State youth deer season.

(iii) After harvesting a deer, firearm deer hunters must wear blaze orange on the refuge.

(iv) We allow access by foot travel only. You may use a vehicle on designated refuge roads and trails to retrieve deer during the following times only: 9:30 to 10 a.m.; 1:30 to 2 p.m.; and ½ hour after legal sunset for 1 hour.

(v) We allow temporary tree stands, blinds, and game cameras for daily use; you must remove them by the end of each day's hunt (see § 27.93 of this chapter).

(4) Sport fishing. We allow sport fishing on designated areas of the refuge subject to the following conditions:

(i) We allow boats at idle speed only on Arrowwood Lake and Jim Lake from May 1 to September 30 of each year.

(ii) We allow ice fishing and dark house spearfishing. We allow snowmobiles, all-terrain vehicles (ATVs), utility terrain vehicles (UTVs), motor vehicles, and fish houses on the ice as conditions allow.

(iii) You may use and leave fish houses on the ice overnight until March 15.

(d) Arrowwood Wetland Management District—(1) Migratory game bird hunting. We allow migratory game bird hunting on designated areas of the district subject to the following condition: You must remove boats, decoys, portable blinds, other personal property, and any materials brought onto the area for blind construction at the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by legal sunset (see §§ 27.93 and 27.94 of this chapter).

(e) Audubon National Wildlife Refuge. (1) [Reserved]

(2) Upland game hunting. We allow hunting of ring-necked pheasant, gray partridge, and sharp-tailed grouse on designated areas of the refuge subject to the following conditions:

(i) We open to upland game hunting annually on the day following the close of the regular deer gun season, and we close as governed by the State season.

(ii) We allow game retrieval without a firearm up to 100 yards (90 meters) inside the refuge boundary fence and closed areas of the refuge. Retrieval time may not exceed 10 minutes. You may use dogs to assist in retrieval.

(3) Big game hunting. We allow hunting of white-tailed and mule deer on designated areas of the refuge subject to the following conditions:

(i) We close the refuge to hunting during the State's special youth deer hunting season.

(ii) Hunters may use designated refuge roads to retrieve downed deer.

(iii) We allow only portable tree stands. You must remove all tree stands at the end of each day's hunt (see §§ 27.93 and 27.94 of this chapter).

(4) Sport fishing. We allow ice fishing on designated areas of the refuge.

(f) Audubon Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(g) Bone Hill National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(h) Brumba National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(i) Buffalo Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following condition: Access is controlled by the individual landowner.

(j) Camp Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following condition: Access is controlled by the individual landowner.

(k) Canefield Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(l) Chase Lake National Wildlife Refuge. (1)-(2) [Reserved]

(3) Big game hunting. We allow deer hunting on designated areas of the refuge.

(4) [Reserved]

(m) Chase Lake Wetland Management District—(1) Migratory game bird hunting. We allow migratory game bird hunting on designated areas of the district subject to the following conditions: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(n) Cottonwood Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following condition: Access is controlled by the individual landowner.

(o) Crosby Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(p) Dakota Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(q) Des Lacs National Wildlife Refuge. (1) [Reserved]

(2) Upland game hunting. We allow hunting of fox, sharp-tailed grouse, Hungarian partridge, turkey, and ring-necked pheasant on designated areas of the refuge subject to the following conditions:

(i) We open for upland game bird hunting on the day following the close of the regular deer gun season through the end of the State season.

(ii) We allow the use of hunting dogs for retrieval of upland game.

(iii) We allow fox hunting from the day following the regular firearm deer season until March 31.

(iv) We prohibit accessing refuge lands from refuge waters.

(3) Big game hunting. We allow deer and moose hunting on designated areas of the refuge subject to the following conditions:

(i) We only allow the use of portable tree stands and ground blinds. We prohibit leaving stands and blinds overnight on the refuge (see § 27.93 of this chapter).

(ii) We prohibit entry to the refuge before 12 p.m. (noon) on the first day of the respective bow, gun, or muzzleloader deer hunting seasons.

(iii) The condition set forth at paragraph (q)(2)(iv) of this section applies.

(4) [Reserved]

(r) Devils Lake Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district subject to the following condition: You must remove boats, decoys, portable blinds, other personal property, and any materials brought onto the area for blind construction by the end of each day's hunt (see §§ 27.93 and 27.94 of this chapter).

(3) Big game hunting. We allow big game hunting on designated areas of the district subject to the following condition: You must remove boats, decoys, portable blinds, other personal property, and any materials brought onto the area for blind construction by the end of each day's hunt (see §§ 27.93 and 27.94 of this chapter).

(4) Sport fishing. We allow sport fishing on designated areas of the district subject to the following condition: You must remove boats, motor vehicles, fishing equipment, and other personal property (excluding ice houses) by the end of each day's fishing activity (see §§ 27.93 and 27.94 of this chapter).

(s) Half Way Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(t) Hiddenwood Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following condition: Access is controlled by the individual landowner.

(u) Hobart Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(v) Hutchinson Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(w) J. Clark Salyer National Wildlife Refuge—(1) Migratory game bird hunting. We allow hunting of goose, duck, and coot on designated areas of the refuge subject to the following condition: We allow the use of dogs for hunting and retrieving game birds.

(2) Upland game hunting. We allow hunting of ruffed and sharp-tailed grouse, Hungarian partridge, turkey, ring-necked pheasant, and fox on designated areas of the refuge subject to the following conditions:

(i) We open the refuge to hunting for sharp-tailed grouse, Hungarian partridge, and ring-necked pheasant north of the Willow-Upham road on the day following the close of the regular firearm deer season.

(ii) We open the refuge to fox hunting on the day following the close of the regular firearm deer season. Fox hunting on the refuge closes March 31.

(iii) Hunters may possess only approved nontoxic shot (see § 32.2(k)) for all upland game hunting, including turkey.

(3) Big game hunting. We allow hunting of deer and moose on designated areas of the refuge subject to the following conditions:

(i) You must possess and carry a refuge permit to hunt antlered deer on the refuge outside the nine public hunting areas during the regular firearms season.

(ii) We prohibit entry to the refuge before 12 p.m. (noon) on the first day of the respective bow, gun, or muzzleloader deer hunting seasons. You may access refuge roads open to the public before 12 p.m. (noon).

(4) Sport fishing. We allow sport fishing on designated areas of the refuge subject to the following conditions:

(i) We allow boat fishing from May 1 through September 30.

(ii) We allow ice fishing and dark house spearfishing. We allow snowmobiles, all-terrain vehicles (ATVs), utility terrain vehicles (UTVs), motor vehicles, and fish houses on the ice as conditions allow.

(x) J. Clark Salyer Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(y) Johnson Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(z) Kulm Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(aa) Lake Alice National Wildlife Refuge—(1) Migratory game bird hunting. We allow migratory game bird hunting on designated areas of the refuge subject to the following conditions:

(i) We allow motorized boats only during the migratory game bird hunting season; however, motors must not exceed 10 horsepower.

(ii) You must remove all boats, decoys, portable blinds, other personal property, and any materials brought onto the refuge for blind construction by the end of each day's hunt (see §§ 27.93 and 27.94 of this chapter).

(2) Upland game hunting. We allow hunting of ring-necked pheasants, sharp-tailed grouse, gray partridge, cottontail rabbit, jackrabbit, snowshoe hare, and fox on designated areas of the refuge.

(3) Big game hunting. We allow deer and fox hunting on designated areas of the refuge subject to the following conditions:

(i) We prohibit trapping.

(ii) We allow portable tree stands. Hunters must remove tree stands from the refuge by the end of each day's hunt (see § 27.93 of this chapter).

(4) Sport fishing. We allow ice fishing on designated areas of the refuge subject to the following conditions:

(i) We allow vehicles and fish houses on the ice as conditions allow.

(ii) We allow public access for ice fishing from 5 a.m. to 10 p.m.

(iii) You must remove ice fishing shelters and personal property from the refuge by 10 p.m. each day (see §§ 27.93 and 27.94 of this chapter).

(bb) Lake George National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(cc) Lake Ilo National Wildlife Refuge. (1)-(3) [Reserved]

(4) Sport fishing. We allow sport fishing on designated areas of the refuge subject to the following conditions:

(i) We open the lake to fishing from 5 a.m. to 10 p.m. year round.

(ii) We open the refuge to ice fishing from October 1 through March 31.

(dd) Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following condition: Access is controlled by the individual landowner.

(ee) Lake Nettie National Wildlife Refuge. (1)-(2) [Reserved]

(3) Big game hunting. We allow hunting of white-tailed and mule deer on designated areas of the refuge subject to the following conditions:

(i) We allow only portable tree stands.

(ii) Hunters must remove tree stands from the refuge at the end of each day's hunt (see § 27.93 of this chapter).

(4) [Reserved]

(ff) Lake Otis National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(gg) Lake Patricia National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(hh) Lake Zahl National Wildlife Refuge. (1) [Reserved]

(2) Upland game hunting. We allow hunting of sharp-tailed grouse, Hungarian partridge, and ring-necked pheasant on designated areas of the refuge subject to the following conditions:

(i) We open to upland game bird hunting on the day following the close of the regular deer gun season through the end of the State season.

(ii) We allow the use of hunting dogs to retrieve upland game.

(3) Big game hunting. We allow deer hunting on designated areas of the refuge subject to the following conditions:

(i) You may only use portable tree stands and ground blinds. We prohibit leaving stands and blinds overnight (see § 27.93 of this chapter).

(ii) We prohibit entry to the refuge before 12 p.m. (noon) on the first day of the respective archery, gun, or muzzleloader deer hunting season.

(4) [Reserved]

(ii) Lambs Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(jj) Little Goose Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(kk) Long Lake National Wildlife Refuge. (1) [Reserved]

(2) Upland game hunting. We allow hunting of ring-necked pheasant, sharp-tailed grouse, and grey partridge on designated areas of the refuge subject to the following condition: We open to upland game bird hunting annually on the day following the close of the firearm deer season through the close of the State season.

(3) Big game hunting. We allow hunting of deer on designated areas of the refuge.

(4) Sport fishing. We allow sport fishing on designated areas of the refuge subject to the following condition: We only allow fishing from legal sunrise to legal sunset.

(ll) Long Lake Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(mm) Lords Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(nn) Lost Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(oo) Lostwood National Wildlife Refuge. (1) [Reserved]

(2) Upland game hunting. We allow hunting of sharp-tailed grouse, Hungarian partridge, and ring-necked pheasant on designated areas of the refuge subject to the following condition: We allow the use of dogs to retrieve upland game.

(3) Big game hunting. We allow deer and moose hunting on designated areas of the refuge subject to the following condition: We prohibit entry to the refuge before 12 p.m. (noon) on the first day of the respective archery, gun, or muzzleloader deer hunting season.

(4) [Reserved]

(pp) Lostwood Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(qq) Maple River National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(rr) Pleasant Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(ss) Pretty Rock National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(tt) Rabb Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(uu) Rock Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(vv) Rose Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following condition: Access is controlled by the individual landowner.

(ww) School Section National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following condition: Access is controlled by the individual landowner.

(xx) Sheyenne Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following condition: Access is controlled by the individual landowner.

(yy) Sibley Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(zz) Silver Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(aaa) Slade National Wildlife Refuge. (1)-(2) [Reserved]

(3) Big game hunting. We allow hunting of deer on designated areas of the refuge.

(4) [Reserved]

(bbb) Snyder Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(ccc) Springwater National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(ddd) Stewart Lake National Wildlife Refuge. (1)-(3) [Reserved]

(4) Sport fishing. We allow ice or shore fishing on designated areas of the refuge.

(eee) Stoney Slough National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(fff) Storm Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(ggg) Sunburst Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(hhh) Tewaukon National Wildlife Refuge. (1) [Reserved]

(2) Upland game hunting. We allow ring-necked pheasant hunting on designated areas of the refuge subject to the following condition: We open for upland game hunting on the first Monday following the close of the State deer gun season through the close of the State pheasant season.

(3) Big game hunting. We allow deer hunting on designated areas of the refuge subject to the following conditions:

(i) We allow deer bow hunting on designated areas of the refuge as governed by State regulations.

(ii) The deer bow hunting season closes September 30, reopens the Friday following the close of the State gun deer season, and continues through the end of the State archery deer season.

(4) Sport fishing. We allow sport fishing on designated areas of the refuge.

(iii) Tewaukon Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day (see §§ 27.93 and 27.94 of this chapter).

(jjj) Tomahawk National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(kkk) Upper Souris National Wildlife Refuge. (1) [Reserved]

(2) Upland game hunting. We allow hunting of wild turkey, sharp-tailed grouse, Hungarian partridge, and pheasant on designated areas of the refuge subject to the following conditions:

(i) We allow the use of dogs for hunting and retrieving of upland game birds with the exception of wild turkey.

(ii) We allow hunters on the refuge from 5 a.m. until 10 p.m.

(3) Big game hunting. We allow deer and moose hunting on designated areas of the refuge subject to the following conditions:

(i) We only allow the use of portable tree stands and ground blinds. You must remove stands and blinds from the refuge at the end of each day's hunt (see § 27.93 of this chapter).

(ii) The condition set forth at paragraph (kkk)(2)(ii) of this section applies.

(iii) We prohibit entry to the refuge before 12 p.m. (noon) on the first day of the respective bow, gun, or muzzleloader deer hunting seasons.

(4) Sport fishing. We allow sport fishing on designated areas of the refuge subject to the following conditions:

(i) We allow the use of fishing boats, canoes, kayaks, and float tubes in designated boat fishing areas from Lake Darling Dam north to State Highway 28 (Greene) crossing for fishing from May 1 through September 30.

(ii) We allow fishing from nonmotorized vessels only on the Beaver Lodge Canoe Trail from May 1 through September 30.

(iii) We allow boating and fishing from vessels on the Souris River from Mouse River Park to the north boundary of the refuge from May 1 through September 30.

(iv) We allow snowmobiles, all-terrain vehicles (ATVs), utility terrain vehicles (UTVs), motor vehicles, and fish houses on the ice as conditions allow from Lake Darling Dam north to Carter Dam (Dam 41) for ice fishing.

(v) We allow you to place fish houses overnight on the ice of Lake Darling as governed by State regulations.

(vi) We allow anglers to place portable fish houses on the Souris River north of Carter Dam (Dam 41) and south of Lake Darling Dam for ice fishing, but anglers must remove the fish houses from the refuge at the end of each day's fishing activity (see § 27.93 of this chapter).

(vii) We allow anglers on the refuge from 5 a.m. until 10 p.m.

(lll) Wild Rice National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(mmm) Willow Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(nnn) Wintering River National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

(ooo) Wood Lake National Wildlife Refuge. (1) [Reserved]

(2) Upland game hunting. We allow hunting of all State-defined species subject to the following condition: Access is controlled by the individual landowner.

(3) Big game hunting. We allow hunting of all State-defined species subject to the following condition: Access is controlled by the individual landowner.

(4) Sport fishing. We allow sport fishing on designated areas of the refuge subject to the following conditions:

(i) Access is controlled by the individual landowner.

(ii) We prohibit boats during the regular North Dakota waterfowl season.

32. Amend § 32.54 by revising paragraph (b)(1) introductory text, and adding paragraph (b)(2)(iii), to read as follows:

§ 32.54 Ohio.

* * * * *

(b) * * *

(1) Migratory game bird hunting. We allow hunting of duck, goose, rail, gallinule, coot, dove, woodcock, crow, and snipe on designated areas of the refuge subject to the following conditions:

* * * * *

(2) * * *

(iii) We prohibit hunting or shooting within 150 feet (45.7 meters) of any structure, building, or parking lot.

* * * * *

33. Amend § 32.55 by revising paragraphs (g)(4)(ii) and (vii) through (x) to read as follows:

§ 32.55 Oklahoma.

* * * * *

(g) * * *

(4) * * *

(ii) Anglers may use boats from March 1 through September 30 in designated waters unless otherwise specified on the fishing tearsheet.

* * * * *

(vii) Anglers may fish after legal sunset from a boat (during boating season) in the Cumberland Pool, except in the sanctuary zones. Anglers may fish after legal sunset at the headquarters boat ramp area, Goose Pen Pond, Sandy Creek Bridge, Murray 23, and Nida Point.

(viii) We allow bowfishing in Pennington Creek and the Washita River during daylight hours.

(ix) We prohibit the take of fish by use of hands (noodling).

(x) We prohibit the take of frog, turtle, or mussel (see § 27.21 of this chapter).

* * * * *

34. Amend § 32.56 by:

a. Revising paragraphs (f) and (n)(1) introductory text;

b. Redesignating paragraph (t) as paragraph (u); and

c. Adding new paragraph (t).

The revisions and addition read as follows:

§ 32.56 Oregon.

* * * * *

(f) Hart Mountain National Antelope Refuge—(1) Migratory game bird hunting. We allow hunting of duck, goose, and coot on designated areas of the refuge subject to the following conditions:

(i) We allow only portable blinds and temporary blinds constructed of synthetic or nonliving natural materials.

(ii) We prohibit digging of pit blinds for waterfowl hunting.

(2) Upland game hunting. We allow hunting of chukar and California quail on designated areas of the refuge.

(3) Big game hunting. We allow hunting of deer, antelope, and bighorn sheep on designated areas of the refuge subject to the following conditions:

(i) We allow only portable blinds and temporary blinds constructed of synthetic or nonliving natural materials.

(ii) We allow ground blinds, but we prohibit construction of them earlier than 1 week prior to the opening day of the legal season for which you have a valid permit.

(iii) You must remove blinds within 24 hours of harvesting an animal or at the end of the permittee's legal season (see § 27.93 of this chapter).

(iv) We limit hunters to one blind each, and you must tag blinds with the owner's State license or permit number.

(4) Sport fishing. We allow fishing on designated areas of the refuge.

* * * * *

(n) * * *

(1) Migratory game bird hunting. We allow hunting of duck, goose, and coot on designated areas of the refuge subject to the following conditions:

* * * * *

(t) Wapato Lake National Wildlife Refuge—(1) Migratory game bird hunting. We allow hunting of duck, goose, and coot on designated areas of the refuge subject to the following conditions:

(i) We allow hunting on Tuesdays, Thursdays, and Saturdays during the State waterfowl season.

(ii) The hunt area is open for access 2 hours before and after legal shooting hours.

(iii) All hunters must hunt from designated blinds except to retrieve downed birds. We prohibit hunting from levees.

(iv) We allow a maximum occupancy of four persons per blind.

(v) Disabled hunters must possess an Oregon Disabilities Hunting and Fishing Permit issued by the Oregon Department of Fish and Wildlife to qualify for preference in using the ADA Accessibility Guidelines blind or Federal Access pass.

(vi) You must remove decoys, other personal property, and trash (including empty shotgun hulls) from the refuge at the end of each day's hunt (see §§ 27.93 and 27.94 of this chapter).

(vii) We allow the use of dogs for retrieving waterfowl.

(viii) Hunters must submit a Migratory Bird Hunt Report (FWS Form 3-2361) at the end of each day's hunt.

(2)-(4) [Reserved]

* * * * *

35. Amend § 32.57 by:

a. Revising paragraph (a);

b. Adding paragraphs (b)(1)(iv) and (b)(2)(iii); and

c. Revising paragraphs (b)(4)(iv), (c)(3), and (c)(4)(iv).

The revisions and additions read as follows:

§ 32.57 Pennsylvania.

* * * * *

(a) Cherry Valley National Wildlife Refuge—(1) Migratory game bird hunting. We allow hunting of migratory game birds on designated areas of the refuge subject to the following conditions:

(i) Hunters must obtain and possess a signed refuge hunt permit (FWS Form 3-2439, Hunt Application—National Wildlife Refuge System) at all times while scouting and hunting on the refuge.

(ii) Hunters may enter the refuge 2 hours before legal shooting time and must leave no later than 2 hours after legal shooting time.

(iii) We allow the use of dogs consistent with State regulations.

(2) Upland game hunting. We allow hunting of squirrel, grouse, rabbit, pheasant, quail, woodchuck, crow, fox, raccoon, opossum, skunk, weasel, coyote, and bobcat on designated areas of the refuge subject to the following conditions:

(i) The conditions set forth at paragraphs (a)(1)(i), (ii), and (iii) of this section apply.

(ii) We allow hunting from legal sunrise to legal sunset.

(3) Big game hunting. We allow hunting of white-tailed deer, bear, and wild turkey on designated areas of the refuge subject to the following conditions:

(i) The conditions set forth at paragraphs (a)(1)(i) and (ii) of this section apply.

(ii) We prohibit organized deer drives. We define a “deer drive” as an organized or planned effort to pursue, drive, chase, or otherwise frighten or cause deer to move in the direction of any person(s) who is part of the organized or planned hunt and known to be waiting for the deer.

(4) Sport fishing. We allow sport fishing on the refuge subject to the following conditions:

(i) The Cherry Creek section located on the former Cherry Valley Golf Course is open for catch-and-release fishing. Anglers at this location must:

(A) Obtain a day-use fishing permit (signed brochure). A maximum of three anglers per day may share the same permit; and

(B) Use only artificial lures and barbless hooks to fish.

(ii) We allow fishing from ½ hour before legal sunrise to ½ hour after legal sunset.

(iii) We allow only nonmotorized or electric-motor boats in designated areas.

(iv) We prohibit the use of eel chutes, eelpots, and fyke nets.

(v) We prohibit trapping fish for use as bait.

(vi) We prohibit the take, collection, capture, killing, and possession of any reptile or amphibian on the refuge.

(b) * * *

(1) * * *

(iv) We allow the use of dogs consistent with State regulations.

(2) * * *

(iii) The condition set forth at paragraph (b)(1)(iv) of this section applies.

* * * * *

(4) * * *

(iv) We prohibit the taking or possession of shellfish on the refuge.

(c) * * *

(3) Big game hunting. We allow archery-only hunting of white-tailed deer on designated areas of the refuge subject to the following condition: Hunters must possess a refuge hunt permit (FWS Form 3-2439, Hunt Application—National Wildlife Refuge System).

(4) * * *

(iv) We prohibit the take, collection, or capture of any reptile or amphibian on the refuge.

* * * * *

36. Revise § 32.58 to read as follows:

§ 32.58 Rhode Island.

The following refuge units are open for hunting and/or fishing as governed by applicable Federal and State regulations, and are listed in alphabetical order with additional refuge-specific regulations.

(a) Block Island National Wildlife Refuge—(1) Migratory game bird hunting. We allow hunting of duck, merganser, and coot on designated areas of the refuge subject to the following conditions:

(i) We require hunters to possess and carry a signed refuge hunting brochure valid for the current season.

(ii) We only allow portable or temporary blinds, and decoys must be removed from the refuge following each day's hunt (see § 27.93 of this chapter).

(iii) We allow the use of dogs consistent with State regulations. Dogs must be under direct control of the hunter at all times.

(2) [Reserved]

(3) Big game hunting. We allow hunting of white-tailed deer on designated areas of the refuge subject to the following conditions:

(i) We require hunters to possess and carry a signed refuge hunting brochure valid for the current season.

(ii) We only allow portable or temporary stands and blinds that must be removed from the refuge on the last day of the deer hunt (see § 27.93 of this chapter). Stands and blinds must be marked with the hunter's State hunting license number.

(4) Sport fishing. We allow saltwater fishing from refuge shorelines.

(b) John H. Chafee National Wildlife Refuge—(1) Migratory game bird hunting. We allow hunting of duck, goose, merganser, and coot on designated areas of the refuge subject to the following conditions:

(i) We require hunters to possess and carry a signed refuge migratory game bird hunting brochure valid for the current season.

(ii) We only allow portable or temporary blinds and decoys that must be removed from the refuge following each day's hunt (see § 27.93 of this chapter).

(iii) We allow the use of dogs consistent with State regulations.

(2) Upland game hunting. We allow hunting of coyote and fox on designated areas of the refuge subject to the following condition: We only allow the incidental take of coyote and fox during the refuge deer hunting season with a signed refuge hunting brochure valid for the current season.

(3) Big game hunting. We allow hunting of white-tailed deer and wild turkey on designated areas of the refuge subject to the following conditions:

(i) We require every hunter to possess and carry a personally signed refuge hunting brochure valid for the current season.

(ii) We only allow portable or temporary stands and blinds that must be removed from the refuge on the last day of the deer hunt (see § 27.93 of this chapter). We prohibit permanent tree stands. Stands and blinds must be marked with the hunter's State hunting license number.

(4) Sport fishing. We allow saltwater fishing in designated areas of the refuge.

(c) Ninigret National Wildlife Refuge. (1) [Reserved]

(2) Upland game hunting. We allow hunting of coyote and fox on designated areas of the refuge subject to the following condition: We only allow the incidental take of coyote and fox during the refuge deer hunting season. We require hunters to possess and carry a signed refuge hunting brochure valid for the current season.

(3) Big game hunting. We allow hunting of white-tailed deer and turkey on designated areas of the refuge subject to the following conditions:

(i) We require hunters to possess and carry a signed refuge hunting brochure valid for the current season.

(ii) We only allow portable or temporary stands and blinds that must be removed from the refuge on the last day of the deer hunt (see § 27.93 of this chapter). We prohibit permanent tree stands. Stands and blinds must be marked with the hunter's State hunting license number.

(4) Sport fishing. We allow saltwater fishing from refuge shorelines.

(d) Sachuest Point National Wildlife Refuge. (1) [Reserved]

(2) Upland game hunting. We allow hunting of coyote and fox on designated areas of the refuge subject to the following condition: We only allow the incidental take of coyote and fox during the refuge deer hunting season. We require hunters to possess and carry a signed refuge hunting brochure valid for the current season.

(3) Big game hunting. We allow hunting of white-tailed deer and turkey on designated areas of the refuge subject to the following conditions:

(i) We require hunters to possess and carry a signed refuge hunting brochure valid for the current season.

(ii) We only allow portable or temporary stands and blinds that must be removed from the refuge on the last day of the deer hunt (see § 27.93 of this chapter). We prohibit permanent tree stands. Stands and blinds must be marked with the hunter's State hunting license number.

(4) Sport fishing. We allow saltwater fishing on designated areas of the refuge subject to the following conditions:

(i) Anglers may only saltwater fish at Sachuest Beach shoreline from September 16 through March 31.

(ii) Anglers may night-fish after legal sunset with a refuge permit (FWS Form 3-2358, National Wildlife Refuge System Fishing/Shrimping/Crabbing/Frogging Application).

(e) Trustom Pond National Wildlife Refuge—(1) Migratory game bird hunting. We allow hunting of duck, goose, merganser, coot, and mourning dove on designated areas of the refuge subject to the following condition: We allow the use of dogs consistent with State regulations.

(2)-(3) [Reserved]

(4) Sport fishing. We allow saltwater fishing on designated areas of the refuge subject to the following condition: Anglers may saltwater fish from September 16 through March 31.

37. Amend § 32.59 by revising paragraph (b)(3) introductory text to read as follows:

§ 32.59 South Carolina.

* * * * *

(b) * * *

(3) Big game hunting. We allow hunting of white-tailed deer, turkey, coyote, and feral hog on designated areas of the refuge subject to the following conditions:

* * * * *

38. Amend § 32.60 by revising paragraph (b) to read as follows:

§ 32.60 South Dakota.

* * * * *

(b) LaCreek National Wildlife Refuge—(1) Migratory game bird hunting. We allow the hunting of goose, duck, coot, common snipe, sandhill crane, crow, and mourning dove on designated areas of the refuge subject to the following condition: We allow hunting September 1 through January 31.

(2) Upland game hunting. We allow the hunting of bobcat, coyote, fox, cottontail rabbit, mountain lion, prairie chicken, ring-necked pheasant, and sharp-tailed grouse on designated areas of the refuge subject to the following conditions:

(i) Hunters may enter the refuge 1½ hours before legal sunrise and remain no longer than 1½ hours after legal sunset.

(ii) We allow access for bobcat, coyote, fox, and mountain lion hunting January 1 through February 15.

(3) Big game hunting. We allow hunting of white-tailed and mule deer on designated areas of the refuge subject to the following conditions:

(i) Deer hunters may enter the refuge 1½ hours before legal sunrise and remain no longer than 1½ hours after legal sunset.

(ii) Hunters may leave portable tree stands and free-standing elevated platforms on the refuge from the first Saturday after August 25 through February 15. Hunters must remove all other personal property by the end of each day's hunt (see § 27.93 of this chapter).

(iii) We close the refuge to archery hunting during refuge firearm seasons.

(4) Sport fishing. We allow sport fishing on designated areas of the refuge subject to the following conditions:

(i) We prohibit the use or possession of live minnows or bait fish in Pools 3, 4, 7, and 10 and the Cedar Creek Trout Ponds.

(ii) We open designated fishing areas from ½ hour before legal sunrise to ½ hour after legal sunset, except the Little White River Recreation Area.

* * * * *

39. Amend § 32.61 by:

a. Revising paragraphs (g)(1) introductory text, (g)(1)(v) and (vi), (g)(2), and (g)(3)(i);

b. Removing paragraph (g)(3)(ii);

c. Redesignating paragraphs (g)(3)(iii) and (iv) as paragraphs (g)(3)(ii) and (iii), respectively; and

d. Revising paragraph (g)(4)(i).

The revisions read as follows:

§ 32.61 Tennessee.

* * * * *

(g) Tennessee National Wildlife Refuge—(1) Migratory game bird hunting. We allow hunting of Canada goose, dove, and crow on designated areas of the refuge subject to the following conditions:

* * * * *

(v) Youth hunters age 16 and younger must be accompanied by an adult 21 years old or older who has a refuge hunting permit on his or her person. The adult must remain in a position to take immediate control of the hunting device.

(vi) We allow the use of dogs for migratory bird, squirrel, raccoon, and opossum hunting.

* * * * *

(2) Upland game hunting. We allow hunting of squirrel, coyote, beaver, raccoon, and opossum on designated areas of the refuge subject to the following conditions:

(i) The conditions set forth at paragraphs (g)(1)(i) through (vi) and (viii) of this section apply.

(ii) We allow hunting for raccoon and opossum from legal sunset to legal sunrise.

(3) * * *

(i) The conditions set forth at paragraphs (g)(1)(i) through (v) and (viii) of this section apply.

* * * * *

(4) * * *

(i) We allow fishing in Swamp Creek, Sulphur Well Bay, and Bennetts Creek from March 16 through November 14. We open the remainder of the refuge portion of Kentucky Lake to fishing year-round. We allow bank fishing year-round along Refuge Lane from the New Johnsonville Pump Station.

* * * * *

40. Amend § 32.62 by revising paragraphs (f), (i), and (j) to read as follows:

§ 32.62 Texas.

* * * * *

(f) Buffalo Lake National Wildlife Refuge—(1) Migratory bird hunting. We allow hunting of mourning dove, white-winged dove, and Eurasian collared dove on designated areas of the refuge subject to the following conditions:

(i) We require hunters to obtain a Special Use Permit (FWS Form 3-1383-G).

(ii) Hunters age 17 and younger (“youth hunters”) must be under the direct supervision of an adult age 18 or older (“adult supervisor”).

(iii) We limit hunting to no more than 6 days with a maximum of 12 hunters, during the concurrent pheasant/quail season as governed by the State of Texas hunting season.

(iv) Hunting hours will be from 30 minutes before legal sunrise until noon.

(v) All hunters must check in and out at refuge headquarters.

(vi) Bag limits will be determined annually for each species, but will never exceed the limits set by Texas Parks and Wildlife Department (TPWD).

(2) Upland game hunting. We allow hunting of ring-necked pheasant, northern bobwhite, and scaled quail on designated areas of the refuge subject to the following conditions:

(i) The conditions set forth at paragraphs (f)(1)(ii), (iii), and (v) of this section apply.

(ii) Hunting hours will be from 9 a.m. to 4:30 p.m.

(iii) We allow only shotguns for pheasant and quail hunting.

(3) Big game hunting. We allow hunting of white-tailed deer, mule deer, and feral hog on designated areas of the refuge subject to the following conditions:

(i) The condition set forth at paragraph (f)(1)(ii) of this section applies.

(ii) After legal sunset, hunters may be in designated camping areas only. We prohibit hunters in all other areas of the refuge after legal sunset.

(iii) During the youth hunt, each adult supervisor may supervise only one youth hunter. A youth hunter may have up to two adult supervisors.

(4) [Reserved]

* * * * *

(i) Laguna Atascosa National Wildlife Refuge. (1)-(2) [Reserved]

(3) Big game hunting. We allow hunting of white-tailed deer, feral hog, nilgai antelope, other exotic ungulates, and American alligator on designated areas of the refuge subject to the following conditions:

(i) We allow the incidental take of nilgai antelope, feral hog, and other rarely observed exotic ungulates (such as fallow deer, axis deer, sika deer, Barbary sheep, and black buck) during all refuge hunts, with the exception of American alligator hunts.

(ii) We require hunters to attend refuge hunter orientation before hunting on the refuge. We require each hunter to obtain and carry with them a signed and dated hunt information tearsheet (name and address only) in addition to the State hunt permit.

(iii) Bag limits for species hunted on the refuge are provided in the refuge hunt tearsheet annually.

(iv) Each hunter age 17 and younger must be under the direct supervision of an adult age 18 or older.

(v) We allow a scouting period prior to the commencement of each refuge hunt period. A permitted hunter and a limit of two non-permitted individuals may enter the hunt units during the scouting period, which begins after hunter orientation and ends at legal sunset. Each hunter must clearly display a Vehicle Validation Tag face up on the vehicle dashboard when scouting and hunting.

(vi) We allow hunters to enter the refuge 1½ hours before legal sunrise during their permitted hunt periods. Hunters must leave the hunt units no later than 1 hour after State legal shooting hours.

(vii) Hunters may access hunt units only by foot or bicycle.

(viii) We allow hunting from portable stands or by stalking and still hunting. There is a limit of one blind or stand per permitted hunter. Hunters must attach hunter identification (permit number or State license number) to the blind or stand. Hunters must remove all blinds and stands at the end of the permitted hunt period (see § 27.93 of this chapter).

(ix) During American alligator hunts, we allow hunters to leave hooks set over only one night period at a time; set lines must be checked daily. Hunters must field dress all harvested big game in the field and check the game at the hunt check station before removal from the refuge. Hunters may use a nonmotorized cart to assist with the transportation of harvested game animals.

(x) We prohibit the killing or wounding of a game animal and then intentionally or knowingly failing to make a reasonable effort to retrieve and include it in the hunter's bag limit.

(4) Sport fishing. We allow fishing and crabbing on designated areas of the refuge subject to the following conditions:

(i) We allow fishing and crabbing year-round only from Adolph Thomae Jr. County Park, on San Martin Lake of the Bahia Grande Unit, and on the South Padre Island Unit.

(ii) We allow only pole and line, rod and reel, hand line, dip net, or cast net for fishing. We prohibit the use of crab traps or pots for crabbing. Anglers must attend all fishing lines, crabbing equipment, and other fishing devices at all times.

(iii) In the Bahia Grande Unit, inside the refuge boundary on San Martin Lake, we allow only bank and wade fishing, accessed on foot. In other waters of the Bahia Grande Unit, we do not allow boats or fishing inside the refuge boundary.

(j) Lower Rio Grande Valley National Wildlife Refuge—(1) Migratory game bird hunting. We allow hunting of mourning, white-winged, and white-tipped dove on designated areas of the refuge subject to the following conditions:

(i) We require hunters to obtain a hunt permit (signed brochure) and to possess and carry that permit at all times during your designated hunt period. Hunters must also display the vehicle placard (part of the hunt permit) while participating in the designated hunt period.

(ii) Hunters age 17 and younger must be under the direct supervision of an adult age 18 or older.

(iii) You may access the refuge during your permitted hunt period from 1 hour before legal hunt time to 1 hour after legal hunt time. You must only hunt during legal hunt hours.

(iv) We restrict hunt participants to those listed on the refuge hunt permit (hunter, non-hunting chaperone, and non-hunting assistant).

(v) We allow hunters to use bicycles on designated routes of travel.

(vi) We allow the use of dogs to retrieve doves during the hunt.

(2) Upland game hunting. We allow hunting of wild turkey on designated areas of the refuge subject to the following conditions:

(i) The conditions set forth at paragraphs (j)(1)(i) through (v) of this section apply.

(ii) We allow turkey hunting during the spring season only.

(iii) You may only harvest one bearded turkey per hunter.

(iv) We prohibit the killing, wounding, taking, or possession of game animals and then intentionally or knowingly failing to make a reasonable effort to retrieve or keep the edible portions of the animal and include it in your bag limit.

(3) Big game hunting. We allow hunting of white-tailed deer, feral hog, nilgai antelope, javelina, and other exotic ungulates (as defined by the State of Texas to include fallow deer, axis deer, sika deer, Barbary sheep, and black buck) on designated areas of the refuge subject to the following conditions:

(i) The conditions set forth at paragraphs (j)(1)(i) through (v) and (2)(iv) of this section apply.

(ii) We allow only free-standing blinds or tripods. Hunters may set them up during the scouting days preceding each permitted hunt day and must take them down by the end of each hunt day (see § 27.93 of this chapter). Hunters must mark and tag all stands with their hunting license number during the period of use.

(iii) Hunters must field-dress all harvested big game in the field.

(iv) Hunters may use nonmotorized dollies or carts off of improved roads or trails to haul carcasses to a parking area.

(v) We prohibit the use of big game decoys.

(4) [Reserved]

* * * * *

41. Amend § 32.63 by:

a. Removing paragraph (a)(1)(iii);

b. Redesignating paragraphs (a)(1)(iv) through (vi) as paragraphs (a)(1)(iii) through (v); and

c. Revising paragraph (b).

The revision reads as follows:

§ 32.63 Utah.

* * * * *

(b) Fish Springs National Wildlife Refuge—(1) Migratory game bird hunting. We allow hunting of coot, duck, goose, mourning dove, and snipe on designated areas of the refuge subject to the following conditions:

(i) We allow the use of dogs when hunting.

(ii) You may construct temporary blinds. You must remove all blinds constructed out of materials other than vegetation at the end of each day's hunt (see § 27.93 of this chapter).

(iii) We allow the use of small boats (15 feet or less) when hunting. We prohibit gasoline motors and air boats.

(iv) You may enter the refuge 2 hours prior to legal sunrise and must exit the refuge by 1½ hours after legal sunset.

(v) You must remove decoys, boats, vehicles, and other personal property from the refuge at the end of each day's hunt (see § 27.93 of this chapter).

(vi) We have a special blind area for use by disabled hunters. We prohibit trespass for any reason by any individual not registered to use that area.

(2) Upland game hunting. We allow hunting of chukar, desert rabbit, and mountain rabbit on designated areas of the refuge subject to the following conditions:

(i) We close to hunting on January 31.

(ii) We allow the use of dogs when hunting.

(3) Big game hunting. We allow hunting of mule deer and pronghorn antelope on designated areas of the refuge subject to the following condition: We only allow archery equipment when hunting big game.

(4) [Reserved]

* * * * *

42. Amend § 32.64 by adding paragraphs (a)(1)(vii) and (a)(2)(v), and revising paragraphs (a)(4)(i)(A) and (b), to read as follows:

§ 32.64 Vermont.

* * * * *

(a) * * *

(1) * * *

(vii) In all hunting areas, we allow the use of dogs consistent with State regulations.

* * * * *

(2) * * *

(v) The condition set forth at paragraph (a)(1)(vii) of this section applies.

* * * * *

(4) * * *

(i) * * *

(A) We close the following areas: Goose Bay, Saxes Creek and Pothole, Metcalfe Island Pothole, Long Marsh Channel, and Clark Marsh.

* * * * *

(b) Silvio O. Conte National Fish and Wildlife Refuge—(1) Migratory game bird hunting. We allow hunting of duck, goose, crow, and American woodcock on designated areas of the refuge subject to the following conditions:

(i) We allow disabled hunters to hunt from a vehicle that is at least 10 feet from the traveled portion of the refuge road if the hunter possesses a State-issued disabled hunting license and a Special Use Permit (FWS Form 3-1383-G) issued by the refuge manager.

(ii) We allow the use of dogs consistent with State regulations.

(2) Upland game hunting. We allow hunting of coyote, fox, raccoon, bobcat, woodchuck, red squirrel, eastern gray squirrel, porcupine, skunk, snowshoe hare, eastern cottontail, and ruffed grouse on designated areas of the refuge subject to the following conditions:

(i) The conditions set forth at paragraphs (b)(1)(i) and (ii) of this section apply.

(ii) Shooting from, over, or within 10 feet of the traveled portion of any gravel road is prohibited.

(iii) We require hunters hunting at night to possess a Special Use Permit (FWS Form 3-1383-G) issued by the refuge manager.

(3) Big game hunting. We allow hunting of white-tailed deer, moose, black bear, and wild turkey on designated areas of the refuge subject to the following conditions:

(i) The conditions set forth at paragraphs (b)(1)(i) and (b)(2)(ii) of this section apply.

(ii) You may use portable tree stands and/or blinds. You must clearly label your tree stands and/or blinds with your hunting license number.

(iii) You may retrieve moose at the Nulhegan Basin Division with the use of a commercial moose hauler, if the hauler possesses a Special Use Permit (FWS Form 3-1383-C) issued by the refuge manager.

(4) [Reserved]

43. Amend § 32.65 by:

a. Revising paragraph (a)(3)(iii);

b. Adding paragraph (a)(3)(v);

c. Revising paragraph (b)(1)(i);

d. Adding paragraphs (b)(1)(iv), (b)(3)(v), and (c)(3)(vi);

e. Revising paragraphs (d), (e)(3), and (e)(4)(ii);

f. Adding paragraph (f)(3)(v);

g. Revising paragraphs (h) and (i);

h. Adding paragraph (j)(3)(v);

i. Revising paragraphs (k)(3), (k)(4)(iv), and (l)(3)(i); and

j. Adding new paragraph (l)(3)(v).

The revisions and additions read as follows:

§ 32.65 Virginia.

* * * * *

(a) * * *

(3) * * *

(iii) We prohibit retrieval of wounded game from a “No Hunting Area” or “Safety Zone” without the consent of the refuge employee on duty at the check station.

* * * * *

(v) We prohibit the use of pursuit dogs while hunting white-tailed deer.

* * * * *

(b) * * *

(1) * * *

(i) You must obtain and possess a refuge hunt permit (FWS Form 3-2439, Hunt Application—National Wildlife Refuge System) while hunting on the refuge.

* * * * *

(iv) We allow the use of dogs consistent with State regulations.

* * * * *

(3) * * *

(v) We prohibit the use of pursuit dogs while hunting white-tailed deer and sika.

* * * * *

(c) * * *

(3) * * *

(vi) We prohibit the use of pursuit dogs while hunting white-tailed deer.

* * * * *

(d) Elizabeth Hartwell Mason Neck National Wildlife Refuge. (1)-(2) [Reserved]

(3) Big game hunting. We allow hunting of white-tailed deer on designated areas of the refuge subject to the following conditions:

(i) You must possess and carry a refuge permit (FWS Form 3-2439, Hunt Application—National Wildlife Refuge System).

(ii) We only allow shotguns with slugs during the firearm season.

(iii) We prohibit organized deer drives. We define a “deer drive” as an organized or planned effort to pursue, drive, chase, or otherwise frighten or cause deer to move in the direction of any person(s) who is part of the organized or planned hunt and known to be waiting for the deer.

(iv) We prohibit the use of pursuit dogs while hunting deer.

(4) [Reserved]

(e) * * *

(3) Big game hunting. We allow hunting of white-tailed deer and bear on designated areas of the refuge subject to the following conditions:

(i) You must possess and carry a refuge permit (FWS Form 3-2439, Hunt Application—National Wildlife Refuge System).

(ii) We prohibit the use of pursuit dogs while hunting white-tailed deer and bear.

(4) * * *

(ii) We prohibit bank fishing on the refuge, with the exception noted in paragraph (e)(4)(i) of this section.

* * * * *

(f) * * *

(3) * * *

(v) We prohibit the use of pursuit dogs while hunting white-tailed deer.

* * * * *

(h) Occoquan Bay National Wildlife Refuge. (1)-(2) [Reserved]

(3) Big game hunting. We allow hunting of white-tailed deer on designated areas of the refuge subject to the following conditions:

(i) You must possess and carry a refuge permit (FWS Form 3-2439, Hunt Application—National Wildlife Refuge System) and be selected in the refuge lottery to hunt.

(ii) We only allow shotguns with slugs during the firearm season.

(iii) We prohibit organized deer drives. We define a “deer drive” as an organized or planned effort to pursue, drive, chase, or otherwise frighten or cause deer to move in the direction of any person(s) who is part of the organized or planned hunt and known to be waiting for the deer.

(iv) We prohibit the use of pursuit dogs while hunting deer.

(4) [Reserved]

(i) Plum Tree Island National Wildlife Refuge—(1) Migratory game bird hunting. We allow hunting of migratory waterfowl, gallinule, and coot on designated areas of the refuge subject to the following conditions:

(i) We require migratory game bird hunters to obtain and carry a permit through a lottery administered by the Virginia Department of Game and Inland Fisheries.

(ii) You must hunt from a blind, as assigned by the hunting permit.

(iii) We allow the use of dogs consistent with State regulations.

(2)-(4) [Reserved]

(j) * * *

(3) * * *

(v) We prohibit the use of pursuit dogs while hunting white-tailed deer.

* * * * *

(k) * * *

(3) Big game hunting. We allow hunting of white-tailed deer on designated areas of the refuge subject to the following conditions:

(i) We require big game hunters to obtain a permit (FWS Form 3-2439, Hunt Application—National Wildlife Refuge System).

(ii) We prohibit the use of pursuit dogs while hunting white-tailed deer.

(4) * * *

(iv) We prohibit the use of lead fishing tackle in freshwater ponds, including Wilna Pond and Laurel Grove Pond.

* * * * *

(l) * * *

(3) * * *

(i) You must obtain and carry a refuge hunt permit (FWS Form 3-2439, Hunt Application—National Wildlife Refuge System) while hunting.

* * * * *

(v) We prohibit the use of pursuit dogs while hunting white-tailed deer.

* * * * *

44. Amend § 32.66 by revising paragraph (l)(1) and (n) to read as follows:

§ 32.66 Washington.

* * * * *

(l) * * *

(1) Migratory game bird hunting. We allow hunting of duck, goose, and coot on designated areas of the refuge subject to the following conditions:

(i) We allow hunting during the State youth season in September.

(ii) We allow hunting from the beginning of the regular waterfowl seasons through November 30 by youths (younger than age 16) on Saturday and Sunday only. An adult, age 18 or older, must accompany and supervise youth hunters. We allow the supervising adult(s) to hunt.

(iii) We allow the use of dogs when hunting.

(iv) Hunters may access the refuge no earlier than 2 hours before legal sunrise and must leave no later than 1 hour after legal sunset.

(v) Hunters may hunt only from within 50 yards of posted hunting sites.

(vi) Hunting parties are restricted to a maximum of two youths and two accompanying adults per hunting site.

(vii) We allow the use of nonmotorized boats for hunting.

(viii) We only allow the use of portable blinds and temporary blinds constructed of manmade materials.

(ix) Hunters must remove all blinds, decoys, and other personal equipment from the refuge at the end of each day's hunt (see §§ 27.93 and 27.94 of this chapter).

* * * * *

(n) Willapa National Wildlife Refuge—(1) Migratory game bird hunting. We allow hunting of goose, duck, coot, and snipe on designated areas of the refuge subject to the following conditions:

(i) In the designated goose hunt area in the Riekkola Unit, hunters may take ducks, coots, and snipe only incidental to hunting geese.

(ii) We open the refuge for hunting access from 1½ hours before legal sunrise until 1½ hours after legal sunset.

(iii) We allow the use of dogs when hunting.

(iv) You must remove all personal property, including decoys and boats, by 1 hour after legal sunset (see §§ 27.93 and 27.94 of this chapter).

(2) Upland game hunting. We allow hunting of forest grouse (sooty and ruffed) on designated areas of the refuge subject to the following conditions:

(i) We allow archery hunting only.

(ii) The conditions set forth at paragraphs (n)(1)(ii) and (iii) of this section apply.

(3) Big game hunting. We allow hunting of deer, elk, and bear on designated areas of the refuge subject to the following conditions:

(i) At Long Island, we allow only archery hunting; we prohibit hunting firearms.

(ii) We prohibit bear hunting on any portion of the refuge except Long Island.

(iii) We prohibit the use of centerfire or rimfire rifles within the Lewis, Porter Point, and Riekkola Units.

(iv) The conditions set forth at paragraphs (n)(1)(ii) and (iii) of this section apply.

(v) You may leave your tree stand(s) in place for 3 days. You must label your tree stand(s) with your hunting license number and the date you set up the stand. You may set up stands 1½ hours before legal sunrise. You must remove your tree stand(s) and all other personal property from the refuge by 1½ hours after legal sunset on the third day (see § 27.93 of this chapter).

(vi) At Leadbetter Point, we allow hunting of elk only during the State early muzzleloader season, and by special permit in consultation with the State.

(4) Sport fishing. We allow sport fishing on designated areas of the refuge.

45. Revise § 32.67 to read as follows:

§ 32.67 West Virginia.

The following refuge units are open for hunting and/or fishing as governed by applicable Federal and State regulations, and are listed in alphabetical order with additional refuge-specific regulations.

(a) Canaan Valley National Wildlife Refuge—(1) Migratory game bird hunting. We allow hunting of goose, duck, rail, coot, gallinule, mourning dove, snipe, and woodcock on designated areas of the refuge subject to the following conditions:

(i) We require each hunter to possess and carry a signed refuge hunting brochure (signed brochure).

(ii) Hunters may enter the refuge 1 hour before legal sunrise and must exit the refuge, including parking areas, no later than 1 hour after legal sunset.

(iii) We prohibit overnight parking except by Special Use Permit (FWS Form 3-1383-G) on Forest Road 80.

(iv) We allow the use of dogs consistent with State regulations.

(v) We prohibit dog training except during legal hunting seasons.

(2) Upland game hunting. We allow the hunting of ruffed grouse, squirrel, cottontail rabbit, snowshoe hare, red fox, gray fox, bobcat, woodchuck, coyote, opossum, striped skunk, and raccoon on designated areas of the refuge subject to the following conditions:

(i) The conditions set forth at paragraphs (a)(1)(i), (iv) and (v) of this section apply.

(ii) You may hunt coyote, raccoon, opossum, skunk, and fox at night, but you must obtain a Special Use Permit (FWS Form 3-1383-G) at the refuge headquarters before hunting.

(iii) We only allow hunting in the No Rifle Zones with the following equipment: archery (including crossbow), shotgun, or muzzleloader.

(iv) We prohibit the hunting of upland game species from March 1 through August 31.

(3) Big game hunting. We allow the hunting of white-tailed deer, black bear, and turkey on designated areas of the refuge subject to the following condition:

(i) The conditions set forth at paragraphs (a)(1)(i) and (iv) and (a)(2)(iii) of this section apply.

(ii) We allow the use of dogs for hunting black bear during the gun season.

(iii) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following condition: We prohibit the use of lead fishing tackle on designated areas of the refuge.

(b) Ohio River Islands National Wildlife Refuge—(1) Migratory game bird hunting. We allow hunting of migratory game birds on designated areas of the refuge subject to the following conditions:

(i) We require each hunter to possess and carry a signed refuge hunting brochure (signed brochure).

(ii) Hunters may enter the refuge 1 hour before legal sunrise and must exit the refuge, including parking areas, no later than 1 hour after legal sunset.

(iii) We allow the use of dogs consistent with State regulations.

(2) Upland game hunting. We allow hunting of upland game on designated areas of the refuge subject to the following condition: The conditions set forth at paragraphs (b)(1)(i), (ii), and (iii) of this section apply.

(3) Big game hunting. We allow hunting of big game on designated areas of the refuge subject to the following conditions:

(i) The conditions set forth at paragraphs (b)(1)(i) and (ii) of this section apply.

(ii) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following conditions:

(i) We allow fishing from 1 hour before legal sunrise until 1 hour after legal sunset. This restriction does not apply to off-shore fishing.

(ii) We prohibit trotlines (setlines) and turtle lines.

46. Amend § 32.68 by revising paragraphs (c) and (d) to read as follows:

§ 32.68 Wisconsin.

* * * * *

(c) Hackmatack National Wildlife Refuge—(1) Migratory game bird hunting. We allow hunting of migratory game birds on designated areas of the refuge subject to the following condition: You must remove all boats, decoys, blinds, blind materials, stands, platforms, and other hunting equipment (see §§ 27.93 and 27.94 of this chapter) brought onto the refuge at the end of each day's hunt.

(2) Upland game hunting. We allow upland game and turkey hunting on designated areas of the refuge subject to the following conditions:

(i) For hunting, you may use or possess only approved nontoxic shot shells while in the field, including shot shells used for hunting wild turkey (see § 32.2(k)).

(ii) You must remove all boats, decoys, blinds, blind materials, stands, platforms, and other hunting equipment (see §§ 27.93 and 27.94 of this chapter) brought onto the refuge at the end of each day's hunt.

(3) Big game hunting. We allow big game hunting on designated areas of the refuge subject to the following conditions:

(i) You must remove all boats, decoys, blinds, blind materials, stands, platforms, and other hunting equipment (see §§ 27.93 and 27.94 of this chapter) brought onto the refuge at the end of each day's hunt.

(ii) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following condition: We prohibit the taking of turtle and frog (see § 27.21 of this chapter).

(d) Horicon National Wildlife Refuge—(1) Migratory game bird hunting. We allow hunting of goose, duck, coot, common moorhen, and American woodcock on designated areas of the refuge subject to the following condition: We allow only participants in the Learn to Hunt and other special programs to hunt goose, duck, coot, and common moorhen.

(2) Upland game hunting. We allow hunting of wild turkey, ring-necked pheasant, gray partridge, ruffed grouse, squirrel, cottontail rabbit, snowshoe hare, raccoon, opossum, striped skunk, red fox, gray fox, coyote, and bobcat on designated areas of the refuge subject to the following conditions:

(i) For wild turkey hunting, hunters may possess only approved nontoxic shot shells (see § 32.2(k)) while in the field.

(ii) We prohibit night hunting from ½ hour after legal sunset until ½ hour before legal sunrise the following day.

(iii) We allow the use of dogs while hunting upland game (except raccoon, Virginia opossum, striped skunk, red fox, gray fox, coyote, and bobcat), provided the dog is under the immediate control of the hunter at all times.

(iv) Coyote, red fox, gray fox, and bobcat hunting begins on the first day of the traditional 9-day gun deer season.

(v) Coyote hunting ends on the last day of the season for fox.

(vi) You may only hunt striped skunk and opossum during the season for raccoon.

(vii) You may only hunt snowshoe hare during the season for cottontail rabbit.

(viii) Hunters may enter the refuge no earlier than 1 hour before legal shooting hours and must exit the refuge no later than 1 hour after legal shooting hours.

(3) Big game hunting. We allow hunting of white-tailed deer and black bear in designated areas of the refuge subject to the following conditions:

(i) Hunters must remove all stands and personal property from the refuge following each day's hunt (see §§ 27.93 and 27.94 of this chapter). We prohibit hunting from any stand left up overnight.

(ii) We prohibit hunting bear with dogs.

(iii) Hunters must possess a refuge permit (FWS Form 3-2439, Hunt Application—National Wildlife Refuge System) to hunt in Area E (surrounding the office/visitor center).

(iv) Hunters may enter the refuge no earlier than 1 hour before legal shooting hours and must exit the refuge no later than 1 hour after legal shooting hours.

(v) Any ground blind used during any gun deer season must display at least 144 square inches (929 square centimeters) of solid-blaze-orange material visible from all directions.

(4) Sport fishing. We allow fishing on designated areas of the refuge subject to the following conditions:

(i) We only allow bank fishing or fishing through the ice.

(ii) We prohibit the use of fishing weights or lures containing lead.

* * * * *

47. Amend § 32.69 by:

a. Redesignating paragraphs (a) through (e) as paragraphs (b) through (f);

b. Adding a new paragraph (a); and

c. Revising newly redesignated paragraphs (b), (c), (e)(1), and (f).

The addition and revisions read as follows:

§ 32.69 Wyoming.

* * * * *

(a) Bamforth National Wildlife Refuge. (1) [Reserved]

(2) Upland game hunting. We allow hunting of chukar, grey partridge, pheasant, rabbit, sharp-tailed grouse, and turkey on designated areas of the refuge.

(3) Big game hunting. We allow hunting of pronghorn antelope, mule deer, and white-tailed deer on designated areas of the refuge.

(4) [Reserved]

(b) Cokeville Meadows National Wildlife Refuge—(1) Migratory game bird hunting. We allow hunting of dove, duck, dark goose, coot, merganser, light goose, snipe, Virginia rail, Sora rail, sandhill crane, and mourning dove on designated areas of the refuge subject to the following conditions:

(i) We allow the use of dogs when hunting.

(ii) Hunters may only access the refuge 1 hour before legal sunrise until 1 hour after legal sunset.

(2) Upland game hunting. We allow hunting of blue grouse, ruffed grouse, chukar partridge, gray partridge, cottontail rabbit, snowshoe hare, squirrel (red, gray, and fox), red fox, raccoon, and striped skunk on designated areas of the refuge subject to the following conditions:

(i) The condition set forth at paragraph (b)(1)(ii) of this section applies.

(ii) We allow the use of dogs to find and retrieve legally harvested upland game birds, cottontail rabbits, and squirrels. You may not use dogs to chase red fox, raccoon, striped skunk, or any other species not specifically allowed in this paragraph (b)(2)(ii).

(iii) Licensed migratory bird, big game, or upland/small game hunters may harvest red fox, raccoon, and striped skunk on the refuge from September 1 until the end of the last open big game, upland bird, or small game season. You must possess, and remove from the refuge, all red fox, raccoon, and striped skunk that you harvest on the refuge.

(3) Big game hunting. We allow hunting of elk, mule deer, white-tailed deer, pronghorn, and moose subject to the following condition: The condition set forth at paragraph (b)(1)(ii) of this section applies.

(4) Sport fishing. We allow sport fishing on designated areas of the refuge.

(c) Hutton Lake National Wildlife Refuge—(1) Migratory game bird hunting. We allow youth hunting of goose, duck, coot, and merganser on designated areas of the refuge during the Wyoming Zone C2 “special youth waterfowl hunting days” subject to the following conditions:

(i) We allow the use of dogs when hunting.

(ii) We prohibit the cleaning of game on the refuge.

(2) Upland game hunting. We allow hunting of chuker, grey partridge, pheasant, rabbit, sharp-tailed grouse, and turkey on designated areas of the refuge subject to the following conditions:

(i) The conditions set forth at paragraphs (c)(1)(i) and (ii) of this section apply.

(ii) We allow hunting November 1 through March 1.

(3) Big game hunting. We allow hunting of pronghorn antelope and mule deer on designated areas of the refuge subject to the following condition: We allow hunting November 1 through March 1.

(4) [Reserved]

* * * * *

(e) * * *

(1) Migratory game bird hunting. We allow hunting of dove, goose, duck, and coot on designated areas of the refuge.

* * * * *

(f) Seedskadee National Wildlife Refuge—(1) Migratory game bird hunting. We allow hunting of dark goose, duck, coot, merganser, dove, snipe, and rail on designated areas of the refuge subject to the following conditions:

(i) We open the refuge to the general public from ½ hour before legal sunrise to ½ hour after legal sunset. Waterfowl hunters may enter the refuge 1 hour before legal shooting hours to set up decoys and blinds.

(ii) We allow the use of dogs when hunting.

(iii) You must only use portable blinds or blinds constructed from dead and downed wood.

(iv) You must remove portable blinds, tree stands, decoys, and other personal equipment from the refuge after each day's hunt (see §§ 27.93 and 27.94 of this chapter).

(2) Upland game hunting. We allow hunting of sage grouse, cottontail rabbit, jackrabbit, raccoon, fox, and skunk on designated areas of the refuge subject to the following condition: The conditions set forth at paragraphs (f)(1)(i) and (ii) of this section apply.

(3) Big game hunting. We allow hunting of pronghorn, mule deer, white-tailed deer, elk, and moose on designated areas of the refuge subject to the following condition: The condition set forth at paragraph (f)(1)(i) section applies.

(4) Sport fishing. We allow sport fishing on designated areas of the refuge subject to the following conditions:

(i) The condition set forth at paragraph (f)(1)(i) of this section applies.

(ii) We prohibit taking of mollusk, crustacean, reptile, and amphibian from the refuge (see § 27.21 of this chapter).

PART 36—ALASKA NATIONAL WILDLIFE REFUGES

48. The authority citation for part 36 continues to read as follows:

Authority: 16 U.S.C. 460(k) et seq., 668dd-668ee, 3101 et seq., Pub. L. 115-20, 131 Stat. 86.

49. Amend § 36.39 by revising paragraph (d) to read as follows:

§ 36.39 Public use.

* * * * *

(d) Arctic National Wildlife Refuge. We prohibit all domestic sheep, goats, and camelids on the refuge.

* * * * *

Subchapter E—Management of Fisheries Conservation Areas

PART 71—HUNTING AND SPORT FISHING ON NATIONAL FISH HATCHERIES

50. The authority citation for part 71 continues to read as follows:

Authority: Sec. 4, Pub. L. 73-121, 48 Stat. 402, as amended; sec. 4, Pub. L. 87-714, 76 Stat. 654; 5 U.S.C. 301; 16 U.S.C. 460k, 664, 668dd, 1534.

51. Amend § 71.11 to read as follows:

§ 71.11 National fish hatcheries open for hunting.

The following hatcheries are open for hunting as governed by applicable Federal and State regulations, and are listed in alphabetical order with additional hatchery-specific regulations.

(a) Iron River National Fish Hatchery—(1) Migratory game bird hunting. We allow duck, goose, coot, rail, snipe, woodcock, dove, and crow hunting on designated areas of the hatchery.

(2) Upland game hunting. We allow pheasant, bobwhite quail, ruffed and sharp-tailed grouse, Hungarian partridge, rabbit/hare, squirrel, coyote, fox, bobcat, raccoon, opossum, skunk, weasel, and woodchuck hunting on designated areas of the hatchery.

(3) Big game hunting. We allow white-tailed deer, turkey, and bear hunting on designated areas of the hatchery subject to the following conditions:

(i) You must label tree stands and ground blinds with the owner's State hunting license number. The label must be readable from the ground.

(ii) You may place tree stands and ground blinds on the hatchery only from September 1 to December 31 annually.

(b) Jordan River National Fish Hatchery—(1) Migratory game bird hunting. We allow the hunting of woodcock, dove, duck, goose, rail, snipe, coot, and crow on designated areas of the hatchery subject to the following conditions:

(i) We allow entry into the hatchery 1 hour before legal sunrise and require hunters to leave the hatchery no later than 1 hour after legal sunset.

(ii) We prohibit shooting on or over any hatchery road within 50 feet (15 meters) from the centerline.

(iii) We allow the use of dogs while hunting, provided the dog is under the immediate control of the hunter at all times.

(2) Upland game hunting. We allow hunting of rabbit/hare, squirrel, coyote, fox, bobcat, raccoon, opossum, skunk, weasel, and woodchuck on designated areas of the hatchery subject to the following condition: The conditions set forth at paragraphs (b)(1)(i) through (iii) of this section apply.

(3) Big game hunting. We allow hunting of bear, white-tailed deer, and turkey on designated areas of the hatchery and subject to the following conditions:

(i) The conditions set forth at paragraphs (b)(1)(i) through (iii) of this section apply.

(ii) We allow the use of portable stands and blinds for hunting, and hunters must remove them at the end of each day.

(iii) You must label tree stands with the owner's Department of Natural Resources sportcard number. The label, printed in legible English that can be easily read from the ground, must be affixed to the stand.

(c) Leadville National Fish Hatchery—(1) Migratory game bird hunting. We allow migratory game bird hunting on designated areas of the hatchery.

(2) Upland game hunting. We allow upland game hunting on designated areas of the hatchery.

(3) Big game hunting. We allow big game hunting on designated areas of the hatchery subject to the following conditions:

(i) You must label tree stands and ground blinds with the owner's State hunting license number. The label must be readable from the ground.

(ii) You may place tree stands and ground blinds on the refuge only from September 1 to December 31 annually.

(4) Sport fishing. See § 71.12(k) for hatchery-specific fishing regulations for this hatchery.

(d) Leavenworth National Fish Hatchery—(1) Migratory game bird hunting. We allow migratory game bird hunting on designated areas of the hatchery subject to the following condition: We allow the use of dogs for hunting in accordance with State of Washington hunting regulations.

(2) Upland game hunting. We allow upland game hunting on designated areas of the hatchery subject to the following condition: We allow the use of dogs for hunting in accordance with State of Washington hunting regulations.

(3) Big game hunting. We allow big game hunting on designated areas of the hatchery subject to the following condition: We allow the use of dogs for hunting in accordance with State of Washington hunting regulations.

(4) Sport fishing. See § 71.12(l) for hatchery-specific fishing regulations for this hatchery.

(e) Little White Salmon National Fish Hatchery—(1) Migratory bird hunting. We allow hunting of crow on designated areas of the hatchery subject to the following conditions:

(i) We only allow portable blinds and temporary blinds constructed of nonliving natural materials. Hunters must remove all equipment at the end of each day's hunt.

(ii) We allow the use of dogs when hunting.

(2) Upland game hunting. We allow hunting of bobcat, grouse, partridge, and porcupine on designated areas of the hatchery subject to the following condition: The conditions set forth at paragraphs (e)(1)(i) and (ii) of this section apply.

(3) Big game hunting. We allow hunting of bear, elk, black-tailed deer, mule deer, and wild turkey on designated areas of the hatchery subject to the following condition: The conditions set forth at paragraphs (e)(1)(i) and (ii) of this section apply.

(4) Sport fishing. See § 71.12(m) for hatchery-specific fishing regulations for this hatchery.

(f) Southwest Native Aquatic Resources and Recovery Center—(1) Migratory game bird hunting. We allow the hunting of sandhill crane, light and dark goose, duck, merganser, coot, mourning and white-winged dove, and band-tailed pigeon on designated areas of the center.

(2) Upland game hunting. We allow the hunting of Eurasian collared dove; dusky (blue) grouse; pheasant; scaled quail; and Abert's, red, gray, and fox squirrel on designated areas of the center.

(3) [Reserved]

(g) Spring Creek National Fish Hatchery—(1) Migratory bird hunting. We allow hunting of crow on designated areas of the hatchery subject to the following conditions:

(i) We only allow portable blinds and temporary blinds constructed of nonliving natural materials. Hunters must remove all equipment at the end of each day's hunt.

(ii) We allow the use of dogs when hunting.

(2) Upland game hunting. We allow hunting of bobcat, grouse, partridge, and porcupine on designated areas of the hatchery subject to the following condition: The conditions set forth at paragraphs (g)(1)(i) and (ii) of this section apply.

(3) Big game hunting. We allow hunting of bear, elk, black-tailed deer, mule deer, and wild turkey on designated areas of the hatchery subject to the following condition: The conditions set forth at paragraphs (g)(1)(i) and (ii) of this section apply.

(4) Sport fishing. See § 71.12(o) for hatchery-specific fishing regulations for this hatchery.

52. Amend § 71.12 by:

a. Redesignating paragraphs (g) through (m) as paragraphs (k) through (q), respectively; paragraphs (b) through (f) as paragraphs (e) through (i), respectively; and paragraph (a) as paragraph (c); and

b. Adding new paragraphs (a), (b), (d), (j), and (r).

The additions read as follows:

§ 71.12 National fish hatcheries open for sport fishing.

* * * * *

(a) Abernathy Fish Technology Center. We allow sport fishing on designated areas of the center.

(b) Berkshire National Fish Hatchery. We allow sport fishing on designated areas of the hatchery subject to the following conditions:

(1) Anglers must abide by posted signage.

(2) Anglers must remain at least 50 feet away from raceways and fish culture areas to maintain biosecurity of stocked fish populations.

(3) On the Konkapot River, we prohibit angling equipment, including, but not limited to, live bait, boots, and rods, near the areas described in paragraph (b)(2).

(4) We limit access to Outreach Pond to youth (ages 13 and younger), supervised by an adult at all times.

(5) We allow fishing on Outreach Pond during open hatchery hours only.

(6) We prohibit the use of baitfish, shiners, and minnows in the Outreach Pond.

(7) We prohibit all fishing methods of take besides rods on Outreach Pond.

(8) We allow a daily creel limit of three (3) fish per individual at Outreach Pond. There is no creel limit during fishing derbies.

(9) We prohibit fishing during the winter in Outreach Pond.

(10) We prohibit the use of all lead, including tackle containing lead, when fishing in Outreach Pond.

* * * * *

(d) Dwight D. Eisenhower National Fish Hatchery. We allow sport fishing on designated areas of the hatchery subject to the following conditions:

(1) Anglers must abide by posted signage.

(2) Anglers must remain at least 50 feet away from the water intake from Furnace Brook, raceways, and fish culture areas for safety and to maintain biosecurity of stocked fish populations.

(3) We prohibit angling equipment, including, but not limited to, live bait, boots, and rods, near the areas described in paragraph (d)(2).

* * * * *

(j) Lamar National Fish Hatchery. We allow sport fishing on designated areas of the hatchery subject to the following condition: We only allow sport fishing from legal sunrise to legal sunset.

* * * * *

(r) Willard National Fish Hatchery. We allow sport fishing on designated areas of the hatchery.

Dated: March 20, 2020.
George Wallace,
Assistant Secretary for Fish and Wildlife and Parks.

[FR Doc. 2020-06258 Filed 4-8-20; 8:45 am]

BILLING CODE 4333-15-P